POSTAL SERVICE

39 CFR Part 111

Proposed Changes to the Domestic Mail Manual To Implement Docket No. R2001-1

AGENCY: Postal Service.

ACTION: Proposed rule.

SUMMARY: On September 24, 2001, the United States Postal Service, in conformance with sections 3622 and 3623 of the Postal Reorganization Act (39 U.S.C. 101 et seq.), filed a request for a recommended decision by the Postal Rate Commission (PRC) on proposed rate, fee, and classification changes. The PRC designated this filing as Docket No. R2001-1 and issued a notice of filing in Order No. 1324 on September 26, 2001.

On October 25, 2001, the PRC directed the participants to consider the possibility of a settlement. Noting the extraordinary national events experienced during September, and the potential effects that changed circumstances might have on the Postal Service's request, the PRC requested all participants consider whether substantial agreement on issues and objectives might permit a beneficial resolution of the proceeding.

Counsel for the Postal Service, the Office of the Consumer Advocate, and participating intervenors discussed the issues presented by this case at conferences on October 30, and November 16, 2001, to which all intervenors and the Office of the Consumer Advocate were invited. The Postal Service also consulted with intervenors individually and in smaller groups.

On December 17, 2001, the Postal Service filed a Stipulation and Agreement for settlement of Docket No. R2001-1, together with a motion for the establishment of preliminary procedures and a schedule. On December 26, 2001, the Postal Service with concurrence of its Board of Governors agreed to changes in the terms of the Stipulation and Agreement. These changes included specifying June 30, 2002, rather than June 2, 2002, as the earliest effective date for rate, fee, and classification changes. The revision also restored the rates for intra- and inter-BMC parcel post back to the levels originally proposed in the September 24, 2001 request. Between December 26, 2001, and January 17, 2002, fifty parties adhered to the terms of the revised settlement by signing the agreement.

On January 17, 2002, the Postal Service filed a second revised Stipulation and Agreement that included several relatively minor changes in the rates proposed for the Enhanced Carrier Route (ECR) subclass of Standard Mail. In all other respects, the Stipulation and Agreement remained the same. Subsequently, six additional parties adhered to the settlement agreement. Only one participant opposed the settlement.

The PRC will hold hearings to consider the opposition to the settlement. It will then issue a recommended decision to the Postal Service Board of Governors, who will act on it. If the recommendations are approved, the Board of Governors will establish an effective date.

At this time, the Postal Service is publishing this proposed rule which provides information on the implementing standards for the rate, fee, and classification changes the Postal Service proposes to adopt if the terms of the second revised Stipulation and Agreement are consistent with the PRC's recommended decision on R2001-1 and if the Governors of the Postal Service, acting pursuant to 39 U.S.C. 3625, approve that recommended decision.

DATES: Comments must be received on or before March 1, 2002.

ADDRESSES: Send written comments to the Manager, Mail Preparation and Standards, U.S. Postal Service, 1735 North Lynn Street, Room 3025, Arlington, VA 22209-6038. Written comments may be submitted via fax to 703-292-4058. Copies of all written comments will be available for inspection and photocopying between 9 a.m. and 4 p.m., Monday through Friday, at Postal Service Headquarters Library, 475 L'Enfant Plaza SW., Room 11800, Washington, DC 20260-1540.

FOR FURTHER INFORMATION CONTACT: General contact for all subjects: Jane Stefaniak, 703-292-3548.

For Express Mail and Priority Mail: Karen Magazino, 703-292-3644.

For First-Class Mail and Standard Mail: Anne Emmerth, 703-292-3641.

For Periodicals: Joel Walker, 703-292-3652.

For Package Services: OB Akinwole, 703-292-3643.

For Special Services: Pat Bennett, 703-292-3639.

SUPPLEMENTARY INFORMATION: The Postal Service's request in Docket No. R2001-1 and as amended in the second revised Stipulation and Agreement filed on January 17, 2002, includes classification and rate structure changes, and increases in most existing rate and fee categories. This proposed rule contains the Domestic Mail Manual (DMM) standards the Postal Service would adopt to implement R2001-1. Part A of this document summarizes the proposed revisions to the DMM by class of mail and special service category. Part B summarizes the proposed changes by DMM module and section. The text of the proposed changes to the DMM standards appear after Part B.

Comments are solicited on the proposed implementing of DMM standards that appear in this proposed rule. As information, the DMM language in this proposed rule incorporates all revisions to the DMM from previously published Federal Register final rules that have taken effect or will take effect on or before the implementation of the rates resulting from the R2001-1 rate case. As a result, the numbering and the language of the DMM sections in this proposed rule have been synchronized with these final rules and may not match the numbering and language in the current DMM 56.

A 6-month phase-in period is proposed for mailer implementation of the requirements for formatting card-rate First-Class Mail; for mail preparation and tray labeling of nonmachinable First-Class Mail and Standard Mail; and, for the tray labeling changes affecting Standard Mail Enhanced Carrier Route high density and saturation rate letters. Mailers are asked to comment both on the language of these proposed requirements and their ability to meet the proposed 6-month time frame.

Although proposed rates, rate categories, and rate structures are included in this proposed rule, they are outside the scope of this rulemaking process because they are still under review by the Postal Rate Commission. Accordingly, comments on whether the current basic automation rate for letter-size First-Class Mail and Standard Mail should be split into an automated area distribution center (AADC) rate and a mixed AADC rate, or offered at different rates, would not be appropriate. However, comments suggesting changes to the way the Postal Service would implement standards for the proposed AADC and mixed AADC rates would be appropriate.

Part A—Summary of Changes by Class of Mail

The following information details the R2001-1 proposed changes organized by class of mail and special service category. This information is intended as an overview only and should not be viewed as defining every proposed DMM revision.

1. Express Mail

a. Express Mail Rate Highlights

Overall, Express Mail rates would increase an average of 9.4%. The most significant change to the Express Mail rate structure would be to the flat-rate envelope. Currently, the rate for the Express Mail flat-rate envelope is the same as the applicable 2-pound rate. The proposed rate for the flat-rate envelope would be the ½-pound rate, which is the lowest available rate for each Express Mail service offering. The rate for the flat-rate envelope would decrease for Post Office to Addressee service from $16.25 to $13.65, but the size of the envelope would remain the same.

The indemnity included in the price of Express Mail would be reduced from $500 to $100 for both merchandise and document reconstruction. This adjustment would more closely align with general industry practice. The fee for every $100 increment of additional merchandise insurance desired above the standard $100 and up to $5,000 would be $1.00.

b. Express Mail Rate Structure

There would be no changes to the rate structure of Express Mail.

c. Express Mail Preparation Changes

There would be no changes to mail preparation requirements for Express Mail.

2. Priority Mail

a. Priority Mail Rate Highlights

Overall, Priority Mail rates would increase an average of 13.5%. Currently, the rate for the Priority Mail flat-rate envelope is the same as the 2-pound rate. The rate for the flat-rate envelope would be tied to the 1-pound rate because of the proposed rezoning of all rates from 2 to 5 pounds. The 1-pound rate would increase from $3.50 to $3.85 and remain an unzoned rate. The rate for the flat-rate envelope would decrease from the current $3.95 to the proposed rate of $3.85. The Priority Mail flat-rate envelope would continue to be the EP-14F envelope available from the Postal Service.

b. Priority Mail Rate Structure

Currently, Priority Mail rates are not zoned for pieces weighing 2 through 5 pounds, but they are zoned for pieces weighing more than 5 pounds. The weight increments from more than 1 pound and up to 5 pounds would be zoned to more accurately reflect actual costs to the Postal Service for transportation and handling.

c. Priority Mail Preparation Changes

There would be no changes to mail preparation requirements for Priority Mail.

3. First-Class Mail

a. First-Class Mail Rate Highlights

Overall, First-Class Mail rates would increase an average of 8.2%. The single-piece 1-ounce First-Class Mail rate would increase from $0.34 to $0.37, and the single-piece card rate from $0.21 to $0.23. The additional ounce rate for single-piece First-Class Mail would remain at $0.23. There would be a lower additional ounce rate for Presorted First-Class Mail.

Business mailers would see larger automation presort discounts. The carrier route automation discount and the nonautomation presort discount would remain at the current levels. The proposed increase in automation discounts and the proposed half-cent reduction in the additional-ounce rate would result in more attractive incentives, especially for large-volume First-Class Mail users who presort and mail heavier pieces.

b. First-Class Mail Rate Structure and Mail Preparation Changes

(1) Lower Additional Ounce for Presorted and Automation Rates

Currently, there is a single additional ounce rate for all pieces mailed at First-Class Mail rates. For presorted and automation pieces weighing more than 2 ounces, a heavy piece discount is deducted.

The Postal Service is proposing a lower additional ounce rate for First-Class Mail sent at Presorted and automation rates (including automation carrier route). Pieces mailed at single-piece rates would pay $0.23 for each additional ounce; pieces mailed at any discount rate would pay $0.225 for each additional ounce. This change would affect only postage rates; there would be no proposed eligibility or mail preparation changes.

(2) Automation Basic Rate Split Into Two New Rates

For automation cards and letters, the current rate structure contains a 5-digit, 3-digit, and basic rate. The proposed rate structure would split the basic rate into an automated area distribution center (AADC) rate (for all pieces in an AADC tray) and a mixed AADC rate (for all pieces in a mixed AADC tray). The AADC rate would also apply to pieces in a less-than-full origin 3-digit tray. In addition, the 3-digit sort level, which is currently required, would become optional. The first required sort level would be the AADC sort.

For automation flats, the current rate structure contains a 5-digit, 3-digit, and basic rate. The proposed rate structure would split the basic rate into an area distribution center (ADC) rate (for all pieces in an ADC package or tray) and a mixed ADC rate (for all pieces in a mixed ADC package or tray). The ADC rate also would apply to pieces in a less-than-full origin 3-digit tray. There are no proposed sortation changes for automation flats. The 5-digit sort level would still be optional; all other sort levels would be required.

(3) Format Changes for Card Rate Pieces

Formatting standards for pieces mailed at card rates are currently contained in the Domestic Mail Classification Schedule (DMCS). Specifically, the language includes prohibitions against perforations or tearing guides and restricts the kind and amount of nonaddress information (e.g., account information or billing codes) that can appear on the face of the card. Many utility companies and small businesses use postcards to send bills to customers. The Postal Service has received requests from these mailers to loosen and clarify these standards. However, because the language was contained in the DMCS, no DMM changes could be made without first revising the DMCS.

In Docket No. R2001-1, the Postal Service proposed to remove section 222.2, Restrictions, from the DMCS. Subsequently, DMM C100.2.0, which contains standards for physical construction and formatting of First-Class Mail cards, would be revised to accommodate the proposed DMCS change. The proposed DMM standards would offer more options to mailers for placing billing information on the face of the card.

Specifically, the new standards require address information to be placed within a certain space for cards claimed at the Presorted or automation card rates. Perforated cards would be required to maintain a minimum ratio of 50:50 (stock to perforations).

The Postal Service is proposing a 6-month phase-in period for mailers to comply with these format changes (see new section C100.2.8). After the phase-in period, Presorted and automation rate cards that do not meet the standards in C100.2.0 would not be eligible for card rates.

(4) Nonmachinable Surcharge

The definition of the current nonstandard surcharge would be expanded to include any physical criteria that could make a mailpiece nonmachinable. Pieces that are nonmachinable are excluded from automated processing and must be handled manually. Nonmachinable pieces also may impede mail flow or damage the mail or mail processing equipment. Manual pieces are considerably more costly to process than machinable letters.

The proposed criteria for the nonmachinable surcharge for letter-size mail would be listed in DMM C050.2.2. The nonmachinable surcharge would apply to single-piece and Presorted rate letters that weigh 1 ounce or less and meet one or more of the criteria in that section.

The nonmachinable surcharge also would apply to single-piece, Presorted, and automation rate nonletters (flats and parcels) that weigh 1 ounce or less if any one of the following applies:

(a) The piece is greater than ¼-inch thick.

(b) The length is more than 11½ inches or the height is more than 6⅛ inches.

(c) The aspect ratio (length divided by height) is less than 1.3 or more than 2.5.

The nonmachinable surcharge would be $0.12 for single-piece rate pieces and $0.055 for Presorted and automation rate pieces.

The nonmachinable criteria in C050.2.2 would not apply to pieces mailed at any card rate.

The nonmachinable surcharge also would apply to letter-size pieces (including pieces mailed at the card rate) for which the mailer has chosen the manual only (“do not automate”) option.

This proposed change is consistent with the proposed nonmachinable surcharge for Standard Mail.

In conjunction with this change, trays of machinable and nonmachinable letters would be prepared and labeled differently. The preparation for machinable letters would be similar to the current preparation for upgradable letters (including the optional 5-digit sort level); the preparation for nonmachinable pieces would be similar to the current package-based preparation for Presorted letters. The current weight limit for upgradable letters (2.5 ounces) would be replaced with a weight limit of 3.3 ounces for machinable letters. Letters heavier than 3.3 ounces that are less than ¼-inch thick would use the nonmachinable preparation and labeling but would not pay the surcharge (because it would apply only to pieces that weigh 1 ounce or less).

On tray labels, the current “NON BC” designation would be replaced with one of two designations: “MACH” for machinable pieces or “MANUAL” for nonmachinable pieces. Although Presorted cards would not be subject to the surcharge, mailers would be required to show on the tray label whether or not those pieces are machinable (for instance, a double card that is not tabbed is nonmachinable). The “MANUAL” designation would help the Postal Service direct the trays of mail to the appropriate mail processing operation. Mailers who choose the “do not automate” option would show “MANUAL” on Line 2 of the tray label, as currently required.

Software vendors should note that, as proposed, machinable and nonmachinable (manual) letters will use different content identifier numbers (CINs).

There are no proposed preparation or labeling changes for Presorted flats or parcels subject to the surcharge.

Mail preparation instructions for Presorted letter-size pieces subject to the nonmachinable surcharge would be in DMM M130. Preparation instructions for automation flats subject to the nonmachinable surcharge would not change (see current DMM M820).

The nonmachinable surcharge would be assessed on any piece mailed out as a different class of mail and returned as First-Class Mail (for instance, Standard Mail endorsed “Return Service Requested”) if the piece weighs 1 ounce or less and meets the criteria for nonmachinability in C050.2.2. Pieces returned at First-Class Mail card rates would not be subject to the nonmachinable surcharge.

The surcharge would take effect when the new rates are implemented, however, the Postal Service is proposing a 6-month phase-in period for these mail preparation and tray labeling changes.

(5) Delivery Confirmation and Signature Confirmation for First-Class Mail Parcels

The Postal Service would add two new special service options for First-Class Mail parcels: Delivery Confirmation and Signature Confirmation. Both services would be available in manual (retail) and electronic options. The fees for Delivery Confirmation would be $0.55 (retail) and $0.13 (electronic). The fees for Signature Confirmation would be $1.80 (retail) and $1.30 (electronic).

For the purposes of adding Delivery Confirmation and Signature Confirmation, a First-Class Mail parcel is defined as any piece:

(a) That has an address side with enough surface area to fit the delivery address, return address, postage, markings and endorsements, and special service label; and

(b) Is in a box or, if not in a box, is greater than ¾-inch thick at its thickest point.

This definition would provide mailers with different packaging options for their First-Class Mail parcels.

(6) Containerization and Labeling

For letter-size pieces, the definition of a full tray would change from the current threshold of 75% to 100%, with a range between 75% and 100%. The recommended default for presort software would be 85%. In addition, after the minimum volume for rate eligibility is reached (i.e., 150 pieces for a 3-digit area), overflow would be optional for all sort levels of letter trays. Also, mailers would be required to use as few trays as possible. Under current standards, a mailer could prepare one full 1-foot tray plus one less-than-full 1-foot tray; new standards would result in the preparation of a single less-than-full 2-foot tray.

On all First-Class Mail letter trays, “LTRS” would change to “LTR” and “CR-RTS” would change to “CR-RT.” This change would be necessary to allow more room for other information on the tray label.

(7) Documentation

Mailers would no longer be required to present a hard copy Form 3553, Coding Accuracy Support System (CASS) Summary Report, with their mailings. Instead, mailers or mailer agents would be required to keep this documentation on file for 1 year from the date of mailing and make it available to the Postal Service on 24-hour notice.

Software vendors and mailers should note that changes are proposed for manifest keyline rate codes (P910.3.0) and Multi-line Optical Character Reader (MLOCR) rate markings (P960.3.0) to reflect the new First-Class Mail rates.

4. Periodicals

a. Periodicals Rate Highlights

The overall proposed average increase for Periodicals would be 10%. Outside-County postage would increase on average 10.4%, while In-County postage would increase on average 1.7%. Automation discounts would increase at the 5-digit (from $0.025 to $0.03), 3-digit (from $0.035 to $0.041), and basic (from $0.042 to $0.048) presort levels. The destination delivery unit (DDU) discount would increase (from $0.017 to $0.018), while the destination sectional center facility (DSCF) discount would remain at $0.008. The proposed new destination area distribution center (DADC) discount would be $0.002.

Original entry and additional entry application fees are proposed to increase from $350 to $375 and from $50 to $60, respectively, while the fees for reentry and news agent registry would remain at $40.

b. Periodicals Rate Structure and Mail Preparation Changes

(1) Proposed Changes

Proposed changes to the rate design for Periodicals are as follows:

(a) New DADC discounts for Outside-County and Science-of-Agriculture Periodicals that would be deducted from the pound and addressed per piece rates.

(b) A change that would limit destination rates and discounts to mail entered at destination facilities (DDU, DSCF, and DADC).

(c) A new per piece discount for each addressed nonletter-size piece (flat-size and irregular parcel) prepared in packages on pallets that contain at least 250 pounds of mail (except overflow pallets). This discount would apply to all pallet levels. The discount would not apply to pieces in sacks on pallets or in trays on pallets.

(d) In addition to the per piece pallet discount, a new destination entry per piece pallet discount would apply to each addressed piece of nonletter-size mail (flats and irregular parcels) prepared in packages on any destination entry pallet of at least 250 pounds of mail (except overflow pallets). The discount is not available for pieces in sacks or trays on pallets.

In conjunction with the nommachinable surcharge, it is proposed that any Periodical returned to the sender at First-Class Mail rates is subject to the nonmachinable surcharge if the piece weighs 1 ounce or less and meets any one of the nonmachinable criteria in C050.2.2.

(2) Periodicals Ride-Along

The Ride-Along experiment would become a permanent classification. There would be no proposed changes in the current standards for eligibility. However, publishers would no longer be required to complete a data collection questionnaire, provide a sample in addition to the marked copy, or submit an additional copy of Form 3541-X (postage statement). Form 3541-X would be discontinued and mailers would use Form 3541. The standards for Ride-Along would be relocated to new DMM E260. The Ride-Along rate would increase from $0.10 to $0.124 per piece.

(3) Containerization

For letter-size pieces, the definition of a full tray would change from the current threshold of 75% to 100%, with a range between 75% and 100%. The recommended default for presort software would be 85%. In addition, after the minimum volume for rate eligibility is reached (i.e., 150 pieces for a 3-digit area), overflow would be optional for all sort levels of letter trays. Also, mailers would be required to use as few trays as possible. Under current standards, a mailer could prepare one full 1-foot tray plus one less-than-full 1-foot tray; new standards would result in the preparation of a single less-than-full 2-foot tray.

In addition, the measurement for the minimum volume of trays on pallets would be measured in linear feet, not by the number of layers of trays.

(4) Documentation

Mailers would no longer be required to present a hard copy Form 3553, Coding Accuracy Support System (CASS) Summary Report, with their mailings. Instead, mailers or mailer agents would be required to keep this documentation on file for 1 year from the date of mailing and make it available to the Postal Service on 24-hour notice.

5. Standard Mail

a. Standard Mail Rate Highlights

Overall, Standard Mail rates would increase an average of 7.3%. On average, within each subclass, rates for flat-size mail would increase more than rates for letter-size mail. Regular rates would increase an average of 8% and nonprofit rates would increase an average of 6.7%. As proposed, greater destination entry discounts would provide an incentive for mailers to use their own or third-party transportation to move Standard Mail closer to the point of delivery.

b. Standard Mail Rate Structure and Mail Preparation Changes

(1) Automation Basic Letter Rate Split Into Two New Rates

For automation letter-size pieces, the current rate structure contains a 5-digit, 3-digit, and basic rate. The proposed rate structure would split the basic rate into an AADC rate (for all pieces in an AADC tray) and a mixed AADC rate (for all pieces in a mixed AADC tray). The AADC rate also would apply to all pieces in any less-than-full origin or entry 3-digit or 3-digit scheme tray. There are no proposed sortation changes for automation letter-size pieces. The 5-digit sort level would still be optional; all other sort levels would be required.

Unlike in First-Class Mail, where the proposed ADC and mixed ADC rates would apply to automation flats, there are no proposed changes to the rate structure for Standard Mail automation flats.

(2) Nonmachinable Surcharge

A nonmachinable surcharge is proposed for Standard Mail letter-size pieces; the definition would include any physical criteria that could make a mailpiece nonmachinable. Pieces that are nonmachinable are excluded from automated processing and must be handled manually. Nonmachinable pieces also may impede mail flow or damage the mail or mail processing equipment. Manual letters are considerably more costly to process than machinable letters.

The proposed criteria for nonmachinability for letter-size pieces are in DMM C050.2.2. The nonmachinable surcharge would apply to Presorted rate letter-size pieces (including cards) that weigh 3.3 ounces or less and meet one or more of the criteria in that section.

Unlike First-Class Mail, where the nonmachinable surcharge would also apply to flats, the Postal Service is not proposing to add a nonmachinable surcharge to Standard Mail flats. The Standard Mail rate structure includes separate rates for letters and nonletters and factors in the extra costs of handling nonmachinable nonletters.

The nonmachinable surcharge would be $0.04 per piece for regular rate pieces and $0.02 per piece for nonprofit rate pieces.

The nonmachinable surcharge also would apply to Presorted rate letter-size pieces for which the mailer has chosen the “manual only” (do not automate) option.

This proposed change is consistent with the proposed nonmachinable surcharge for First-Class Mail.

In conjunction with this change, trays of machinable and nonmachinable letters would be prepared and labeled differently. The preparation for machinable letters would mirror the current preparation for upgradable letters (including the optional 5-digit sort level). The preparation for nonmachinable pieces would mirror the current package-based preparation for Presorted letters. The current weight limit for upgradable letters (2.5 ounces) would be replaced with a weight limit of 3.3 ounces for machinable letters.

On tray labels, the current “NON BC” designation would be replaced with one of two designations: “MACH” for machinable pieces or “MANUAL” for nonmachinable pieces. The “MANUAL” designation would help the Postal Service direct the trays of mail to the appropriate mail processing operation. Mailers who choose the “do not automate” option would show “MANUAL” on Line 2 of the tray label, as currently required.

Software vendors should note that, as proposed, machinable and nonmachinable (manual) letters will use different content identifier numbers (CINs).

Mail preparation instructions for Standard Mail pieces subject to the nonmachinable surcharge are found in DMM M610.

In a mailing of nonmachinable letter-size pieces, residual pieces sent at First-Class Mail rates would be subject to the First-Class Mail nonmachinable surcharge only if the pieces weigh 1 ounce or less. Heavier pieces would not be subject to the First-Class Mail nonmachinable surcharge, even though those same pieces would have been subject to the Standard Mail nonmachinable surcharge if they had remained in the Standard Mail mailing. Additionally, residual pieces that are mailed at First-Class Mail card rates would not be subject to the nonmachinable surcharge.

Standard Mail pieces that are returned as First-Class Mail (for instance, an undeliverable piece endorsed “Return Service Requested”) would be charged the nonmachinable surcharge if the piece weighs 1 ounce or less and meets the criteria for nonmachinability in C050.2.2. The nonmachinable surcharge also would be figured into the calculation for the weighted fee for pieces that weigh 1 ounce or less. The nonmachinable surcharge would not be charged on pieces returned at First-Class Mail card rates.

The surcharge would take effect when the new rates are implemented, however, the Postal Service is proposing a 6-month phase-in period for these mail preparation and tray labeling changes.

(3) Heavier Letters Are Eligible for Automation Rates

The maximum weight limit for automation letters would increase from 3.3 ounces to 3.5 ounces (inclusive). These pieces would be charged postage equal to the automation piece/pound rate for that piece and receive a discount equal to the automation nonletter piece rate (3.3 ounces or less) minus the corresponding automation letter piece rate (3.3 ounces or less) for the appropriate sort level. This change applies to regular and nonprofit automation letters.

For instance, each heavy automation letter sorted to a 5-digit tray would receive a discount equal to the 3/5 automation nonletter rate minus the 5-digit automation letter rate.

As an example, using the proposed postage rates, a regular automation letter weighing 3.4 ounces that is sorted in a 3-digit tray for DSCF entry would be charged:

Nonletter piece rate (more than 3.3 ounces), 3/5 rate | $0.115
Plus |
Nonletter pound rate (more than 3.3 ounces), 3/5 rate, DSCF entry (3.4 ounces divided by 16 ounces equals 0.2125 pounds, multiplied by $0.583 per pound) (rounding off to four decimal places) | 0.1239
Equals | 0.2389
Minus a discount that equals the 3/5 nonletter piece rate (3.3 ounces or less) for DSCF entry minus the 3-digit letter piece rate (3.3 ounces or less) for DSCF entry (0.235 minus 0.177) | −.058
Equals postage per piece | 0.1809

This proposed change would allow mailers to avoid the substantial rate increase for letter-shaped pieces exceeding 3.3 ounces. Under the current rate schedule, once an automation letter exceeds the 3.3-ounce maximum weight, the piece become subject to the piece/pound rates.

There are no proposed mail preparation changes that accompany this change; these heavy letters would be required to meet the current standards for heavy automation letters in DMM C810.7.5 and would use the existing mail preparation sequence and labeling for automation letters. Mailers who choose to take this discount for heavy automation letters would be required to use a new postage statement to be designed for this purpose.

Current standards for mixed rate mailings would not change. Pieces from a heavy letter mailing that cannot be barcoded would be mailed at single-piece First-Class Mail rates or prepared as a Presorted Standard Mail letter mailing with postage paid at the piece/pound rate (for pieces over 3.3 ounces). Like today, these residual pieces would not need to meet a separate 200-piece or 50-pound minimum (see DMM E620.1.2).

(4) Barcode Requirement for ECR Letter-Size Pieces

Enhanced Carrier Route (ECR) letter-size pieces mailed at high-density and saturation per piece rates would be required to meet the physical standards for automation-compatible mail in DMM C810 and would be required to have a delivery point barcode. Pieces using simplified address would not be required to have a delivery point barcode, and therefore, would not need to meet the physical standards for automation-compatible mail.

This change would apply to both ECR and Nonprofit ECR.

Requiring high density and saturation letters to be barcoded would give the Postal Service operational flexibility and would eliminate the need to barcode these pieces before delivery point sequencing (DPS). The Postal Service updates its DPS sort plans daily. Therefore, any changes in route assignments between carriers are captured in the DPS process daily; mailers are permitted to use carrier route information that could be up to 90 days old.

The proposed automation-compatible requirement corresponds to the requirement for a delivery point barcode—for the Postal Service to read the barcode, the piece must be compatible with automated mail sorting equipment. These requirements would not apply to detached address labels (DALs) that accompany flat-size pieces or irregular parcels. Even though the DAL itself is letter-sized, technically it is the label for the larger piece.

Pieces that do not meet the physical standards in C810 or that do not contain a delivery point barcode would be subject to the corresponding ECR high density or saturation nonletter rate. Pieces that are letter-size but claimed at the nonletter rates would be marked, sorted, and trayed as letters. Mailers also would have the option to pay the ECR basic letter rate (for which barcodes are not required).

There are no proposed changes to the sequencing requirements, markings, or sortation for ECR pieces. Tray labels would change to reflect whether the pieces in the tray are barcoded (“BC”), not barcoded but machinable (“MACH”), or nonmachinable, regardless of whether the pieces are barcoded (“MANUAL” or “MAN”). These designations help the Postal Service direct the trays of mail to the appropriate mail processing operation. Mailers would be required to use barcoded tray labels.

Pieces mailed with a simplified address format do not contain the necessary address elements to generate a delivery point barcode for that address. To qualify for the high density or saturation letter rates, those pieces would not have to bear a delivery point barcode, would not have to be automation-compatible, and would be labeled “MAN” (even if the pieces are automation-compatible).

Pieces mailed with an exceptional or occupant address format (A040) do contain the enough address elements to generate a delivery point barcode, and therefore, must be automation-compatible and must have a delivery point barcode in order to claim the high density or saturation letter rates.

Software vendors should note that, as proposed, within each of the three processing categories, the same content identifier number (CIN) would be used for all direct carrier route trays (full trays of mail for a single carrier route).

Mailers would not be permitted to combine barcoded and nonbarcoded pieces into the same mailing. As an example, a mailer has 200 pieces to a single carrier route but was able to barcode only 175 of those pieces. The barcoded pieces would be placed in a direct carrier route tray and would qualify for the saturation letter rate. The remaining 25 nonbarcoded pieces would qualify for the saturation nonletter rate (saturation because the density requirement has been met, nonletter because the pieces do not meet the new barcode requirement) but cannot be placed in the direct carrier route tray. Instead, the nonbarcoded pieces would be packaged in walk sequence and placed in a 5-digit carrier routes tray or a 3-digit carrier routes tray with other carrier route packages of nonbarcoded mail. It is possible that, for a single 5-digit destination, a mailer could create two 5-digit carrier routes trays: one that contains packages of barcoded mail, and one that contains packages of nonbarcoded mail.

The new requirements for high density and saturation letters would take effect when the new rates are implemented; however, the Postal Service is proposing a 6-month phase-in period for the tray label changes.

A minor change would be made to the wording in the DMM for how to qualify for high density rates. Currently, there are two ways to meet the density requirement: there must be at least 125 pieces for a single carrier route or, if there are fewer than 125 possible deliveries on the route, a piece must be addressed to every delivery on the route. To qualify for saturation rates, pieces must be addressed to at least 90% of the active residential deliveries or at least 75% of the total active deliveries. If a customer is meeting the high density standard by addressing a piece to each possible delivery (100%), then they also would qualify for saturation rates under either the 90% standard or the 75% standard, and would of course claim the lower saturation rate. Therefore, because no mailer would ever choose to qualify for the high density rate via the 100% standard, it would be eliminated.

(5) Heavier ECR Saturation and High Density Letters Are Eligible for Letter Rates

The maximum weight limit for automation-compatible ECR letters would increase from 3.3 ounces to 3.5 ounces (inclusive). These pieces would be charged postage equal to the nonletter piece/pound rate for that piece and receive a discount equal to the nonletter piece rate (3.3 ounces or less) minus the corresponding letter piece rate (3.3 ounces or less) for the appropriate sort level. This proposed change would apply to regular and nonprofit ECR saturation and high density letters.

For regular ECR, the discount would be $0.005 per piece for high density letters and $0.008 per piece for saturation letters. For nonprofit ECR, the discount would be $0.008 per piece for high density letters and $0.009 per piece for saturation letters.

This change also would apply to pieces mailed at the ECR automation basic rate, but the calculation is slightly different because there are no corresponding nonletter rates with which to perform the calculation. These pieces would be charged postage equal to the basic nonletter piece/pound rate and receive a discount equal to the basic letter rate minus the automation basic letter rate. For regular ECR, the discount would be $0.023 per piece. For nonprofit ECR, the discount would be $0.015 per piece.

In this proposal, all pieces mailed at high density and saturation letter rates will be automation-compatible; therefore, this change is consistent with the proposed change for regular Standard Mail heavy automation letters. This change would not apply to letter-size pieces that are mailed at the nonletter rates (because they are not automation compatible or do not have a barcode).

This change would not apply to pieces mailed at the ECR basic letter rate (because the letter and nonletter rates are the same, there would be no discount to subtract) or to pieces mailed at the ECR automation basic letter rate (because there are no corresponding nonletter rates with which to perform the rate calculation) (see R600.2.0 and R600.4.0).

As an example, using the proposed postage rates, a high density letter weighing 3.4 ounces that is prepared for DSCF entry would be charged:

Nonletter piece rate (more than 3.3 ounces), high density | $0.043
Plus |
Nonletter pound rate (more than 3.3 ounces), high density, DSCF entry (3.4 ounces divided by 16 ounces equals 0.2125 pounds, multiplied by $0.485 per pound) (rounded off to four decimal places) | 0.1031
Equals | 0.1461
Minus a discount that equals the high density nonletter piece rate (3.3 ounces or less) for DSCF entry minus the high density letter piece rate (3.3 ounces or less) for DSCF entry (0.143 minus 0.138) | −.005
Equals postage per piece | $0.1411

This proposed change would allow mailers to avoid the substantial rate increase for letter-shaped pieces exceeding 3.3 ounces. Under the current rate schedule, once an ECR letter exceeds the 3.3-ounce maximum weight, the pieces become subject to the piece/pound rates.

There are no proposed mail preparation changes that accompany this change; these heavy letters would be required to meet the current standards for heavy automation letters in DMM C810.7.5 and would use the existing mail preparation sequence and labeling for ECR letters. Mailers who choose to take this discount for heavy letters would be required to use a new postage statement to be designed for this purpose.

(6) Containerization and Labeling

For letter-size pieces, the definition of a full tray would change from the current threshold of 75% to 100%, with a range between 75% and 100%. The recommended default for presort software would be 85%. In addition, after the minimum volume for rate eligibility is reached (i.e., 150 pieces for a 3-digit area), overflow would be optional for all sort levels of letter trays. Also, mailers would be required to use as few trays as possible: Under current standards, a mailer could prepare one full 1-foot tray plus one less-than-full 1-foot tray; new standards would result in the preparation of a single less-than-full 2-foot tray.

In addition, the minimum volume of trays on pallets would be measured in linear feet, not by the number of layers of trays.

On all Standard Mail letter trays, “LTRS” would change to “LTR” and “CR-RTS” would change to “CR-RT.” This change would be necessary to allow more room for other information on the tray label.

(7) Documentation

Mailers would no longer be required to present a hard copy Form 3553, Coding Accuracy Support System (CASS) Summary Report, with their mailings. Instead, mailers or mailer agents would be required to keep this documentation on file for 1 year from the date of mailing and make it available to the Postal Service on 24-hour notice.

Software vendors and mailers should note that changes are proposed for manifest keyline rate codes (P910.3.0) and Multi-line Optical Character Reader (MLOCR) rate markings (P960.3.0) to reflect the new Standard Mail rates.

6. Package Services

There are four subclasses of Package Services: Parcel Post, Bound Printed Matter, Media Mail, and Library Mail. Each subclass is addressed separately in items 7 through 10.

7. Parcel Post

a. Parcel Post Rate Highlights

Parcel Post rates would increase an average of 10%. The nonmachinable surcharge for Inter-BMC Parcel Post would increase from $2.00 to $2.75 per parcel. The Intra-BMC and DBMC nonmachinable surcharges would remain at their current levels: $1.35 for Intra-BMC parcels and $1.45 for DBMC parcels. The Parcel Post Origin BMC Presort and BMC Presort discounts would increase from $0.90 to $1.17 and $0.23 to $0.28 per piece, respectively. The barcoded discount for qualifying Parcel Post (including Parcel Select) machinable parcels would remain at $0.03 per piece.

b. Parcel Post Rate Structure

Two changes are proposed. First, Parcel Select pieces would be eligible for no-fee electronic Delivery Confirmation. The other change would create a DSCF rate for nonmachinable parcels sorted to 3-digit ZIP Code prefixes and entered at destination SCFs. The pieces would be charged a surcharge of $1.09 per parcel in addition to the applicable DSCF rate.

c. Parcel Post Mail Preparation Changes

Except for a new 3-digit nonmachinable parcel preparation option added for DSCF rate mail, there would be no other changes to the preparation requirements for Parcel Post and Parcel Select.

8. Bound Printed Matter

a. Bound Printed Matter Rate Highlights

The Bound Printed Matter (BPM) rates would increase an average of 9.1%. Destination entry mailings would be eligible for discounts that encourage the deposit of mail at the destination BMC, SCF, or delivery unit. There are two major changes to BPM rates: Separate rates for BPM flats and parcels, and a new POSTNET barcoded discount for single-piece rate and presorted rate BPM flats. The parcel barcoded discount for presorted rate BPM single-piece and presorted rate machinable parcels would remain at $0.03 per piece.

b. Bound Printed Matter Rate Structure

Rates for flat-size BPM would be lower than the rates for BPM parcels in all three rate categories (single-piece, presorted, and carrier route) and in the three available destination entry rates (DDU, DSCF, and DBMC). A $0.03 discount would be available for single-piece and presorted rate BPM flats prepared with a POSTNET barcode. To qualify for the barcoded discount, BPM flats would be required to meet the standards in DMM C820 for flat sorting machine (FSM) 881 processing.

c. Bound Printed Matter Mail Preparation Changes

BPM barcoded flats would be prepared using the standards in DMM M820.

9. Media Mail

a. Media Mail Rate Highlights

Media Mail rates would increase an average of 4%.

b. Media Mail Rate Structure

There would be one fundamental change to the Media Mail rate structure. The 5-digit rate would be retained, but the BMC rate would be renamed the basic rate.

c. Media Mail Preparation Changes

There would be two changes to the preparation requirements for Media Mail. The BMC sort level would be renamed the basic sort level. This change would allow the Postal Service to adjust the presort requirements for Media Mail to reflect current processing. Machinable parcels would continue to be presorted to BMCs using the new basic rate level.

The second change would eliminate the requirement for separate minimum volumes for each presort level and would reduce the minimum volume requirement for a mailing from 500 to 300 pieces. To qualify for presorted Media Mail, mailers would be required to have a minimum of 300 properly prepared and presorted pieces. Pieces in the mailing that meet 5-digit rate requirements would be eligible for the 5-digit rate. The remaining pieces in the mailing would be eligible for the basic rate.

10. Library Mail

a. Library Mail Rate Highlights

Library Mail rates would increase an average of 3.3%.

b. Library Mail Rate Structure

There would be one fundamental change to the Library Mail structure. The 5-digit rate would be retained, but the BMC rate would be renamed the basic rate.

c. Library Mail Preparation Changes

There would be two changes to the preparation requirements for Library Mail. The BMC sort level would be renamed the basic sort level. This change would allow the Postal Service to adjust the presort requirements for Library Mail to reflect current processing. Machinable parcels would continue to be presorted to BMCs using the new basic rate level.

The second change would eliminate the requirement for separate minimum volumes for each presort level and would reduce the minimum volume requirement for a mailing from 500 to 300 pieces. To qualify for presorted Library Mail, mailers would be required to have a minimum of 300 properly prepared and presorted pieces. Pieces in the mailing that meet the 5-digit rate requirements would be eligible for the 5-digit rate. The remaining pieces in the mailing would be eligible for the basic rate.

11. Special Services and Other Services

a. Special Services Highlights

(1) Bulk Parcel Return Service (DMM S924)

The annual accounting fee for bulk parcel return service (BPRS) would increase from $375 to $475. The annual permit fee would increase from $125 to $150 and the per piece charge would increase from $1.62 to $1.80. See DMM R900.3.0.

(2) Business Reply Mail (DMM S922)

The per piece charge for high volume Qualified Business Reply Mail (QBRM) with the optional quarterly fee would decrease from $0.01 to $0.008. The QBRM quarterly fee of $1,800 for that category would remain the same. The basic QBRM per piece charge for the category without the optional quarterly fee would increase from $0.05 to $0.06. The annual permit fee for all business reply mail (BRM) would increase from $125 to $150. The monthly fee for bulk weight averaged nonletter-size BRM would increase from $600 to $750, while the per piece charge would remain the same. The annual accounting fee for advanced deposit accounts would increase from $375 to $475. The regular BRM per piece charge without an annual accounting fee would increase from $0.35 to $0.60 per piece. See DMM R900.4.0.

(3) Certificate of Mailing (DMM S914)

Certificate of mailing fees would increase. For individual pieces, the original certificate would increase from $0.75 to $0.90, the firm mailing book (Form 3877) would increase from $0.25 to $0.30 for each piece listed, and the charge for a duplicate copy would increase from $0.75 to $0.90.

For bulk pieces (Form 3606), fees for the first 1,000 pieces or fraction thereof would increase from $3.50 to $4.50. Each additional 1,000 pieces or fraction thereof would increase from $0.40 to $0.50, and the charge for a duplicate copy would increase from $0.75 to $0.90. Additional mailpieces listed on Form 3877 and having postage paid with a permit imprint would be permitted to pay the certificate of mailing fee using a permit imprint account. See DMM R900.6.0.

(4) Certified Mail (DMM S912)

The certified mail fee would increase from $2.10 to $2.30. A new service enhancement would be introduced to allow mailers to access delivery information for certified mail over the Internet at www.usps.com by providing the certified article number. See DMM R900.7.0.

(5) Collect on Delivery (DMM S921)

There would be no change to the current collect on delivery (COD) fees. See DMM R900.8.0.

(6) Delivery Confirmation (DMM S918)

Retail (manual) and electronic Delivery Confirmation options would be extended to First-Class Mail parcels. For Package Services, Delivery Confirmation would be restricted to parcels only and would no longer be available for flat-size mail. For First-Class Mail parcels, the fee would be $0.13 for the electronic option and $0.55 for the retail option. The fee for the retail option for Priority Mail would increase from $0.40 to $0.45. For Standard Mail, the fee for the electronic option would increase from $0.12 to $0.13. For Parcel Select, the electronic option would be included in postage. For all other Package Services, the fee would increase from $0.12 to $0.13 for the electronic option and from $0.50 to $0.55 for the retail option. See DMM R900.9.0.

For the purposes of adding Delivery Confirmation, a parcel would be defined as any piece that has an address side with sufficient surface area to fully display the delivery address, return address, postage, markings and endorsements, and the Delivery Confirmation label. The parcel would be required to be in a box, or if not in a box, would be required to be more than ¾-inch thick at its thickest point.

(7) Express Mail Insurance (DMM S500)

Insurance coverage included with Express Mail service would be lowered from $500 to $100. Incremental fees would be applied at $1.00 per each $100 of desired merchandise insurance coverage over $100. Document reconstruction maximum liability would decrease from $500 to $100. See DMM R900.11.0.

(8) Insurance (DMM S913)

The fee for unnumbered insurance of up to $50 (no insured number applied) would increase from $1.10 to $1.30. The fee for numbered insurance service over $50 and up to $100 (insured number applied) would increase from $2.00 to $2.20. The incremental fee of $1.00 for each $100 in value over $100 and up to $5,000 would remain the same. See DMM R900.12.0.

(9) Merchandise Return Service (DMM S923)

The annual accounting fee for merchandise return service would increase from $375 to $475. The annual permit fee would increase from $125 to $150. See DMM R900.14.0.

(10) Money Orders (DMM S020)

There would be two classification changes for money orders. The first change would increase the maximum amount from $700 to $1,000 for both domestic and APO/FPO money orders. The second change would introduce a two-level fee structure for domestic money orders. The fee for amounts of $0.01 to $500 would be $0.90, and the fee for amounts of $500.01 to $1,000 would be $1.25. The inquiry fee would increase from $2.75 to $3.00. The fee for APO/FPO money orders would remain the same. See DMM R900.16.0.

(11) Parcel Airlift (DMM S930)

Parcel Airlift (PAL) fees would increase. For parcels weighing not more than 2 pounds, the fee would increase from $0.40 to $0.45. For parcels not more than 3 pounds, the fee would increase from $0.75 to $0.85. For parcels not more than 4 pounds, the fee would increase from $1.15 to $1.25. For parcels over 4 pounds but not more than 30 pounds, the fee would increase from $1.55 to $1.70. See DMM R900.17.0.

(12) Registered Mail (DMM S911)

All registered mail fees would increase. The fee for registered mail without insurance would increase from $7.25 to $7.50. The incremental fee for registered mail with insurance per declared value level would increase from $0.75 to $0.85. The handling charge per $1,000 in value or fraction thereof for items valued over $25,000 also would increase from $0.75 to $0.85. A new service enhancement would be introduced to allow mailers to access delivery information for registered mail over the Internet at www.usps.com by providing the registered article number. See DMM R900.21.0.

(13) Restricted Delivery (DMM S916)

The fee for restricted delivery would increase from $3.20 to $3.50. See DMM R900.22.0.

(14) Return Receipt (DMM S915)

The fee for regular return receipt service would increase from $1.50 to $1.75. The fee for return receipt after mailing would decrease from $3.50 to $3.25. A new service option would offer an electronic return receipt that includes delivery information and a copy of the signature to mailers who furnish an e-mail address at the point of purchase or preregister on the Internet at www.usps.com (available Fall 2002). Mailers would also have the option to purchase a return receipt after mailing over the Internet using a credit card (available Fall 2002). The new electronic return receipt fee would be $1.30. See DMM R900.23.0.

(15) Return Receipt for Merchandise (DMM S917)

The fee for return receipt for merchandise would increase from $2.35 to $3.00. See DMM R900.24.0.

(16) Signature Confirmation (DMM S919)

Retail (manual) and electronic Signature Confirmation options would be extended to First-Class Mail parcels. For Package Services, Signature Confirmation would be restricted to parcels only and would no longer be available for flat-size mail. For First-Class Mail parcels, the fee would be $1.30 for the electronic option and $1.80 for the retail option. The fee for the retail option for Priority Mail would increase from $1.75 to $1.80. For Package Services parcels, the fee would increase from $1.25 to $1.30 for the electronic option and from $1.75 to $1.80 for the retail option. See DMM R900.26.0.

For the purposes of adding Signature Confirmation, a parcel would be defined as any piece that has an address side with sufficient surface area to fully display the delivery address, return address, postage, markings and endorsements, and the Signature Confirmation label. The parcel would be required to be in a box, or if not in a box, would be required to be more than ¾-inch thick at its thickest point.

(17) Special Handling (DMM S930)

The fees for special handling would increase from $5.40 to $5.95 for pieces weighing up to 10 pounds and from $7.50 to $8.25 for pieces weighing over 10 pounds. See DMM R900.27.0.

b. Other Services Highlights

(1) Address Correction Service (DMM F030)

The fee for manual address correction service (ACS) notices would increase from $0.60 to $0.70. The fee for automated ACS would remain the same at $0.20. See DMM R900.1.0.

(2) Address Sequencing Service (DMM A920)

The fee for carrier sequencing of address cards service would increase from $0.25 to $0.30 per card. See DMM R900.2.0.

(3) Caller Service (DMM D920)

The caller service fee for each separation provided per semiannual period would increase from $375 to $412. The fee for each reserved call number per calendar year would increase from $30 to $32. See DMM R900.5.0.

(4) Mailing List Service (DMM A910)

The charge for correction of mailing lists would increase from $0.25 to $0.30 per correction. The minimum per list charge also would increase from $7.50 to $9.00 per list. The charge for sortation of mailing lists on cards into groups labeled by 5-digit ZIP Code would increase from $73 to $100. The charge for address changes for election boards would increase from $0.23 to $0.27. See DMM R900.13.0.

(5) Meter Service (DMM P030)

The fee for on-site meter service (per employee, per visit) would increase from $31 to $35. The fee for meter resetting and/or examination would increase from $4.00 to $5.00 per meter. The fee for check in/out of service (per meter) would remain the same. See DMM R900.15.0.

(6) Permit Imprint (DMM P040)

The permit imprint application fee would increase from $125 to $150.

(7) Pickup Service (DMM D010)

The fee for pickup service, available for Express Mail, Priority Mail, and Parcel Post, would increase from $10.25 to $12.50 (per pickup). See DMM R900.18.0.

(8) Post Office Box Service (DMM D910)

Overall, post office (PO) box fees would increase. A new PO box fee category would be introduced for PO box service in the lowest-cost cities and highest-cost rural areas. This new fee group would provide a bridge to eventually move high-cost and low-cost ZIP Codes toward more appropriate fee assignments. PO box key duplication or replacement (after first two keys) would increase from $4.00 to $4.40 each. PO box lock replacement would increase from $10 to $11.

There would be no proposed change to no-fee PO box service (Group E). See DMM R900.20.0.

(9) Shipper Paid Forwarding (DMM F010)

The accounting fee would increase from $375 to $475. See DMM R900.25.0.

(10) Stamped Cards and Stamped Envelopes

The fee for stamped cards would remain the same. Special stamped envelopes (i.e., those with holograms or patch-in stamps) are no longer offered. The fees for the other types of available stamped envelopes would remain the same.

Part B—Summary of Changes to the Domestic Mail Manual

The following information details the R2001-1 proposed changes organized by DMM module. This information is intended as an overview only and should not be viewed as defining every proposed DMM revision. The actual proposed DMM changes appear in this notice after Part B.

A Addressing

A010 would be amended to remove information about upgradable mail (already included in C830) and to move Exhibit 4.5 to C830.1.0.

The title of A800 would be changed to show the standards apply to all automation-compatible mail, not just mail claimed at automation rates.

A950 would be revised to clarify that the mailer's signature on a postage statement certifies the mail meets the requirements for the rates claimed and to change the requirements for filing Form 3553, Coding Accuracy Support System (CASS) Summary Report. Mailers would no longer be required to submit Form 3553 with each mailing. They would have to retain the form on file for 1 year from the date of mailing and make it available to the Postal Service on 24-hour notice.

C Characteristics and Content

C010 would be amended to show that Standard Mail ECR pieces are subject to the standards for mailpiece dimensions and to remove information about the First-Class Mail nonstandard surcharge. C050 would be amended to add the nonmachinable criteria for letters. Exhibit C050.2.0 would be renumbered as Exhibit C050.1.0.

C100.2.0 would be revised to implement proposed changes to the Domestic Mail Classification Schedule (DMCS) for pieces mailed at First-Class Mail card rates. This DMCS change would clarify the standards for physical construction, formatting, and addressing for card rate pieces. C100.4.0 would be revised to reflect changes to the nonmachinable surcharge (formerly the nonstandard surcharge) for some First-Class Mail letters and flats.

C810 would be amended to remove references to upgradable First-Class Mail and Standard Mail, to increase the weight limit for Standard Mail automation and ECR letters to 3.5 ounces, and to clarify that signing a postage statement certifies the mail meets the requirements for the rates claimed.

C820 would be amended to add a weight limit for Bound Printed Matter flats claimed at automation flat rates.

C840 would be amended to remove references to add barcode standards for ECR saturation and high density pieces and to remove references to upgradable mail.

D Deposit, Collection, and Delivery

D210.3.4 would be amended to reflect the change that the destination sectional center facility (DSCF) rate would apply to eligible mail entered at the DSCF under exceptional dispatch. D210.4.0 would be revised to show that the DSCF rate would not apply to mail entered at airport mail facilities (AMFs).

The provisions for Periodicals contingency entries would be deleted in D230.2.2 and 4.6.

D500 would be amended to include several additional provisions that affect postage refund requests for Express Mail when the service guarantee is not met.

E Eligibility

E100

E110.3.0 would be amended to implement changes to the Domestic Mail Classification Schedule (DMCS) for pieces mailed at First-Class Mail card rates.

E120.2.2 would be amended to change the current Priority Mail flat rate priced at the 2-pound rate to the new 1-pound rate, regardless of the weight of the material placed in the flat-rate envelope. E120.2.4 reflects changes to the correct postage for keys and identification devices. When they weigh more than 13 ounces but not more than 1 pound, they would be returned at the 1-pound rate plus the fee shown in R100.10.0. Keys and identification devices that weigh more than 1 pound but not more than 2 pounds would be charged at the 2-pound Priority Mail rate plus the fee in R100.10.0.

E130 would be amended to show that the nonmachinable surcharge would apply to keys and identification devices, certain letter-size and flat-size pieces mailed at single-piece and Presorted rates, and all pieces where the mailer chooses the “manual only” (do not automate) preparation option. It also would be amended to clarify that signing a postage statement certifies the mail meets the requirements for the rates claimed.

E140 would be amended to reorganize the information about rate application into two separate sections: one for cards and letter-size mail (2.0) and one for flat-size mail (3.0). E140.2.0, Rate Application for Cards and Letters, would be amended to replace the basic rate with the new AADC and mixed AADC rates. E140.3.0, Rate Application for Flats, would be amended to replace the basic rate with the new ADC and mixed ADC rates and to clarify the definition of a piece that is subject to the nonmachinable surcharge. E140 would be amended to clarify that signing a postage statement certifies the mail meets the requirements for the rates claimed.

E200

E217.1.0 and 3.0 would be amended to reflect references to the new destination area distribution center (DADC) rates and discounts for Outside-County and Outside-County Science-of-Agriculture rates. E217.5.0 would be restructured for clarity and amended to include standards for the new per piece pallet and per piece destination entry pallet discounts.

The standards for combining multiple publications or editions in E220.3.0 and E230.4.0 would be consolidated into new M230. E220 and E240 would be amended to clarify that signing a postage statement certifies the mail meets the requirements for the rates claimed.

The proposal amends E250 by adding a new 1.0 that provides standards for new DADC rate eligibility, and renumbering former 1.0 (DSCF) and 2.0 (DDU) as 2.0 and 3.0, respectively. New E250.2.0 would reflect the change requiring DSCF rate mail to be entered at the SCF or another postal-designated facility. It is proposed to further amend E250.2.0 to clarify that DSCF rates do not apply to mail placed in an ADC, AADC, mixed ADC or mixed AADC sack or tray, or on an ADC or mixed ADC pallet.

New E260 (former G094) would describe the standards for the Periodicals Ride-Along classification and rate, which is proposed to become a permanent classification. All of G094 would be moved except for 2.0 and 3.0. Former 2.0, which contains rate information, would appear as part of R200. Former 3.0 would be deleted, as publishers would no longer be required to submit additional documentation with Ride-Along mailings.

E500

E500 would be amended to change the current 2-pound Express Mail flat rate to the new ½-pound rate regardless of the weight of the material placed in the flat-rate envelope.

E600

E610.8.0 would be amended to remove references to upgradable Standard Mail.

E620 would be amended to remove references to upgradable mail and to show that the nonmachinable surcharge may apply to letter-size pieces that weigh 3.3 ounces or less and to all pieces where the mailer chooses the “manual only” (do not automate) option. New language would be added to explain the discount for automation-compatible pieces that weigh between 3.3 and 3.5 ounces.

E630 would be reorganized for clarity. Standards would be added to show that letter-size pieces mailed at saturation and high density letter rates must be automation-compatible and must have a delivery point barcode.

E640 would be amended to replace the basic automation letter rate with the new AADC and mixed AADC rates and to add the discount for automation letters that weigh between 3.3 and 3.5 ounces. E640.2.0 would be amended to add the discount for ECR basic automation letters that weigh between 3.3 and 3.5 ounces.

E620 and E640 would be amended to clarify that signing a postage statement certifies the mail meets the requirements for the rates claimed.

E700

E712.1.1b would be revised to add a weight limit for BPM flats claiming the barcoded discount. E712.1.4, which excluded BPM flats from eligibility to receive an automation rate, would be removed. E712.2 would be amended to add a new standard for BPM automation flats. E712.2.0e would be added to include a barcoded discount for automation flats. E712.3.0 would be amended to clarify that the mailer's signature on the postage statement certifies the mail meets the requirements for the rates claimed.

E713 and E714 would be revised in their entirety to reflect the format used for BPM in E712, E713 and E714 would be amended to change references from “BMC rate” to “basic rate” and from “500 pieces” to “300 pieces.” E713 and E714 would be revised to allow preparation of Media Mail and Library Mail mailings with two presort levels.

E751.1.1 would be amended to add provisions to require mail on pallets for 3-digit ZIP Code prefixes to be entered at the SCF. E751.1.4a would be amended to clarify that nonmachinable parcels sorted to 3-digit ZIP Code prefixes must be entered at a designated SCF. In E751.2.2c, d, and e, references would be added to allow the preparation of “3-digit sacks” and “3-digit pallets.” E751.5 and E753 would be amended to change the references from “BMC rate” to “basic rate.”

F Forwarding and Related Services

F010.4.0 would be amended to remove references to nonstandard mail. F010.5.2 would be amended to show the nonmachinable surcharge can be charged on Periodicals returned at First-Class Mail single-piece rates. F010.5.3 would be amended to show the First-Class Mail single-piece nonmachinable surcharge is included in the calculation of the weighted fee for returned pieces and is charged on some returned Standard Mail pieces. F010.6.0 would be amended to include these same changes.

F030.1.6 would be amended to clarify the circumstances under which address notices are not provided by the Postal Service.

G General Information

G091.4.0 would be revised to clarify that First-Class Mail automation letter-size pieces and parcels, First-Class automation cards, Standard Mail automation letter-size pieces, and Standard Mail Nonprofit automation letter-size pieces, using NetPost Mailing Online would be eligible for the mixed AADC rate. First-Class Mail automation flat-size pieces and parcels would be eligible for the mixed ADC rate. Flat-size pieces at the regular and nonprofit Standard Mail automation rates would be eligible for the basic rates. First-Class Mail that is not eligible for any automation rate would be subject to the applicable single-piece rates.

The Ride-Along classification in G094 would be made a permanent classification. Therefore, the standards currently in G094 would be relocated to new E260.

L Labeling Lists

The titles and summaries, as appropriate, of labeling lists L001, L800, L802, and L803 would be amended to reflect new mail preparation options.

Note: New labeling list L006 and the accompanying 5-digit metro pallet sort for packages of flats is effective on March 31, 2002. Notice of this change was published in Postal Bulletin 22066 (12-27-01).

M Mail Preparation and Sortation

M000

M011.1.3 would be amended to show that a full letter tray is defined as one that is between 75% and 100% full. M011.1.4 would be amended to remove references to upgradable mailings, to show that machinable and nonmachinable pieces cannot be part of the same mailing, and to show that ECR letter pieces cannot be part of the same mailing as nonletter rate pieces. M012.2.0 would be revised to update information about MLOCR markings. M012.3.3 would be revised to include additional rate markings for BPM presorted automation flats and BPM carrier route flats. M012.4.5 would be deleted to remove references to upgradable mail.

The summary for M020 would be amended to include references to Media Mail and Library Mail. M020.1.6 would be amended to add Media Mail and Library Mail in the package size requirements. In addition, the maximum weight for packages in sacks would be 20 pounds unless otherwise noted, and packages of BPM automation flats would have to meet the preparation requirements in M820. M020.2.0 would be amended to include additional standards for packaging Media Mail and Library Mail. M020.2.1 would be amended to remove references to the upgradable preparation for First-Class Mail and Standard Mail and to show that nonmachinable and “manual only” pieces must be packaged. M020.2.2 would be amended to require that Media Mail and Library Mail pieces meet specific weight limits when placed in sacks or on pallets.

The container labeling requirements in M031.5.0 would be amended to revise the Line 2 code for “carrier routes,” “letters,” and “machinable” and to add a new Line 2 code for “manual.” Exhibit M032.1.3a would be amended to change the content identifier number (CIN) codes for the new machinable and nonmachinable preparation for First-Class Mail and Standard Mail letter-size pieces. The exhibit also would be amended to add new CIN codes for Standard Mail ECR letters and designate CIN codes for certain Package Services flat-size pieces. M033.2.0 would be amended to clarify standards for filling letter trays.

M041.5.0 and M041.5.6 would be amended to show that the minimum volume for letter trays on pallets is measured in linear feet, not by the number of layers of trays on the pallet. M041.5.5 would be amended to clarify the maximum load of a pallet. M045.3.2 would be amended to show that pallets of carrier route mail must show whether the mail is barcoded, machinable, or manual. M045.3.3 through M045.3.5 would show revised titles, including Media Mail and Library Mail. M045.6.0 would be removed and included in aforementioned sections. M050.4.1 would be amended to show that signing a postage statement certifies that the mail meets the requirements for the rates claimed.

M100

M130 would be substantially revised to show the packaging, traying, and labeling standards for machinable, nonmachinable, and “manual only” letter-size mail.

M200

To reduce redundancy, the standards for combining multiple publications or editions in M210.6.0 and M220.6.0 would be consolidated and relocated in new M230.

M600

M610 would be substantially revised to show the packaging, traying, and labeling standards for machinable, nonmachinable, and “manual only” letter-size mail. M630 would be revised to show the new Line 2 labeling for trays of ECR letter-size pieces.

M700

M710.2.1 would be revised to add provisions for a 3-digit sort level for nonmachinable parcels claiming DSCF rates.

M730 and M740 would be amended to change references from “BMC rate” to “basic rate.” M730 and M740 would also be amended to include separate preparation standards for Media Mail and Library Mail flats, irregular parcels, and machinable parcels.

M800

M810.1.0 would be amended to replace references to the automation basic rate for letter-size pieces with the new AADC and mixed AADC rates. M810.2.0 would be amended to show the new Line 2 labeling formats for First-Class Mail and Standard Mail automation letters.

M820.1.0 would be amended to replace references to the automation basic rate for flat-size pieces with the new ADC and mixed ADC rates. M820.6.1 would be revised to provide packaging and sacking standards for flat-size pieces eligible for the Bound Printed Matter automation rates.

P Postage and Payment Methods

P000

P011.1.0 would be amended to reflect that the nonstandard surcharge would be replaced with the new nonmachinable surcharge. P012.2.0 would be amended to add new rate level abbreviations for the AADC, ADC, mixed AADC, and mixed ADC rates. P012.3.0 would be amended to reflect references to the new DADC rate for Periodicals.

P013.2.0 would be amended to reflect the new zoning of Priority Mail rates affecting all pieces over 1 pound and up to 5 pounds. This section would also be amended to reflect that each addressed Express Mail or Priority Mail flat-rate envelope would be charged the Express Mail rate for 1/2-pound or the Priority Mail rate for 1 pound, as applicable, regardless of the actual weight.

P013.8.0 would be amended to show how to calculate postage for Standard Mail automation rate letter-size pieces and ECR automation-compatible letter-size pieces that weigh more than 3.3 ounces.

P014.5.0 would be amended to expand the circumstances under which the Postal Service may deny Express Mail postage refund requests when the service guarantee is not met.

P021.3.1 would be amended to note the availability of stamped cards.

P100

P100.4.0 and 5.0 would be amended to change “nonstandard surcharge” to “nonmachinable surcharge.”

P200

P200.1.5 would be amended to include requirements for separating DADC entry pieces if the mailing is not presented with mailing documentation at the time of postal verification. New P200.1.8 would contain the standards for the waiving of nonadvertising rates relocated from P200.2.4.

P600

P600.2.1 would be amended to include standards for the new nonmachinable surcharge for Standard Mail.

P900

P910 would be amended to add new rate category abbreviations for the AADC, ADC, mixed AADC, and mixed ADC rates for First-Class Mail and Standard Mail.

P960 would be amended to clarify when MLOCR markings must appear on mailpieces and to add new MLOCR markings for the AADC, ADC, mixed AADC, and mixed ADC rates for First-Class Mail and Standard Mail.

R Rates and Fees

The entire R Module would be revised to reflect the proposed rates and fees for all classes of mail and special services.

S Special Services

S020 would be amended to increase the maximum amount of a single money order from $700 to $1,000.

S010 and S500 would be amended to reduce the indemnity included in the base price of Express Mail service from $500 to $100.

S911 and S912 would be amended to add that mailers can access delivery information over the Internet at www.usps.com. Mailers would be required to provide the certified mail or registered mail article number.

S915 would be amended to add a new service option, available in Fall 2002, that would provide mailers with an electronic return receipt if they provide an e-mail address at the point of purchase or preregister on the Internet at www.usps.com. Also available in Fall 2002, is another option that would allow mailers to purchase a return receipt after mailing via the Internet at www.usps.com.

S918 and S919 would be amended to extend Delivery Confirmation and Signature Confirmation to First-Class Mail parcels, and also to limit this service to parcels only in the Package Services mail class. S918 and S919 would also specify that for the purposes of adding Delivery Confirmation or Signature Confirmation service, a parcel would be required to meet the definition in C100.5.0 or C700.1.0, as appropriate.

Although exempt from the notice and comment requirements of the Administrative Procedures Act [5 U.S.C. 553 (b), (c)] regarding proposed rulemaking by 39 U.S.C. 410(a), the Postal Service invites comments on the following proposed revisions of the Domestic Mail Manual (DMM) incorporated by reference in the Code of Federal Regulations. See 39 CFR part 111.

List of Subjects in 39 CFR Part 111

Administrative practice and procedure, Postal Service.

PART 111—[AMENDED]

1. The authority citation for 39 CFR Part 111 continues to read as follows:

Authority: 5 U.S.C. 552(a); 39 U.S.C. 101, 401, 403, 404, 414, 3001-3011, 3201-3219, 3403-3406, 3621, 3626, 5001.

2. Revise the following sections of the Domestic Mail Manual (DMM) as follows:

A Addressing

A000 Basic Addressing

A010 General Addressing Standards

1.0 ADDRESS CONTENT AND PLACEMENT

* * * * *

[Amend the title and content of 1.3 to replace “nonstandard” with “nonmachinable.” No other changes to the text.]

* * * * *

2.0 ZIP CODE

* * * * *

[Amend the title and text of 2.3 to remove obsolete information about the DPBC numeric equivalent to read as follows:]

2.3 Numeric DPBC

A numeric equivalent of a delivery point barcode (DPBC) consists of five digits, a hyphen, and seven digits as specified in C840. The numeric equivalent is formed by adding three digits directly after the ZIP+4 code.

[Remove 2.4, Class and Rate Standards.]

* * * * *

4.0 RETURN ADDRESS

* * * * *

[Remove 4.5, Upgradable Mail.]

[Redesignate Exhibit 4.5, OCR Read Area and Barcode Clear Zone, as Exhibit C830.1.1.]

* * * * *

[Amend the title of A800 to show that the unit contains standards that apply to any barcoded pieces, not just mail claimed at automation rates, to read as follows:]

A800 Addressing for Barcoding

1.0 Accuracy

* * * * *

1.3 Numeric DPBC

[Amend 1.3 to remove obsolete information about the DPBC numeric sequivalent to read as follows:]

A numeric equivalent of the delivery point barcode (DPBC) consists of five digits, a hyphen, and seven digits, as specified in C840. The numeric equivalent is formed by adding three digits directly after the ZIP+4 code.

* * * * *

A950 Coding Accuracy Support System (CASS)

* * * * *

3.0 DATE OF ADDRESS MATCHING AND CODING

3.1 Update Standards

[Amend 3.1 to clarify that signing a postage statement certifies that the mail meets the requirements for the rates claimed to read as follows:]

Unless Z4CHANGE is used, all automation and carrier route mailings bearing addresses coded by any AIS product must be coded with current CASS-certified software and the current USPS database. Coding must be done within 90 days before the mailing date for all carrier route mailings and within 180 days before the mailing date for all non-carrier route automation rate mailings. All AIS products may be used immediately on release. New product releases must be included in address matching systems no later than 45 days after the release date. The overlap in dates for product use allows mailers adequate time to install the new data files and test their systems. Mailers are expected to update their systems with the latest data files as soon as practicable and need not wait until the “last permissible use” date to include the new information in their address matching systems. The mailer's signature on the postage statement certifies this standard has been met when the corresponding mail is presented to the USPS. The current USPS database product cycle is defined by the following matrix.

* * * * *

5.0 DOCUMENTATION

[Amend 5.1 to show that mailers must complete Form 3553 and to show that signing a postage statement certifies that the mail meets the requirements for the rates claimed to read as follows:]

5.1 Form 3553

Unless excepted by standard, the mailer must complete a Form 3553 for each mailing claimed at automation rates, carrier route Periodicals rates, Enhanced Carrier Route Standard Mail rates, and carrier route Bound Printed Matter rates. A computer-generated facsimile may be used if it contains the required data elements in a format similar to the USPS form. The data recorded on Form 3553 must refer only to the address list used to produce the mailing with which it is presented. The mailer certifies compliance with this standard when signing the corresponding postage statement.

[Amend 5.2 to show that supporting documentation does not have to be submitted with the mailing, but must be retained by the mailer or mailer's agent for 1 year to read as follows:]

5.2 Retention Period

Form 3553 and other documentation must be kept by the mailer or the mailer's agent for 1 year from the date of mailing and be made available to the USPS on 24-hour notice.

* * * * *

5.5 Using a Single List

[Amend 5.5 by adding retention requirements to read as follows:]

When a mailing is produced using all or part of a single address list, the mailer must retain one Form 3553 and other required documentation reflecting the summary output information for the entire list, as obtained when the list was coded. When the same address list is used for other mailings within 180 days of the date it was matched and coded, a copy of the Form 3553 must be retained with the documentation for each mailing.

5.6 Using Multiple Lists

[Amend 5.6 by adding retention requirements to read as follows:]

When a mailing is produced using multiple address lists, the mailer must retain a consolidated Form 3553 summarizing the individual summary output and/or facsimile Forms 3553 for each list used (and other required documentation). As an alternative, the mailer may combine the addresses selected from the multiple lists into a single new list, reprocess the addresses using CASS-certified address matching software, and retain one Form 3553 for the summary output generated by that process.

[Remove current 5.7, redesignate 5.8 as 5.7, and amend by adding retention requirements to read as follows:]

5.7 Using CASS Certificate

If the name of the CASS-certified company entered on Form 3553 does not appear on the list published by the USPS, a copy of the CASS certificate for the software used also must be retained by the mailer with the documentation.

* * * * *

C Characteristics and Content

C000 General Information

C010 General Mailability Standards

1.0 MINIMUM AND MAXIMUM DIMENSIONS

* * * * *

1.3 Length and Height

[Remove 1.3b and redesignate current 1.3c as 1.3b. There are no other changes to the text. Standard Mail Enhanced Carrier Route pieces would be subject to the standards pertaining to length and height.]

* * * * *

[Remove 1.6, Nonstandard Surcharge.]

* * * * *

C050 Mail Processing Categories

1.0 BASIC INFORMATION

[Amend 1.0 to add a reference to new Exhibit 1.0 (redesignated Exhibit 2.0) to read as follows:]

Every mailpiece is assigned to one of the mail processing categories in the following sections. These categories are based on the physical dimensions of the piece, regardless of the placement (orientation) of the delivery address on the piece. Exhibit 1.0 shows the minimum and maximum dimensions for some mail processing categories.

[Redesignate Exhibit 2.0, Mail Dimensions, as Exhibit 1.0 and insert here.]

2.0 LETTER-SIZE MAIL

[Revise 2.0 to read as follows:]

2.1 Minimum and Maximum Size

Letter-size mail is:

a. Not less than 5 inches long, 3½ inches high, and 0.007 inch thick.

b. Not more than 11½ inches long, 6⅛ inches high, and ¼-inch thick.

2.2 Nonmachinable Criteria

A letter-size piece is nonmachinable if it has one or more of the following characteristics (see C010.1.1 for how to determine the length, height, top, bottom, and sides of a mailpiece):

a. Has an aspect ratio (length divided by height) of less than 1.3 or more than 2.5.

b. Is polybagged, polywrapped, or enclosed in any plastic material.

c. Has clasps, strings, buttons, or similar closure devices.

d. Contains items such as pens, pencils, keys, and loose coins that cause the thickness of the mailpiece to be uneven.

e. Is too rigid (does not bend easily when subjected to a transport belt tension of 40 pounds around an 11-inch diameter turn).

f. For pieces more than 4¼ inches high or 6 inches long, the thickness is less than 0.009 inch.

g. Has a delivery address parallel to the shorter dimension of the mailpiece.

h. For folded self-mailers, the folded edge is perpendicular to the address, regardless of the use of tabs, wafer seals, or other fasteners.

i. For booklet-type pieces, the bound edge (spine) is the shorter dimension of the piece or is at the top, regardless of the use of tabs, wafer seals, or other fasteners.

2.3 Automation Rates

Letters and cards mailed at automation rates must meet the standards in C810.

* * * * *

C100 First-Class Mail

* * * * *

2.0 CARDS CLAIMED AT CARD RATES

[Revise 2.0 to implement new Domestic Mail Classification Schedule language for cards claimed at card rates to read as follows. The Postal Service is proposing a 6-month phase-in period for compliance with these standards (see sections 2.7 and 2.8). After the phase-in period, cards that do not meet the standards in 2.0 would not be eligible for card rates):]

2.1 Definition

Cards eligible for card rates are:

a. Stamped cards (cards with postage imprinted on them and supplied by the USPS). Three types of stamped cards are available. See P021.3.1.

b. Postcards (commercially prepared mailing cards that meet the criteria of this section).

c. Double cards (see 2.11). These cards consist of two attached postcards, one of which is designed to be detached by the recipient and mailed back as a reply. The reply half of a double card may be a business reply card (S922) or a merchandise return service label (S923.5.4).

2.2 Rates

Cards can be prepared and mailed at First-Class Mail single-piece, Presorted, and automation rates. Cards that do not meet the applicable standards in 2.0 are not eligible for card rates.

2.3 Dimensions

Each card or each half of a double card mailed at a card rate must be:

a. Rectangular.

b. Not less than 3½ inches high, 5 inches long, and 0.007 inch thick.

c. Not more than 4¼ inches high, 6 inches long, and 0.016 inch thick.

2.4 Paper Stock

A card must be of uniform thickness and made of unfolded and uncreased paper from stock meeting the industry standard for a basis weight of 75 pounds or greater (with a tolerance of 4-pound basis weight). A card may be formed of one piece of paper or cardstock, or two pieces of paper that are permanently and uniformly bonded together. The cardstock may be of any light color that permits printing of legible addresses and markings.

2.5 Perforations

A card may have perforations as long as they do not eliminate or interfere with any address element, postage, or postal markings and do not compromise the physical integrity of the card. A minimum ratio of 50:50 (stock to perforations) is required.

2.6 Attachments

A card may bear an attachment that is totally adhered to the card surface, not an encumbrance to postal processing, and one of the following:

a. Made of paper, such as a label, wafer seal, or decal and is affixed by permanent adhesive, including an address label affixed by permanent adhesive for the delivery or return address.

b. A small reusable seal or decal prepared with pressure-sensitive and nonremovable adhesive, designed to be removed from the first half of a double card and applied to the reply half.

2.7 Address Side and Delivery Address

Cards eligible for and claimed at the single-piece rate are not subject to the standards in this section. The address side of the card must be formatted so that the delivery address, return address, postage, rate markings, and any ancillary service endorsement are clearly distinguished from any message and other nondelivery information. nondelivery information may not appear to the right of or below the delivery address. The delivery address must appear within an area:

a. \1/2\ inch from the right edge of the card.

b. \1/2\ inch from the left edge of the card.

c. \5/8\ inch from the bottom edge of the card.

d. The top line of the address block may be no more than 2\3/4\ inches from the bottom edge of the card.

2.8 Cards Divided Vertically

Cards eligible for and claimed at the single-piece rate are not subject to the standards in this section. A card may be divided vertically into a right side and a left side, with or without a vertical rule. If used, a vertical rule may not extend lower than \5/8\ inch from the bottom edge of the card. The following standards also apply:

a. The right side must measure at least 2\1/8\ inches wide from the right edge of the card.

b. The postage, delivery address, and rate markings must appear on the right side.

c. The delivery address lines must be uniformly left aligned; a minimum \1/4\-inch clear space must be maintained between the delivery address and the vertical rule, if used, or any nondelivery information on the left side.

d. Nondelivery information may appear on the left side only, except that the information may extend into the right side of the card above the address block. Any such information extending into the right side must be shaded, surrounded by a border, or separated with a minimum \1/4\-inch clear space between the postage, delivery address, return address, rate markings, and any ancillary service endorsement.

2.9 Postage and Rate Markings

Cards eligible for and claimed at the single-piece rate are not subject to the standards in this section. Postage and rate markings must appear in the upper right of the address area or in the upper right corner of the card. A minimum \1/4\-inch clear space, with or without a border, must be maintained between nondelivery information and the postage, return address, rate markings, and any ancillary service endorsement.

2.10 Return Address

If a mailer chooses to include a return address, it must be placed in the upper left corner of the address area or the upper left corner of the address side of the card.

2.11 Double Cards

A double card must be folded before mailing and prepared so that the address on the reply half is on the inside when originally mailed. Enclosures in double cards are prohibited at card rates. The following standards apply:

a. The first half of a double card must be detached when the reply half is mailed for return. The reply half must be used for reply only and may not be used to convey a message to the original addressee or to send statements of account. It may be formatted for reply purposes (e.g., contain blocks for completion by the addressee).

b. Double cards that are not prepared in accordance with C810 are considered nonmachinable and must be prepared as nonmachinable pieces under M130.

c. Plain stickers, seals, or a single wire stitch (staple) may be used to fasten the open edge of double cards.

* * * * *

[Amend the title and content of 4.0 to reflect the new nonmachinable surcharge for some First-Class Mail letters and flats to read as follows:]

4.0 NONMACHINABLE PIECES

Letter-size pieces that weigh 1 ounce or less and meet one or more of the nonmachinable characteristics in C050.2.2 may be subject to the nonmachinable surcharge (see E130 and E140). Nonletters (flats and parcels) that weigh 1 ounce or less are subject to the nonmachinable surcharge if any one of the following applies (see C010.1.1 for how to determine the length and height of a mailpiece):

a. The piece is greater than \1/4\-inch thick.

b. The length is more than 11\1/2\ inches or the height is more than 6\1/8\ inches.

c. The aspect ratio (length divided by height) is less than 1.3 or more than 2.5.

[Redesignate section 5.0, Facing Identification Mark (FIM), as 6.0. Add new 5.0, Parcels, to read as follows:]

5.0 Parcels

For the purposes of adding Delivery Confirmation and Signature Confirmation, a First-Class Mail parcel is defined as any piece that:

a. Has an address side with enough surface area to fit the delivery address, return address, postage, rate markings and endorsements, and special service label; and,

b. Is in a box, or if not in a box, is more than ¾-inch thick at its thickest point.

* * * * *

C200 Periodicals

Summary

[Revise the summary in C200 to read as follows:]

C200 describes permissible mailpiece components (e.g., enclosures, attachments, and supplements) and impermissible or prohibited components for Periodicals mail. It also describes mailpiece construction and required printed features such as title, imprint, and publication address.

* * * * *

C600 Standard Mail

1.0 DIMENSIONS

1.1 Basic Standards

These standards apply to Standard Mail:

* * * * *

[Redesignate 1.1c and 1.1d as 1.1d and 1.1e, respectively. Redesignate Exhibit 1.1d as Exhibit 1.1e. Add new 1.1c to require that some ECR letters must meet the physical standards for automation letters in C810 to read as follows:]

c. ECR pieces mailed at high-density and saturation letter rates must meet the standards for automation-compatible mail in C810.

* * * * *

[Redesignate 3.0, Postal Inspection, and 4.0, Enclosures, as 4.0 and 5.0, respectively. Add new 3.0, Nonmachinable Pieces, to reflect the new nonmachinable surcharge for some Standard Mail letters to read as follows:]

3.0 NONMACHINABLE PIECES

Letter-size pieces that weigh 3.3 ounces or less and meet one or more of the nonmachinable criteria in C050.2.2 may be subject to the nonmachinable surcharge (see E620).

* * * * *

C700 Package Services

1.0 PACKAGE SERVICES

These standards apply to Package Services:

* * * * *

[Insert new 1.0h to read as follows:]

h. For the purposes of adding Delivery Confirmation and Signature Confirmation, a Package Services parcel is defined as any piece that meets the following standards:

(1) Has an address side with enough surface area to fit the delivery address, return address, postage, markings and endorsements, and special service label.

(2) Is in a box, or if not in a box, is more than ¾-inch thick at its thickest point.

[Amend the title of 2.0 by adding “Surcharge” to read as follows:]

2.0 NONMACHINABLE SURCHARGE—PARCELS

* * * * *

[Amend the title of C800 by adding “Machinable” to read as follows:]

C800 Automation-Compatible and Machinable Mail

C810 Letters and Cards

1.0 BASIC STANDARDS

[Amend 1.0 to show that some ECR letters must meet the standards for automation-compatible mail to read as follows:]

Letters and cards claimed at automation rates and at some Standard Mail Enhanced Carrier Route rates must meet the standards in 2.0 through 8.0. Pieces claimed at First-Class Mail automation card rates also must meet the standards in C100. Unless prepared under 7.2 through 7.4, each mailpiece must be prepared either as a sealed envelope (the preferred method) or, if unenveloped, must be sealed or glued on all four sides.

2.0 DIMENSIONS

* * * * *

2.4 Maximum Weight

[Amend 2.4 to replace the weight limit for upgradable letters with the weight limit for machinable letters, to raise the weight limit for Standard Mail automation heavy letters to 3.5 ounces, and to add a weight limit for ECR high density and saturation letters, to read as follows:]

Maximum weight limits are as follows:

a. First-Class Mail:

(1) Machinable Presorted: 3.3 ounces (0.2063 pound).

(2) Automation (see 7.5 for pieces heavier than 3 ounces): 3.3 ounces (0.2063 pound).

b. Periodicals automation (see 7.5 for pieces heavier than 3 ounces): 3.3 ounces (0.2063 pound).

c. Standard Mail:

(1) Machinable Presorted: 3.3 ounces (0.2063 pound).

(2) Automation regular and carrier route (see 7.5 for pieces heavier than 3 ounces): 3.5 ounces (0.2188 pound).

(3) Enhanced Carrier Route high density and saturation (see 7.5 for pieces heavier than 3 ounces): 3.5 ounces (0.2188 pound).

* * * * *

8.0 ENCLOSED REPLY CARDS AND ENVELOPES

8.1 Basic Standard

[Amend the first paragraph of 8.1 to clarify that signing a postage statement certifies the mail meets the requirements for the rates claimed to read as follows:]

All letter-size reply cards and envelopes (business reply mail (BRM), courtesy reply mail (CRM), and meter reply mail (MRM)) provided as enclosures in automation First-Class Mail, Periodicals, and Standard Mail, and addressed for return to a domestic delivery address, must meet the applicable automation-compatible mail standards in C810. The mailer's signature on the postage statement certifies that this standard, and the standards listed below, have been met when the corresponding mail is presented to the USPS: * * *

* * * * *

C820 Flats

* * * * *

2.0 DIMENSIONS AND CRITERIA FOR FSM 881 PROCESSING

* * * * *

2.4 Maximum Weight

[Amend 2.4 to add a weight limit for BPM flats by adding new 2.4d to read as follows:]

d. For Bound Printed Matter pieces claiming the barcode discount, 16 ounces.

* * * * *

C830 OCR Standards

1.0 OCR READ AREA

1.1 Definition

[Amend 1.1 to add a reference to new Exhibit 1.1 (redesignated Exhibit A010.4.5) to read as follows:]

The optical character reader (OCR) read area is a rectangular area on the address side of the mailpiece formed by these boundaries (see Exhibit 1.1):

a. Left: \1/2\ inch from the left edge of the piece.

b. Right: \1/2\ inch from the right edge of the piece.

c. Top: 2\3/4\ inches from the bottom edge of the piece.

d. Bottom: ⅝ inch from the bottom edge of the piece.

[Insert Exhibit 1.1, OCR Read Area and Barcode Clear Zone (redesignated Exhibit A010.4.5). There are no changes to the exhibit.]

* * * * *

C840 Barcoding Standards for Letters and Flats

* * * * *

2.0 BARCODE LOCATION FOR LETTER-SIZE PIECES

2.1 Barcode Clear Zone

[Amend the first paragraph in 2.1 to remove references to show that Standard Mail Enhanced Carrier Route pieces must have a barcode clear zone and to remove references to upgradable mail, to read as follows:]

Each letter-size piece in an automation rate mailing or claimed at an Enhanced Carrier Route saturation or high density rate must have a barcode clear zone unless the piece bears a DPBC in the address block. The barcode clear zone and all printing and material in the clear zone must meet the reflectance standards in 5.0. The barcode clear zone is a rectangular area in the lower right corner of the address side of cards and letter-size pieces defined by these boundaries: * * *

* * * * *

2.2 General Standards

[Amend 2.2 to show that these standards for delivery point barcodes also would apply to Enhanced Carrier Route saturation and high density rate pieces, to read as follows:]

Automation rate pieces and pieces claimed at an Enhanced Carrier Route saturation or high density rate that weigh 3 ounces or less may bear a DPBC either in the address block or in the barcode clear zone. Pieces that weigh more than 3 ounces must bear a DPBC in the address block.

* * * * *

5.0 REFLECTANCE

* * * * *

5.4 Dark Fibers and Background Patterns

[Amend 5.4 to include references to Enhanced Carrier Route saturation and high density rate pieces and remove 5.4c to read as follows:]

Dark fibers or background patterns (e.g., checks) that produce a print contrast ratio of more than 15% when measured in the red and green portions of the optical spectrum are prohibited in these locations:

a. The area of the address block or the barcode clear zone where the barcode appears on a card-size or a letter-size piece mailed at automation rates or at Enhanced Carrier Route saturation or high density rates.

b. The area of the address block or the area of the mailpiece where the barcode appears on a flat-size piece in an automation rate mailing.

* * * * *

[Amend the title and summary text of C850 by replacing “Standard Mail” and “Package Services” with “Parcels” to read as follows:]

C850 Barcoding Standards for Parcels

Summary

C850 describes the technical standards for barcoded parcels. It defines parcel barcode characteristics, location, and content.

1.0 GENERAL

1.1 Basic Requirement

[Amend 1.1 to remove references to specific classes of mail to read as follows:]

Every parcel eligible for a barcode discount must bear a properly prepared barcode that represents the correct ZIP Code information for the delivery address on the mailpiece plus the appropriate verifier character suffix or application identifier prefix characters as described in 1.0 through 4.0. The combination of appropriate ZIP Code and verifier or application identifier characters uniquely identifies the barcode as the postal routing code.

* * * * *

1.4 Use With Delivery Confirmation and Signature Confirmation Services

[Amend 1.4 to remove references to specific classes of mail to read as follows:]

A mailer may qualify for the machinable parcel barcode discount and may apply Delivery Confirmation and Signature Confirmation barcodes in one of the following ways:

* * * * *

[Amend 1.4c to delete references to specific classes of mail (to allow integrated barcodes for First-Class Mail parcels) to read as follows:]

c. A single integrated barcode may be used by Delivery Confirmation electronic option mailers who choose to combine Delivery Confirmation or Signature Confirmation service with insurance. Mailers printing their own barcodes and using the electronic option must meet the specifications in S918, S919, and Publication 91 with these modifications:

(1) The text above the barcode must identify the other service requested.

(2) The service type code in the barcode must identify the class of mail and/or type of special service combined with Delivery Confirmation or Signature Confirmation.

* * * * *

D Deposit, Collection, and Delivery

* * * * *

D200 Periodicals

D210 Basic Information

* * * * *

3.0 EXCEPTIONAL DISPATCH

* * * * *

3.4 Destination Rates

[Amend 3.4 by removing the first sentence and revising the remaining sentence to read as follows:]

Copies of Periodicals publications deposited under exceptional dispatch may be eligible for and claimed at the destination sectional center facility (DSCF) or destination delivery unit (DDU) rates if the applicable standards in E250 are met.

* * * * *

4.0 DEPOSIT AT AMF

4.1 General

[Amend 4.1 by deleting the reference to SCF rates to read as follows:]

A publisher that airfreights copies of a Periodicals publication to an airport mail facility (AMF) must be authorized additional entry at the verifying office (i.e., the post office where the copies are presented for postal verification). Postage must be paid at that office unless an alternative postage payment method is authorized. Copies presented at an AMF may be eligible for the delivery unit rate, subject to the applicable standards.

* * * * *

D230 Additional Entry

* * * * *

2.0 DISTRIBUTION PLAN

* * * * *

[Remove 2.2, Contingency Entries, and remove the title “2.1 Basic Standards.”]

* * * * *

4.0 USE OF ENTRY

* * * * *

[Remove 4.6, Contingency Entry, and redesignate 4.7 as 4.6.]

* * * * *

D500 Express Mail

* * * * *

1.0 SERVICE OBJECTIVES AND REFUND CONDITIONS

* * * * *

1.6 Postage Not Refunded

[Revise 1.6 to add the additional limitations for Express Mail refunds to read as follows:]

Postage is not refunded if an item is delayed because of an incorrect ZIP Code or address, an item was improperly detained for law enforcement purposes, forwarding or return service was provided after the item was made available for claim, delivery was attempted within the times required for the specific service; delay or cancellation of flights, strike or work stoppage; or as authorized by USPS headquarters when delay was caused by:

a. Governmental action beyond the control of the USPS or air carriers.

b. War, insurrection, or civil disturbance.

c. Breakdown of a substantial portion of the USPS transportation network resulting from events or factors outside the control of the USPS.

d. Acts of God.

Attempted delivery occurs under any of these situations when the delivery is physically attempted, but cannot be made; the shipment is available for delivery, but the addressee made a written request that the shipment be held for a specific day or days; the delivery employee discovers that the shipment is undeliverable as addressed before leaving on the delivery route.

* * * * *

E Eligibility

E000 Special Eligibility Standards

* * * * *

E070 Mixed Classes

* * * * *

2.0 ATTACHMENTS OF DIFFERENT CLASSES

* * * * *

2.2 Rate Qualification

If a Periodicals, Standard Mail, or Package Services host piece qualifies for:

* * * * *

[Amend 2.2d by revising the first sentence and removing the second sentence to read as follows:]

d. A destination rate (DDU, DSCF, DADC, or DBMC), a Standard Mail attachment is eligible for the comparable destination entry rate. The attachment need not meet the volume standard that would apply if mailed separately. A rate including a destination entry discount may not be claimed for an attachment unless a similar rate is available and claimed for the host piece.

* * * * *

E100 First-Class Mail

E110 Basic Standards

* * * * *

[Revise 3.0 to read as follows:]

3.0 CARD RATE

To be eligible for a card rate, a stamped card, postcard, and each part of a double (reply) card must meet the physical standards in C100. The reply half of a double card need not bear postage when originally mailed, but it must bear postage at the applicable rate when returned, unless prepared with a business reply format (S922) or a merchandise return service label (S923.5.4).

* * * * *

E120 Priority Mail

* * * * *

2.0 RATES

* * * * *

2.2 Flat-Rate Envelope

[Amend 2.2 by changing “2-pound” to “1-pound” to read as follows:]

Any amount of material that can be mailed in the special flat-rate envelope available from the USPS is subject to the 1-pound Priority Mail rate, regardless of the actual weight of the mailpiece.

* * * * *

2.4 Keys and Identification Devices

[Amend 2.4 to show that the 2-pound rate is a zoned rate to read as follows:]

Keys and identification devices (e.g., identification cards or uncovered identification tags) that weigh more than 13 ounces but not more than 1 pound are returned at the 1-pound Priority Mail rate plus the fee shown in R100.10.0. Keys and identification devices weighing more than 1 pound but not more than 2 pounds are mailed at the 2-pound Priority Mail zone rate plus the fee in R100.10.0. The key or identification device must bear, contain, or have securely attached the name and complete address of a person, organization, or concern, with instructions to return the key or identification device to that address and a statement guaranteeing payment of postage due on delivery.

E130 Nonautomation Rates

* * * * *

2.0 SINGLE-PIECE RATE

* * * * *

2.2 Keys and Identification Devices

[Amend 2.2 by adding the reference to R100.10.0 to read as follows:]

Keys and identification devices (e.g., identification cards or uncovered identification tags) that weigh 13 ounces or less are mailed at the applicable single-piece letter rate plus the fee in R100.10.0. The keys and identification devices must bear, contain, or have securely attached the name and complete address of a person, organization, or concern, with instructions to return the piece to that address and a statement guaranteeing payment of postage due on delivery.

* * * * *

[Add new 2.4 to show that letter-size pieces may be subject to the nonmachinable surcharge to read as follows:]

2.4 Nonmachinable Surcharge—Letter-Size Pieces

The nonmachinable surcharge in R100.11.0 applies to letter-size pieces:

a. That weigh 1 ounce or less and meet one or more of the nonmachinable criteria in C050.2.2. Pieces mailed at the card rate are not subject to the nonmachinable surcharge.

b. For which the mailer chooses the manual only (“do not automate”) option. This includes pieces mailed at the card rate.

[Add new 2.5 to show that flats may be subject to the nonmachinable surcharge to read as follows:]

2.5 Nonmachinable Surcharge—Nonletters

Nonletters (flats and parcels) that weigh 1 ounce or less are subject to the nonmachinable surcharge in R100.11.0 if any one of the following applies (see C010.1.1 for how to determine the length and height of a mailpiece):

a. The piece is greater than ¼-inch thick.

b. The length is more than 11½ inches or the height is more than 6⅛ inches.

c. The aspect ratio (length divided by height) is less than 1.3 or more than 2.5.

3.0 PRESORTED RATE

* * * * *

3.3 Address Quality

[Amend the first paragraph of 3.3 to clarify that signing a postage statement certifies that the mail meets the requirements for the rates claimed to read as follows:]

The move update standards for address quality are listed below. The mailer's signature on the postage statement certifies that this standard has been met when the corresponding mail is presented to the USPS:* * *

3.4 ZIP Code Accuracy

[Amend 3.4 to clarify that signing a postage statement certifies that the mail meets the requirements for the rates claimed to read as follows:]

All 5-digit ZIP Codes included in addresses on pieces claimed at the Presorted rate must be verified and corrected within 12 months before the mailing date using a USPS-approved method. The mailer's signature on the postage statement certifies that this standard has been met when the corresponding mail is presented to the USPS. This standard applies to each address individually, not to a specific list or mailing. An address meeting this standard may be used in mailings at any other rate to which the standard applies during the 12-month period after its most recent update.

[Add new 3.5 to show that letter-size pieces may be subject to the nonmachinable surcharge to read as follows:]

3.5 Nonmachinable Surcharge—Letter-Size Pieces

Letter-size pieces that weigh 1 ounce or less and meet one or more of the nonmachinable criteria in C050.2.2 are subject to the nonmachinable surcharge in R100.11.0. Pieces mailed at the card rate are not subject to the nonmachinable surcharge. Double cards that are not prepared in accordance with C810 are considered nonmachinable; they are not charged the surcharge but must be prepared according to the standards for nonmachinable pieces in M130.

[Add new 3.6 to show that flat-size pieces may be subject to the nonmachinable surcharge:]

3.6 Nonmachinable Surcharge—Nonletters

Nonletters (flats and parcels) that weigh 1 ounce or less are subject to the nonmachinable surcharge in R100.11.0 if any one of the following applies (see C010.1.1 for how to determine the length and height of a mailpiece):

a. The piece is greater than ¼-inch thick.

b. The length is more than 11½ inches or the height is more than 6⅛ inches.

c. The aspect ratio (length divided by height) is less than 1.3 or more than 2.5.

[Add new 3.7 to show that the nonmachinable surcharge applies to pieces where the mailer chooses the manual only option to read as follows:]

3.7 Manual Only Option

The nonmachinable surcharge in R100.11.0 applies to any letter-size piece (including card-rate pieces) for which a mailer chooses the manual only (“do not automate”) option.

[Remove 4.0, Nonstandard Surcharge.]

E140 Automation Rates

1.0 BASIC STANDARDS

* * * * *

1.3 Address Quality

[Amend the first paragraph of 1.3 to clarify that signing a postage statement certifies the mail meets the requirements for the rates claimed to read as follows:]

The move update standards for address quality are listed below. The mailer's signature on the postage statement certifies that this standard has been met when the corresponding mail is presented to the USPS: * * *

1.4 Carrier Route Presort

[Amend 1.4 to clarify that signing a postage statement certifies the mail meets the requirements for the rates claimed to read as follows:]

Carrier route rates are available only for letter-size mail and only for those 5-digit ZIP Code areas identified with an “A” or “B” in the Carrier Route Indicators field of the USPS City State File used for address coding. Carrier route codes must be applied to mailings using CASS-certified software and the current USPS Carrier Route File scheme or another AIS product containing carrier route information, subject to A930 and A950. Carrier route and City State File information must be updated within 90 days before the mailing date. The mailer's signature on the postage statement certifies that this standard has been met when the corresponding mail is presented to the USPS.

* * * * *

[Remove 1.6, Nonstandard Surcharge.]

[Amend the title and text of 2.0 to reorganize rate application information for and to replace the basic rate with the AADC and mixed AADC rates to read as follows:]

2.0 RATE APPLICATION—CARDS AND LETTERS

Automation rates apply to each piece that is sorted under M810 into the corresponding qualifying groups:

a. Pieces in full carrier route trays, in carrier route groups of 10 or more pieces each placed in 5-digit carrier routes trays, or in carrier route packages of 10 or more pieces each placed in 3-digit carrier routes trays qualify for the carrier route rate. Preparation to qualify for the carrier route rate is optional and need not be done for all carrier routes in a 5-digit area.

b. Groups of 150 or more pieces in 5-digit or 5-digit scheme trays qualify for the 5-digit rate. Preparation to qualify for the 5-digit rate is optional and need not be done for all 5-digit or 5-digit scheme destinations.

c. Groups of 150 or more pieces in 3-digit or 3-digit scheme trays qualify for the 3-digit rate.

d. Groups of fewer than 150 pieces in origin 3-digit or origin 3-digit scheme trays and all pieces in AADC trays qualify for the AADC rate.

e. All pieces in mixed AADC trays qualify for the mixed AADC rate.

[Redesignate 2.2 and 2.3 into new 3.0 and revise to read as follows:]

3.0 RATE APPLICATION—FLATS AND OTHER NONLETTERS

3.1 Package-Based Preparation

Automation rates apply to each piece that is sorted under M820.2.0 or M910.1.0 into the corresponding qualifying groups:

a. Pieces in 5-digit packages of 10 or more pieces qualify for the 5-digit rate. Preparation to qualify for the 5-digit rate is optional and need not be done for all 5-digit destinations.

b. Pieces in 3-digit packages of 10 or more pieces qualify for the 3-digit rate.

c. Pieces in ADC packages of 10 or more pieces qualify for the ADC rate.

d. Pieces in mixed ADC packages qualify for the mixed ADC rate.

3.2 Tray-Based Preparation

Automation rates apply to each piece that is sorted under M820.4.0 into the corresponding qualifying groups:

a. Groups of 90 or more pieces in 5-digit trays qualify for the 5-digit rate. Preparation to qualify for the 5-digit rate is optional and need not be done for all 5-digit destinations.

b. Groups of 90 or more pieces in 3-digit trays qualify for the 3-digit rate.

c. Groups of fewer than 90 pieces in origin 3-digit trays and all pieces in ADC trays qualify for the ADC rate.

d. All pieces in mixed ADC trays qualify for the mixed ADC rate.

[Add new 3.3 to show that flats may be subject to the nonmachinable surcharge to read as follows:]

3.3 Nonmachinable Surcharge

Flats that weigh 1 ounce or less are subject to the nonmachinable surcharge in R100.11.0 if any one of the following applies (see C010.1.1 for how to determine the length and height of a mailpiece):

a. The piece is greater than ¼-inch thick.

b. The length is more than 11½ inches or the height is more than 6⅛ inches.

c. The aspect ratio (length divided by height) is less than 1.3 or more than 2.5.

* * * * *

E200 Periodicals

E210 Basic Standards

* * * * *

E217 Basic Rate Eligibility

[Revise 1.0 to read as follows:]

1.0 OUTSIDE-COUNTY RATES

1.1 Description

Outside-County rates apply to copies of an authorized Periodicals publication mailed by a publisher or news agent that are not eligible for In-County rates. Outside-County rates consist of an addressed per piece charge, a zoned charge for the weight of the advertising portion of the publication, and a charge for the weight of the nonadvertising portion.

1.2 Nonrequester and Nonsubscriber Copies

For excess noncommingled mailings under E215, nonrequester and nonsubscriber copies are not eligible for Periodicals rates unless the publication is authorized under E212.2.0 and is not authorized to contain general advertising. Nonrequester and nonsubscriber copies in excess of the 10% allowance under E215 are subject to Outside-County rates when commingled with requester or subscriber copies, as appropriate.

* * * * *

3.0 OUTSIDE-COUNTY SCIENCE-OF-AGRICULTURE RATES

* * * * *

3.3 Other Rates

[Amend 3.3 by adding the new destination ADC rate, removing the last sentence, and rearranging sentences two and three to read as follows:]

All Outside-County rates and discounts apply, except for separate rates for DDU, DSCF, DADC, and zones 1 & 2. Nonsubscriber copies are subject to E215. Each piece must meet the standards for the rates or discounts claimed.

[Remove 3.4, Nonadvertising Discount, and redesignate 3.5 as 3.4.]

3.4 Application Procedures

[Amend redesignated 3.4 by revising the third and last sentences to read as follows:]

The Science-of-Agriculture rate is available only after USPS authorization. An application or written request for Science-of-Agriculture rates must be filed at the publication's original entry post office. Application may be made by completing the relevant part of an application for Periodicals mailing privileges (Form 3500) or by filing for reentry (Form 3510) after Periodicals mailing privileges are authorized. The applicant must submit evidence to show eligibility under the corresponding standards.

* * * * *

5.0 DISCOUNTS

[Revise 5.0 by restructuring for clarity adding information on the new per piece pallet discount to read as follows:]

5.1 Nonadvertising

The nonadvertising discount applies to the Outside-County piece rate and is computed under P013.

5.2 Presort and Automation

Presort and automation discounts are available under E220, E230, and E240.

5.3 Destination Entry

Destination entry discounts are available under E250 for copies entered at specific USPS facilities.

5.4 Per Piece Pallet

The per piece pallet discount applies to each addressed piece of nonletter-size mail (flats and irregular parcels) prepared in packages on any pallet level. The discount does not apply to pallets weighing less than 250 pounds (except for overflow pallets) and is not available for pieces in sacks or trays on pallets.

5.5 Destination Entry Per Piece Pallet

In addition to the per piece pallet discount in 5.4, the destination entry per piece pallet discount applies to each addressed piece of nonletter-size mail (flats and irregular parcels) prepared in packages on any destination entry pallet. The discount does not apply to pallets weighing less than 250 pounds (except overflow pallets) and is not available for pieces in sacks or trays on pallets.

* * * * *

E220 Presorted Rates

1.0 BASIC INFORMATION

* * * * *

1.3 ZIP Code Accuracy

[Amend 1.3 to clarify that signing a postage statement certifies that the mail meets the requirements for the rates claimed to read as follows:]

All 5-digit ZIP Codes in addresses on pieces claimed at the 5-digit, 3-digit, or basic rates must be verified and corrected within 12 months before the mailing date by a USPS-approved method. The mailer's signature on the postage statement certifies that this standard has been met when the corresponding mail is presented to the USPS. This standard applies to each address individually, not to a specific list or mailing. An address meeting this standard may be used in mailings at any other rate to which the standard applies during the 12-month period after its most recent update.

* * * * *

[Remove 3.0, Combining Multiple Publications or Editions.]

E230 Carrier Route Rates

* * * * *

3.0 WALK-SEQUENCE DISCOUNTS

* * * * *

3.4 Density Standards

[Amend 3.4a through 3.4e for clarity to read as follows:]

Walk-sequence rate mailings are subject to these density standards:

a. Density standards for walk-sequence rates apply to individual carrier routes. Pieces need not be sent to all carrier routes within a 5-digit delivery area.

b. Except under 3.4c, pieces eligible and claimed at the high density rate must meet the density requirement of at least 125 pieces for each carrier route.

c. Pieces may qualify for In-County high density rates when there are addressed pieces for a minimum of 25% of the total active possible deliveries on a carrier route. If a route contains addresses both within and outside the county, the number of pieces addressed to the entire carrier route is used to determine the 25% requirement. Only those pieces addressed to addresses within the county of original entry are eligible for the In-County high density rates.

d. Pieces eligible for and claimed at the saturation rate must be addressed to either 90% or more of the active residential addresses or 75% or more of the total number of active possible delivery addresses on each carrier route receiving saturation rate mail. Pieces using the simplified address format under A040 must be addressed to 100% of the total number of active possible delivery addresses.

e. More than one addressed piece per delivery address may be included in a high density rate mailing and may be counted for the density standard in 3.4b for the high density rate. Only one piece per delivery address may be counted toward the density standards for high density in 3.4c and for the saturation rate in 3.4d.

[Remove 4.0, Combining Multiple Publications or Editions.]

E240 Automation Rates

1.0 BASIC STANDARDS

* * * * *

1.2 Enclosed Reply Cards and Envelopes

[Amend 1.2 to clarify that signing a postage statement certifies that the mail meets the requirements for the rates claimed to read as follows:]

All letter-size reply cards and envelopes provided as enclosures in automation rate Periodicals and addressed for return to a domestic delivery address must meet the standards in C810 for enclosed reply cards and envelopes. The mailer's signature on the postage statement certifies that this standard has been met when the corresponding mail is presented to the USPS.

* * * * *

E250 Destination Entry

[Redesignate 1.0 and 2.0 as 2.0 and 3.0, respectively. Add new 1.0 for the new destination ADC rate to read as follows:]

1.0 DADC RATE

1.1 Eligibility

Addressed pieces not eligible for In-County rates can qualify for the destination area distribution center (DADC) rates if the copies are addressed for delivery in the same DADC service area, are deposited at the DADC or a postal-designated facility, and are placed in any container level except a mixed ADC sack or tray, a mixed AADC tray, or a mixed ADC pallet.

1.2 Rates

DADC rates include a pound rate and a per piece discount off the per piece rate. Pieces claimed at DADC rates also must meet the standards for any discount or rate claimed and postage payment method used.

1.3 Documentation

Subject to P012, the publisher must be able to show compliance with 1.1 and 1.2 (e.g., by package, sack, tray, or pallet destination) and the number of pieces by presort level for each 3-digit ZIP Code destination eligible for the DADC rates. Documentation of postage is not required if each piece in the mailing is of identical weight and the pieces are separated when presented for acceptance by rate, zone (including separation by In-County and Outside-County rates), and entry discount (i.e., DDU, DSCF, and DADC).

2.0 DSCF RATE

2.1 Eligibility

[Amend redesignated 2.1 to reflect that DSCF mail must be deposited at the DSCF or a postal-designated facility and to add ineligible container information to read as follows:]

Addressed pieces not eligible for In-County rates can qualify for the destination sectional center facility (DSCF) rates if the copies are addressed for delivery within the facility service area, are deposited at the DSCF, a facility listed in L006, or a postal-designated facility, and are placed in any container level except an ADC (unless the SCF and ADC are co-located) or mixed ADC sack or tray, an AADC (unless the SCF and AADC are co-located) or mixed AADC tray, or an ADC or mixed ADC pallet.

* * * * *

[Add new E260 (former G094) and include minor editorial changes to read as follows:]

E260 Ride-Along

Summary

E260 describes the standards for the Periodicals Ride-Along classification.

1.0 BASIC ELIGIBILITY

1.1 Description

The standards in E260 apply to Standard Mail material paid at the Periodicals Ride-Along rate that is attached to or enclosed with Periodicals mail. All Periodicals subclasses may enclose eligible matter at the Ride-Along rate.

1.2 Basic Standards

Only one Ride-Along piece may be attached to or enclosed with an individual copy of Periodicals mail. If more than one Ride-Along piece is attached or enclosed, mailers have the option of paying Standard Mail postage for all the enclosures or attachments, or paying the Ride-Along rate for the first attachment or enclosure and Standard Mail rates for subsequent attachments and enclosures. Ride-Along pieces eligible under E260 must be eligible as Standard Mail and must:

a. Not exceed any dimension of the host publication.

b. Not exceed 3.3 ounces and must not exceed the weight of the host publication.

c. Not obscure the title of the publication or the address label.

1.3 Physical Characteristics

The host Periodicals piece and the Ride-Along piece must meet the following physical characteristics:

a. Construction:

(1) Bound publications. If contained within the host publication the Ride-Along piece must be securely affixed to prevent detachment during postal processing. If loose, the Ride-Along piece and publication must be enclosed together in a full wrapper, polybag, or envelope.

(2) Unbound publications. If contained within the host publication the Ride-Along piece must be securely affixed to prevent detachment during postal processing. A loose Ride-Along enclosure with an unbound publication must be combined with and inserted within the publication. If the Ride-Along piece is included outside the unbound publication, the publication and the Ride-Along piece must be enclosed in a full wrapper, polybag, or envelope.

b. A Periodicals piece (automation and nonautomation) with the addition of a Ride-Along piece must remain uniformly thick and remain in the same processing category (flat or letter) as before the addition of the Ride-Along attachment or enclosure.

c. A Periodicals piece with a Ride-Along piece that claims automation discounts must maintain the same processing category and, for flat-size mail, the flat sorting machine criteria under C820 (FSM 881 flat, or FSM 1000 flat) and automation compatibility (C810 and C820), as before the addition of the Ride-Along attachment or enclosure. For example:

(1) If, due to the inclusion of a Ride-Along piece, an FSM 881-compatible host piece can no longer be processed on the FSM 881, but must be processed on an FSM 1000, then that piece must pay either the appropriate Periodicals nonautomation rate plus the Ride-Along rate, or the appropriate Periodicals automation rate for the host piece and the appropriate Standard Mail rate for the attachment or enclosure.

(2) If, due to the inclusion of a Ride-Along piece, an FSM 1000-compatible host piece can no longer be processed on the FSM 1000, but must be processed manually, then that piece must pay either the appropriate Periodicals nonautomation rate plus the Ride-Along rate, or the appropriate Periodicals nonautomation rate for the host piece and the appropriate Standard Mail rate for the attachment or enclosure.

(3) If, due to the inclusion of a Ride-Along piece, an automation letter host piece can no longer be processed as an automation letter, then that piece must pay the appropriate Periodicals nonautomation rate plus the Ride-Along rate, or the appropriate Periodicals nonautomation rate for the host piece and the appropriate Standard Mail rate for the attachment or enclosure.

1.4 Marking

The marking “Ride-Along Enclosed” must be placed on or in the host publication if it contains an enclosure or attachment paid at the Ride-Along rate. If placed on the outer wrapper, polybag, envelope, or cover of the host publication, the marking must be set in type no smaller than any used in the required “POSTMASTER: Send change of address * * *” statement. If placed in the identification statement, the marking must meet the applicable standards. The marking must not be on or in copies not accompanied by a Ride-Along attachment or enclosure.

* * * * *

E500 Express Mail

1.0 STANDARDS FOR ALL EXPRESS MAIL

* * * * *

1.6 Flat-Rate Envelope

[Amend 1.6 by changing “2-pound” to “\1/2\-pound” to read as follows:]

Material mailed in the special flat-rate envelope available from the USPS is subject to the postage rate for a \1/2\-pound piece at the service level requested by the customer, regardless of the actual weight of the piece.

* * * * *

E600 Standard Mail

E610 Basic Standards

* * * * *

8.0 Preparation

Each Standard Mail mailing is subject to these general standards:

* * * * *

[Amend 8.0e to remove references to upgradable preparation to read as follows:]

e. Each piece must bear the addressee's name and delivery address, including the correct ZIP Code or ZIP+4 code, unless an alternative address format is used subject to A040. Detached address labels may be used subject to A060.

* * * * *

E620 Presorted Rates

1.0 BASIC STANDARDS

1.1 General

All pieces in a Presorted Regular or Presorted Nonprofit Standard Mail mailing must:

* * * * *

[Amend 1.1c to remove references to upgradable mailings to read as follows:]

c. Bear a delivery address that includes the correct ZIP Code or ZIP+4 code, unless an alternative address format is used subject to A040. Pieces prepared with detached address labels are subject to additional standards in A060.

* * * * *

1.4 ZIP Code Accuracy

[Amend 1.4 to clarify that signing a postage statement certifies the mail meets the requirements for the rates claimed to read as follows:]

All 5-digit ZIP Codes included in addresses on pieces claimed at Presorted regular and Presorted Nonprofit rates must be verified and corrected within 12 months before the mailing date, using a USPS-approved method. The mailer's signature on the postage statement certifies that this standard has been met when the corresponding mail is presented to the USPS. This standard applies to each address individually, not to a specific list or mailing. An address meeting this standard may be used in mailings at any other rates to which the standard applies during the 12-month period after its most recent update.

2.0 RATES

[Amend 2.0 by combining 2.0a and 2.0b into new 2.0a and renumbering the remaining items accordingly. This is revised to remove references to upgradable mailings.]

Presorted Regular or Nonprofit Standard Mail rates apply to Regular or Nonprofit Standard Mail letters, flats, and machinable and irregular parcels weighing less than 16 ounces that are prepared under M045, M610, or (flat-size mail only) under M910, M920, M930, or M940. Basic Presorted rates apply to pieces that do not meet the standards for the 3/5 Presorted rates described below. Basic rate and 3/5 rate pieces prepared as part of the same mailing are subject to a single minimum volume standard. Pieces that do not qualify for the 3/5 rate must be paid at the basic rate and prepared accordingly. Pieces may qualify for the 3/5 rate if they are presented:

a. In quantities of 150 or more letter-size pieces for a single 3-digit area, prepared in 5-digit or 3-digit trays.

* * * * *

[Redesignate 4.0, Barcoded Discount, as 5.0, and add new 4.0 to show that some Presorted letters are subject to the nonmachinable surcharge to read as follows:]

4.0 NONMACHINABLE SURCHARGE

The nonmachinable surcharge in R600.6.0 applies to any letter-size piece:

a. That weighs 3.3 ounces or less and meets one or more of the nonmachinable criteria in C050.2.2.

b. For which a mailer chooses the manual only (“do not automate”) option.

* * * * *

E630 Enhanced Carrier Route Rates

[Revise E630 in its entirety to reorganize and clarify the current standards and to add standards that require letter-size pieces claimed at high density or saturation rates to be automation-compatible and have delivery point barcodes to read as follows.]

1.0 BASIC STANDARDS

1.1 General

All pieces in an Enhanced Carrier Route Standard Mail mailing must:

a. Meet the basic standards for Standard Mail in E610.

b. Be part of a single mailing of at least 200 pieces or 50 pounds of pieces of Enhanced Carrier Route Standard Mail. Automation basic carrier route rate pieces are subject to a separate 200-piece or 50-pound minimum volume standard and may not be included in the same mailing as other Enhanced Carrier Route mail. Regular and Nonprofit mailings must meet separate minimum volumes.

c. Be sorted to carrier routes, marked, and documented under M045 (if palletized), M620, M920, M930, or M940.

d. Have a complete delivery address or an alternate address format.

1.2 Maximum Size

Enhanced Carrier Route rate mail may not be more than 11\3/4\ inches high, 14 inches long, or \3/4\-inch thick. Exception: Merchandise samples with detached address labels (DALs) may exceed these dimensions if the labels meet the standards in A060.

1.3 Preparation

Preparation to qualify for any Enhanced Carrier Route rate is optional and need not be performed for all carrier routes in a 5-digit area. An Enhanced Carrier Route mailing may include pieces at basic, high density, and saturation Enhanced Carrier Route rates. Automation basic carrier route rate pieces must be prepared as a separate mailing (see E640).

1.4 Carrier Route Information

Except for mailings prepared with a simplified address under A040, a carrier route code must be applied to each piece in the mailing using CASS-certified software and the current USPS Carrier Route File scheme, hard copy Carrier Route Files, or another AIS product containing carrier route information, subject to A930 and A950. Carrier route information must be updated within 90 days before the mailing date.

2.0 BASIC RATES

2.1 All Pieces

All pieces mailed at basic rates must be prepared in walk sequence or in line-of-travel (LOT) sequence according to LOT schemes prescribed by the USPS (see M050).

2.2 Letter-Size Pieces

Basic rates apply to each piece sorted under M045 or M620 and in a full carrier route tray or in a carrier route package of 10 or more pieces placed in a 5-digit carrier routes or 3-digit carrier routes tray.

2.3 Flat-Size Pieces

Basic rates apply to each piece in a carrier route package of 10 or more pieces that is:

a. Palletized under M045, M920, M930, or M940.

b. Placed in a carrier route sack containing at least 125 pieces or 15 pounds of pieces.

c. Placed in a merged 5-digit scheme, 5-digit scheme carrier routes, merged 5-digit, or 5-digit carrier routes sack.

2.4 Irregular Parcels

Basic rates apply to each piece in a carrier route sack or carton containing at least 125 pieces or 15 pounds of pieces, or in a 5-digit carrier routes sack or carton. DALs must be in carrier route packages of 10 or more pieces and prepared under A060.

3.0 HIGH DENSITY RATES

3.1 All Pieces

All pieces mailed at high density rates must:

a. Be prepared in walk sequence according to schemes prescribed by the USPS (see M050).

b. Meet the density requirement of at least 125 pieces for each carrier route. Multiple pieces per delivery address can count toward this density standard.

3.2 Letter-Size Pieces

High density rates apply to each piece that is automation-compatible according to C810, has a delivery point barcode under C840, and is in a full carrier route tray or in a carrier route package of 10 or more pieces placed in a 5-digit carrier routes or 3-digit carrier routes tray. Pieces bearing a simplified address do not need to meet the standards in C810 and are not required to have a delivery point barcode. Pieces not meeting the standards in this section may be mailed at the high density nonletter rate or at the basic letter rate.

3.3 Discount for Heavy Letters

Pieces that otherwise qualify for the high density letter rate and weigh more than 3.3 ounces but not more than 3.5 ounces pay postage equal to the nonletter piece/pound rate and receive a discount equal to the corresponding high density nonletter piece rate (3.3 ounces or less) minus the corresponding high density letter piece rate (3.3 ounces or less). If claiming a destination entry rate, the discount is calculated using the corresponding rates.

3.4 Flat-Size Pieces

High density rates apply to each piece in a carrier route package of 10 or more pieces that is:

a. Palletized under M045, M920, M930, or M940.

b. Placed in a carrier route sack containing at least 125 pieces or 15 pounds of pieces.

c. Placed in a merged 5-digit scheme, 5-digit scheme carrier routes, merged 5-digit, or 5-digit carrier routes sack.

3.5 Irregular Parcels

High density rates apply to each piece in a carrier route sack or carton containing at least 125 pieces or 15 pounds of pieces, or in a 5-digit carrier routes sack or carton. DALs must be in carrier route packages of 10 or more pieces and prepared under A060.

4.0 SATURATION RATES

4.1 All Pieces

All pieces mailed at saturation rates must:

a. Be prepared in walk sequence according to schemes prescribed by the USPS (see M050).

b. Meet the density requirement of at least 90% or more of the active residential addresses or 75% or more of the total number of active possible delivery addresses on each carrier route receiving this mail. Pieces bearing a simplified address must be addressed to 100% of the total number of active possible deliveries. Multiple pieces per delivery address do not count toward this density standard. Sacks with fewer than 125 pieces or less than 15 pounds of pieces may be prepared to a carrier route when the saturation rate is claimed for the contents and the applicable density standard is met.

4.2 Letter-Size Pieces

Saturation rates apply to each piece that is automation compatible according to C810, has a delivery point barcode under C840, and is in a full carrier route tray or in a carrier route package of 10 or more pieces placed in a 5-digit carrier routes or 3-digit carrier routes tray. Pieces bearing a simplified address do not need to meet the standards in C810 and are not required to have a delivery point barcode. Pieces not meeting the standards in this section may be mailed at the high density nonletter rate or at the basic letter rate.

4.3 Discount for Heavy Letters

Pieces that otherwise qualify for the saturation letter rate and weigh more than 3.3 ounces but not more than 3.5 ounces pay postage equal to the nonletter piece/pound rate and receive a discount equal to the corresponding saturation nonletter piece rate (3.3 ounces or less) minus the corresponding saturation letter piece rate (3.3 ounces or less). If claiming a destination entry rate, the discount is calculated using the corresponding rates.

4.4 Flat-Size Pieces

Saturation rates apply to each piece in a carrier route package of 10 or more pieces that is:

a. Palletized under M045, M920, M930, or M940.

b. Placed in a carrier route sack containing at least 125 pieces or 15 pounds of pieces.

c. Placed in a merged 5-digit scheme, 5-digit scheme carrier routes, merged 5-digit, or 5-digit carrier routes sack.

4.5 Irregular Parcels

Saturation rates apply to each piece in a carrier route sack or carton containing at least 125 pieces or 15 pounds of pieces, or in a 5-digit carrier routes sack or carton. DALs must be in carrier route packages of 10 or more pieces and prepared under A060.

5.0 RESIDUAL SHAPE SURCHARGE

Any piece that is prepared as a parcel or is not letter-size or flat-size as defined in C050 is subject to the residual shape surcharge.

E640 Automation Rates

1.0 REGULAR AND NONPROFIT RATES

* * * * *

1.2 Enclosed Reply Cards and Envelopes

[Amend 1.2 to clarify that signing a postage statement certifies the mail meets the requirements for the rates claimed to read as follows:]

All letter-size reply cards and envelopes (business reply, courtesy reply, and meter reply mail) provided as enclosures in automation Regular or Nonprofit Standard Mail, and addressed for return to a domestic delivery address, must meet the standards in C810 for enclosed reply cards and envelopes. The mailer's signature on the postage statement certifies that this standard has been met when the corresponding mail is presented to the USPS.

1.3 Rate Application—Letters-Size Pieces

[Amend 1.3 to replace the basic rate with the AADC and mixed AADC rates to read as follows:]

Automation rates apply to each piece that is sorted under M810 into the corresponding qualifying groups:

a. Groups of 150 or more pieces in 5-digit or 5-digit scheme trays qualify for the 5-digit rate. Preparation to qualify for that rate is optional and need not be done for all 5-digit or 5-digit scheme destinations.

b. Groups of 150 or more pieces in 3-digit or 3-digit scheme trays qualify for the 3-digit rate.

c. Groups of fewer than 150 pieces in origin or entry 3-digit or 3-digit scheme trays and groups of 150 or more pieces in AADC trays qualify for the AADC rate.

d. All pieces in mixed AADC trays qualify for the mixed AADC rate.

[Redesignate 1.4, Rate Application—Flats, as 1.5. Add new 1.4 for heavy automation letters to read as follows:]

1.4 Discount for Heavy Automation Letters

Automation letters that weigh more than 3.3 ounces but not more than 3.5 ounces pay postage equal to the automation piece/pound rate and receive a discount equal to the corresponding automation nonletter piece rate (3.3 ounces or less) minus the corresponding automation letter piece rate (3.3 ounces or less). If claiming a destination entry rate, the discount is calculated using the corresponding rates.

* * * * *

2.0 ENHANCED CARRIER ROUTE RATES

* * * * *

[Add new 2.6 to include the discount for ECR automation basic letters that weigh between 3.3 and 3.5 ounces to read as follows:]

2.6 Discount for Heavy Letters

Pieces that otherwise qualify for the ECR automation basic rate and weigh more than 3.3 ounces but not more than 3.5 ounces pay postage equal to the ECR regular basic nonletter piece/pound rate and receive a discount equal to the regular basic nonletter piece rate (3.3 ounces or less) minus the automation basic letter piece rate. If claiming a destination entry rate, the discount is calculated using the corresponding rates.

E700 Package Services

E710 Basic Standards

* * * * *

E712 Bound Printed Matter

1.0 BASIC STANDARDS

1.1 Description

* * * * *

[Amend 1.1b by adding a new last sentence to read as follows:]

b. Weigh no more than 15 pounds. Pieces might be subject to other minimum weights or dimensions based on the standards for specific rates.

* * * * *

[Remove 1.4, POSTNET Barcodes on Flats.]

2.0 RATES

BPM rates are based on the weight of a single addressed piece or 1 pound, whichever is higher, and the zone (where applicable) to which the piece is addressed. Rate categories are as follows:

* * * * *

[Amend the heading of 2.0d by adding “Machinable Parcels” and revise the text to read as follows:]

d. Barcoded Discount—Machinable Parcels. The barcoded discount applies only to BPM machinable parcels (C050.4.1) that bear a correct, readable barcode under C850 for the ZIP Code of the delivery address and are part of a single-piece rate mailing of 50 or more BPM parcels or are part of a presorted rate mailing of at least 300 BPM parcels prepared under M045 and M720. The barcoded discount is not available for parcels mailed at Presorted DDU or DSCF rates, or for Presorted DBMC rate mailings entered at an ASF other than the Phoenix, AZ, ASF. Carrier route rate mail is not eligible for the barcoded discount.

[Add new item 2.0e to read as follows:]

e. Barcoded Discount—Flats. The barcoded discount applies only to BPM flats that bear a correct, readable ZIP+4 or delivery point barcode (DPBC) barcode under C840 for the ZIP+4 code, or numeric DPBC of the delivery address. These pieces must be part of a presort rate mailing of at least 300 BPM flats prepared under M045 and M820 or part of a single-piece rate mailing of 50 or more pieces. The barcoded discount is not available for flats mailed at presorted DDU rates or carrier route rates. To qualify for the barcoded discount, the flat-size piece must meet the flat sorting machine requirements under C820.2.0.

3.0 ADDITIONAL STANDARDS FOR PRESORTED RATES

3.1 ZIP Code Accuracy

[Amend 3.1 to clarify that signing a postage statement certifies that the mail meets the requirements for the rates claimed to read as follows:]

All 5-digit ZIP Codes included in addresses on pieces claimed at presorted rates must be verified and corrected within 12 months before the mailing date using a USPS-approved method. The mailer's signature on the postage statement certifies that this standard has been met when the corresponding mail is presented to the USPS. This standard applies to each address individually, not a specific list or mailing. An address meeting this standard may be used in mailings at any other rates to which the standard applies during the 12-month period after its most recent update.

[Redesignate current 3.2 as 3.3 and add new 3.2 to show CASS certification for automation rate mailings to read as follows:]

3.2 CASS Certification

Pieces claimed at automation rates for flats must meet the address quality and coding standards in A800 and A950.

3.3 Preparation

[Amend redesignated 3.3 by adding reference to flats to read as follows:]Pieces claiming the Presorted rates must be prepared under M045 or M722 or, for flats claiming the barcode discount under M820.

* * * * *

E713 Media Mail

[Redesignate former 2.0 as new 1.0:]

[Redesignate former 1.0 as new 2.0 and revise to read as follows:]

2.0 RATES

Media Mail rates are based on the weight of the piece without regard to zone.

The rate categories and discounts are as follows:

a. Single-Piece Rate. The single-piece rate applies to pieces not mailed at a 5-digit or basic rate.

b. 5-Digit Presort Rate. The 5-digit rate applies to pieces that meet the additional requirements in 3.0 and are prepared and presorted to 5-digit scheme or 5-digit destinations as specified in M730 or M041 and M045.

c. Basic Presort Rate. The basic rate applies to pieces that meet the additional requirements in 3.0 and are prepared and presorted as specified in M730 or M041 and M045.

d. Barcoded Discount. The barcoded discount applies to Media Mail machinable parcels (see C050) that are included in a mailing of at least 50 pieces of Media Mail. The pieces must be entered either at single-piece rates or basic rates and bear a correct, readable barcode for the ZIP Code shown in the delivery address as required by C850. The barcoded discount is not available for pieces mailed at 5-digit rates.

[Revise the title and text of 3.0 in its entirety to read as follows:]

3.0 ADDITIONAL STANDARDS FOR PRESORTED RATES

3.1 Basic Information

A presorted Media Mail mailing must contain a minimum of 300 pieces claimed at any combination of 5-digit and basic rates. Those pieces in the mailing that meet the 5-digit presort requirements are eligible for the 5-digit presort rate and those pieces that meet the basic presort requirements are eligible for the basic rates, subject to the preparation standards in M730 or M045. The size and content of each piece in the mailing does not need to be identical. Nonidentical pieces may be merged, sorted together, and presented as a single mailing either with postage paid with a permit imprint if authorized by Business Mailer Support (BMS), USPS headquarters, or with the correct postage affixed to each piece in the mailing.

3.2 5-Digit Rate

To qualify for the 5-digit rate, a piece must be prepared and sorted to either 5-digit scheme and 5-digit sacks under M730 or to 5-digit scheme and 5-digit pallets under M045. All logical 5-digit packages on pallets must contain at least 10 pieces. Nonmachinable parcels may qualify for the 5-digit rate if prepared to preserve sortation by 5-digit ZIP Code as prescribed by the postmaster of the mailing office.

3.3 Basic Rate

All pieces prepared and sorted under M730 or M045 that are not eligible for the 5-digit rate qualify for the basic rate. Nonmachinable parcels may qualify for the basic rate if prepared to preserve sortation by BMC as prescribed by the postmaster of the mailing office.

[Redesignate former 3.2 as new 3.4 to read as follows:]

3.4 Mailing Fee

A mailing fee must be paid once each 12-month period at each post office of mailing by or for any person who mails at the presorted Media Mail rates. The fee may be paid in advance only for the next 12-month period and only during the last 60 days of the current service period. The fee charged is that in effect on the day of payment.

[Remove former 3.5 and 3.6.]

E714 Library Mail

[Redesignate former 2.0 as new 1.0: revise title to read as follows:]

1.0 BASIC STANDARDS

1.1 Sender, Recipient, and Contents

[Amend 1.1 by revising the last sentence to read as follows:]

Each piece must show in the address or return address the name of a school, college, university, public library, museum, or herbarium or the name of a nonprofit religious, education, scientific, philanthropic (charitable), agricultural, labor, veterans, or fraternal organization or association. For Library Mail standards, these nonprofit organizations are defined in E670. Only the articles described in 1.2 and 1.3 may be mailed at the Library Mail rate.

* * * * *

1.4 Enclosures in Books and Sound Recordings

[Amend 1.4 by changing the references 2.4a and 2.4b to 1.4a and 1.4b, respectively, to read as follows:]

Books and sound recordings mailed at the Library Mail rate may contain these enclosures as well as the additions and enclosures permitted under E710:

a. Either one envelope or one addressed postcard. If also serving as an order form, the envelope or card may be in addition to the order form permitted by 1.4b.

b. One order form. If also serving as an envelope or postcard, the order form may be in addition to the envelope or card permitted by 1.4a.

c. With books, announcements of books in book pages or as loose enclosures. These announcements must be incidental and exclusively devoted to books, without extraneous advertising of book-related materials or services. Announcements may fully describe the conditions and methods of ordering books (such as by membership in book clubs) and may contain ordering instructions for use with either single order form permitted in 1.4b.

d. With sound recordings, announcements of sound recordings on title labels, on protective sleeves, on the carton or wrapper, or on loose enclosures. These announcements of sound recordings must be incidental and exclusively devoted to sound recordings. They may not contain extraneous advertising of recording-related materials or services. Announcements may fully describe the conditions and methods of ordering sound recordings (such as by membership in sound recording clubs) and may contain ordering instructions for use with the single order form permitted in 1.4b.

* * * * *

[Redesignate former 1.0 as new 2.0 and revise to read as follows:]

2.0 RATES

Library Mail rates are based on the weight of the piece without regard to zone. The rate categories and discounts are as follows:

a. Single-Piece Rate. The single-piece rate applies to pieces not mailed at a 5-digit or basic rate.

b. 5-Digit Presort Rate. The 5-digit rate applies to pieces that meet the additional requirements of 3.0 and are prepared and presorted to 5-digit scheme and 5-digit destinations as specified in M740 or M041 and M045.

c. Basic Presort Rate. The basic rate applies to pieces that meet the additional requirement in 3.0 and are prepared and presorted as specified in M740 or M041 and M045.

d. Barcoded Discount. The barcoded discount applies to Library Mail machinable parcels (see C050) that are included in a mailing of at least 50 pieces of Library Mail. The pieces must be entered either at single-piece rates or basic rates and bear a correct, readable barcode for the ZIP Code shown in the delivery address as required by C850. The barcoded discount is not available for pieces mailed at 5-digit rates.

[Revise the title and text of 3.0 in its entirety to read as follows:]

3.0 ADDITIONAL STANDARDS FOR PRESORT RATES

3.1 Basic Information

A presorted Library Mail mailing must contain a minimum of 300 pieces claimed at any combination of 5-digit and basic rates. Those pieces in the mailing that meet the 5-digit presort requirements are eligible for the 5-digit presort rate, and those pieces that meet the basic presort requirements are eligible for the basic rate, subject to the preparation standards in M740 or M045. The size and content of each piece in the mailing does not need to be identical. Nonidentical pieces may be merged, sorted together, and presented as a single mailing either with postage paid with a permit imprint if authorized by Business Mailer Support (BMS), USPS headquarters, or with the correct postage affixed to each piece in the mailing.

3.2 5-Digit Rate

To qualify for the 5-digit rate, a piece must be prepared and sorted to either 5-digit scheme and 5-digit sacks under M740 or to 5-digit scheme and 5-digit pallets under M045. All logical 5-digit packages on pallets must contain at least 10 pieces. Nonmachinable parcels may qualify for the 5-digit rate if prepared to preserve sortation by 5-digit ZIP Code as prescribed by the postmaster of the mailing office.

3.3 Basic Rate

All pieces prepared and sorted under M740 or M045 that are not eligible for the 5-digit rate qualify for the basic rate. Nonmachinable parcels may qualify for the basic rate if prepared to preserve sortation by BMC as prescribed by the postmaster.

[Redesignate former 3.2 as new 3.4 to read as follows:]

3.4 Mailing Fee

A mailing fee must be paid once each 12-month period at each post office of mailing by or for any person who mails at the presorted Library Mail rates. The fee may be paid in advance only for the next 12-month period and only during the last 60 days of the current service period. The fee charged is that in effect on the day of payment.

[Remove 3.5 and 3.6.]

[Remove E715, Bulk Parcel Post.]

E750 Destination Entry

E751 Parcel Select

1.0 BASIC STANDARDS

1.1 Definitions

[Amend 1.1b by adding a sentence after the first one to read as follows:]

b. * * * Those 5-digit machinable parcels not required to be entered at a BMC under Exhibit 6.0 and all 3-digit nonmachinable parcels sorted to the 3-digit level and claimed at the DSCF rate must be deposited at an SCF listed in L005. * * *

* * * * *

1.4 DSCF and DDU Rates

For DSCF and DDU rates, pieces must meet the applicable standards in 1.0 through 6.0 and the following criteria:

[Amend 1.4a by adding “5-digit scheme” and “5-digit Parcel Post;” to read as follows:]

a. For DSCF rates, be part of a mailing of parcels sorted to 5-digit scheme or 5-digit destinations and deposited at a designated SCF under L005 (or at a BMC under Exhibit 6.0); addressed for delivery within the ZIP Code service area of that SCF under L005; and prepared under with M041, M045, or M710. Nonmachinable parcels sorted to 3-digit ZIP Code prefixes and claimed at a DSCF rate must be entered at a designated SCF under L005. * * *

* * * * *

2.0 PREPARATION

* * * * *

2.2 Containers

[Amend 2.2c, 2.2d, and 2.2e by adding “3-digit sack” after each occurrence of “5-digit sack” and adding “3-digit pallet” after each occurrence of “5-digit pallet.”]

* * * * *

E752 Bound Printed Matter

* * * * *

3.0 DESTINATION SECTIONAL CENTER FACILITY (DSCF) RATES

* * * * *

[Amend the title and text of 3.2 to add eligibility standards for presorted automation flats to read as follows:]

3.2 Presorted and Automation Flats

Presorted flats and automation flats in sacks for the 5-digit, 3-digit, and SCF sort levels or on pallets at the 5-digit scheme and 5-digit, 3-digit, SCF, and ASF sort levels may claim DSCF rates. The mail must be entered at the appropriate facility under 3.1.

* * * * *

E753 Combining Package Services Parcels

[Amend 1.1 by replacing “BMC rates” with “basic rates.”]

* * * * *

F Forwarding and Related Services

F000 Basic Services

F010 Basic Information

* * * * *

4.0 BASIC TREATMENT

4.1 General

[Amend 4.1 to remove references to nonstandard mail to read as follows:]

Mail that is undeliverable as addressed is forwarded, returned to the sender, or treated as dead mail, as authorized for the particular class of mail. Undeliverable-as-addressed mail is endorsed by the USPS with the reason for nondelivery as shown in Exhibit 4.1. All nonmailable pieces are returned to the sender.

* * * * *

5.0 CLASS TREATMENT FOR ANCILLARY SERVICES

* * * * *

5.2 Periodicals

Undeliverable Periodicals (including publications pending Periodicals authorization) are treated as described in the chart below and under these conditions:

* * * * *

[Amend 5.2e to show that the nonmachinable surcharge can be charged on Periodicals returned at First-Class Mail single-piece rates to read as follows:]

e. The publisher may request the return of copies of undelivered Periodicals by printing the endorsement “Address Service Requested” on the envelopes or wrappers, or on one of the outside covers of unwrapped copies, immediately preceded by the sender's name, address, and ZIP+4 or 5-digit ZIP Code. This endorsement obligates the publisher to pay return postage. Each returned piece is charged the single-piece First-Class Mail or Priority Mail rate applicable for the weight of the piece, plus the nonmachinable surcharge if it applies (see E130). When the address correction is provided incidental to the return of the piece, there is no charge for the correction.

* * * * *

5.3 Standard Mail

Undeliverable Standard Mail is treated as described in the chart below and under these conditions:

* * * * *

[Amend 5.3g to show that the nonmachinable surcharge is included in the calculation of the weighted fee for returned pieces to read as follows:]

g. A weighted fee is charged when an unforwardable or undeliverable piece is returned to the sender and the piece is endorsed “Address Service Requested” or “Forwarding Service Requested.” The weighted fee is the single-piece First-Class Mail or Priority Mail rate applicable for the weight of the piece, multiplied by 2.472 and rounded up to the next whole cent (if the computation yields a fraction of a cent), plus the nonmachinable surcharge if it applies (see E130). The weighted fee is computed (and rounded if necessary) for each piece individually. Using “Address Service Requested” or “Forwarding Service Requested” obligates the sender to pay the weighted fee on all returned pieces.

[Redesignate current 5.3h as 5.3i, and add new 5.3h to show that the First-Class Mail nonmachinable surcharge is charged on some returned pieces to read as follows:]

h. Returned pieces endorsed “Return Service Requested,” are charged the single-piece First-Class Mail or Priority Mail rate applicable for the weight of the piece, plus the nonmachinable surcharge if it applies (see E130).

* * * * *

6.0 ENCLOSURES AND ATTACHMENTS

6.1 Periodicals

[Amend 6.1 to show that the nonmachinable surcharge can be charged on Periodicals returned at First-Class Mail single-piece rates to read as follows:]

Undeliverable Periodicals (including publications pending Periodicals authorization) with a nonincidental First-Class Mail attachment or enclosure are returned at the single-piece First-Class Mail or Priority Mail rate applicable for the weight of the piece, plus the nonmachinable surcharge if it applies (see E130).

The weight of the attachment or enclosure is not included when computing the charges for return of the mailpiece. Undeliverable Periodicals (including publications pending Periodicals authorization) with an incidental First-Class Mail attachment or enclosure are treated as dead mail unless endorsed “Address Service Requested.”

6.2 Standard Mail

[Amend 6.2 to show that the nonmachinable surcharge can be charged on Standard Mail returned at First-Class Mail single-piece rates to read as follows:]

Undeliverable, unendorsed Standard Mail with a nonincidental First-Class Mail attachment or enclosure is returned at the single-piece First-Class Mail or Priority Mail rate applicable for the weight of the piece, plus the nonmachinable surcharge if it applies (see E130). The weight of the First-Class Mail attachment or enclosure is not included when computing the charges for return of the mailpiece. Undeliverable, unendorsed Standard Mail with an incidental First-Class Mail attachment or enclosure is treated as dead mail.

* * * * *

F030 Address Correction, Address Change, FASTforward, and Return Services

1.0 ADDRESS CORRECTION SERVICE

1.1 Purposes

[Add a new sentence after the first sentence to clarify the conditions under which address notices are provided to read as follows:]

* * * Address corrections and notices are not provided for customers who file a temporary change of address or for individuals at a business address (see F020.1.0). * * *

* * * * *

G General Information

G000 The USPS and Mailing Standards

* * * * *

G090 Experimental Classifications and Rates

G091 NetPost Mailing Online

* * * * *

4.0 POSTAGE AND FEES

4.1 Postage

[Revise 4.1 to read as follows:]

Documents mailed during the experiment are eligible for the following rate categories only:

a. First-Class Mail automation mixed AADC rates.

b. First-Class Mail automation mixed ADC rates.

c. First-Class Mail single-piece rates.

d. Regular Standard Mail automation letters mixed AADC rates.

e. Regular Standard Mail automation flats basic rates.

f. Nonprofit Standard Mail automation letters mixed AADC rates.

g. Nonprofit Standard Mail automation flats basic rates.

* * * * *

[Delete G094 in its entirety. The Ride-Along would become a permanent classification and the standards would be moved to new E260.]

* * * * *

L Labeling Lists

* * * * *

L800 Automation Rate Mailings

* * * * *

[Amend the title and the first sentence in the summary of L802 by adding “Bound Printed Matter” to read as follows:]

L802 BMC/ASF Entry—Periodicals, Standard Mail, and Bound Printed Matter

Summary

L802 describes the service area by individual 3-digit ZIP Code prefix for mixed automation rate Periodicals, Standard Mail, and Bound Printed Matter mailings entered at an ASF or BMC. * * *

[Amend the title and the first sentence in the summary of L803 by adding “Bound Printed Matter” to read as follows:]

L803 Non-BMC/ASF Entry—Periodicals, Standard Mail, and Bound Printed Matter

Summary

L803 describes the service area by individual 3-digit ZIP Code prefix for mixed automation rate Periodicals, Standard Mail, and Bound Printed Matter mailings.* * *

* * * * *

M Mail Preparation and Sortation

M000 General Preparation Standards

M010 Mailpieces

M011 Basic Standards

1.0 TERMS AND CONDITIONS

* * * * *

1.3 Preparation Instructions

For purposes of preparing mail:

* * * * *

[Amend 1.3b to show that a full letter tray can be anywhere between 75% and 100% full (the preferred default for presort software is 85%) full to read as follows:]

b. A full letter tray is one in which faced, upright pieces fill the length of the tray between 75% and 100% full.

* * * * *

1.4 Mailing

Mailings are defined as:

* * * * *

[Combine 1.4c with 1.4b. Redesignate 1.4d through 1.4f as 1.4c through 1.4e, respectively. Amend 1.4b to remove references to the upgradable preparation and to show that machinable and nonmachinable pieces cannot be part of the same mailing to read as follows:]

b. First-Class Mail. Cards and letters must be prepared as separate mailings except that they may be sorted together if each meets separate minimum volume mailing requirements. The following types of First-Class Mail may not be part of the same mailing despite being in the same processing category:

(1) Automation rate and any other type of mail.

(2) Presorted rate and any other type of mail.

(3) Single-piece rate and any other type of mail.

(4) Machinable and nonmachinable pieces.

* * * * *

[Amend redesignated 1.4d to remove references to the upgradable preparation, to show that machinable and nonmachinable pieces cannot be part of the same mailing, and to show that ECR letter rate pieces and ECR nonletter rate pieces cannot be part of the same mailing.]

d. Standard Mail. Except as provided in E620.1.2, the types of Standard Mail listed below may not be part of the same mailing. See M041, M045, and M610, and M620 for copalletized, combined, or mixed rate level mailings.

(1) Automation Enhanced Carrier Route and any other type of mail.

(2) Regular automation rate and any other type of mail.

(3) Enhanced Carrier Route and any other type of mail.

(4) Enhanced Carrier Route letter rate pieces and Enhanced Carrier Route nonletter rate pieces.

(5) Presorted rate mail and any other type of mail.

(6) Machinable and nonmachinable pieces.

(7) Except as provided by standard, Regular rate mail may not be in the same mailing as Nonprofit rate mail, and Enhanced Carrier Route mail may not be in the same mailing as Nonprofit Enhanced Carrier Route mail.

* * * * *

M012 Markings and Endorsements

* * * * *

2.0 MARKINGS—FIRST-CLASS MAIL AND STANDARD MAIL

* * * * *

2.2 Exceptions to Markings

[Amend 2.2d to update the required MLOCR markings:]Exceptions are as follows:

* * * * *

d. MLOCR Prepared Automation Mailings. The basic marking must appear in the postage area on each piece as required in 2.1a. The other “AUTO” marking described in 2.1b must be replaced by the appropriate Identifier/Rate Code marking as described in P960 on those pieces that have the marking applied by an MLOCR. This seven-character marking provides a description of the Product Month Designator, MASS/FASTforward System Identifier, postage payment method, and the rate of postage affixed for metered and precanceled stamp mail or other postage information for permit imprint mail.

3.0 MARKINGS—PACKAGE SERVICES

* * * * *

3.3 Additional Bound Printed Matter Markings

[Revise 3.3 to read as follows:]

In addition to the basic marking in 3.1, each piece of Bound Printed Matter mailed at a presorted or carrier route rate must bear additional rate markings. The additional markings may be placed in the postage area as specified in 3.1. Alternatively, these markings may be placed in the address area on the line directly above or two lines above the address if the marking appears alone, or if no other information appears on the line with the marking except postal optional endorsement line information under M013 or postal carrier route package information under M014. The additional rate markings are:

a. For presorted rate mail, the additional required marking is “Presorted” (or “PRSRT”). For presorted automation rate flats prepared under M820, the optional marking “AUTO” may be used in place of “Presorted” (or “PRSRT”). If the “AUTO” marking is not used, the automation rate flats must bear the “Presorted” (or “PRSRT”) rate marking.

b. For carrier route rate mail, the additional required marking is “Carrier Route Presort” (or “CAR-RT SORT”).

* * * * *

4.0 ENDORSEMENTS—DELIVERY AND ANCILLARY SERVICES

* * * * *

[Remove 4.5, OCR Read Area.]

* * * * *

M020 Packages

* * * * *

1.0 BASIC STANDARDS

* * * * *

[Amend the title and text of 1.6 to include Media Mail and Library Mail to read as follows:]

1.6 Package Size—Bound Printed Matter, Media Mail, and Library Mail

Each logical package (the total group of pieces for a package destination) of Bound Printed Matter, Media Mail, and Library Mail must meet the applicable minimum and maximum package size standards in M045, M722, M730, or M740. The pieces in the logical package must then be secured in a physical package or packages. Wherever possible, each physical package for a logical package destination should contain at least the minimum package size. The size of each physical package for a specific logical package destination may, however, contain the exact package minimum, more pieces than the package minimum, or fewer pieces than the package minimum depending on the size of the pieces in the mailing or the total quantity of the pieces to that destination. Unless otherwise noted, the maximum weight for packages in sacks is 20 pounds. Except for mixed ADC packages and for carrier route packages prepared in sacks, each physical package of Bound Printed Matter must contain at least two pieces. For carrier route rate Bound Printed Matter mail prepared in sacks, the last physical package to an individual carrier route destination may consist of a single addressed piece, provided that all other packages to that carrier route destination contain at least two addressed pieces, and that the total group of pieces to that carrier route (the “logical” package) meets the carrier route rate eligibility minimum in E712. Packages prepared on pallets must meet the additional packaging requirements under M045 and each physical package, including Carrier Route rate mail, must always contain at least two pieces. Packages of Bound Printed Matter automation flats must meet be prepared under M820.

* * * * *

[Amend the title in 2.0 to read as follows:]

2.0 ADDITIONAL STANDARDS

2.1 Cards and Letter-Size Pieces

Cards and letter-size pieces are subject to these packaging standards:

* * * * *

[Amend 2.1c to remove references to the upgradable preparation for First-Class Mail and Standard Mail and to show that nonmachinable and “manual only” pieces must be packaged to read as follows:]

c. Packages must be prepared for mail in all less-than-full trays and 3-digit carrier routes trays; for nonmachinable Presorted First-Class Mail; for nonmachinable Presorted Standard Mail; for First-Class Mail and Standard Mail pieces where the mailer has requested manual only processing; and for nonautomation Periodicals.

* * * * *

2.2 Flat-Size Pieces

[Amend 2.2 to add references to Media Mail and Library Mail to read as follows:]

Packages of flat-size pieces must be secure and stable subject to the following:

a. If placed on pallets, the specific weight limits in M045.

b. If placed in sacks:

(1) For Periodicals and Standard Mail, the specific weight and height limits in 1.8.

(2) For Bound Printed Matter, the specific weight limits in M720

(3) For Media Mail and Library Mail, the specific weight limits in M730 and M740, as applicable.

* * * * *

M030 Containers

M031 Labels

* * * * *

4.0 PALLET LABELS

* * * * *

[Amend the title and text of 4.9 for clarity to read as follows:]

4.9 Barcoded Status

Pallet labels must indicate whether the mail on the pallet is barcoded, or not barcoded, or both. Specific Line 2 label information is in M045, M920, M930, and M940.

* * * * *

5.0 SECOND LINE CODES

The codes shown below must be used as appropriate on Line 2 of sack, tray, and pallet labels.

[Amend the table in 5.0 to add a second line code for manual letter-size pieces and to revise the entries for carrier routes, letters, and machinable parcels. The entries are to be inserted in alphabetical order to read as follows:]

Content type | Code
[Revise the code for Carrier Routes to add a new code:] Carrier Routes | CR-RT or CR-RTS.
[Revise the code for Letters to add a new code:] Letters | LTR or LTRS.
[Revise the entry for Machinable to apply to all classes and processing categories:] Machinable | MACH.
[Add a new entry for manual processing:] Manual (cannot be processed on automated equipment) | MAN or MANUAL.

M032 Barcoded Labels

1.0 BASIC STANDARDS—TRAY AND SACK LABELS

* * * * *

Exhibit 1.3a 3-Digit Content Identifier Numbers

[Amend Exhibit 1.3a by adding new categories and CINs. Also, in the human-readable content line for First-Class Mail and Standard Mail letters, replace “LTRS” with “LTR” and “CR-RTS” with “CR-RT.” The footnotes are unchanged.]

Class and mailing | CIN | Human-readable content line
FIRST-CLASS MAIL
[For “FCM Letters—Automation,” in the human-readable content line, replace “LTRS” with “LTR” and “CR-RTS” with “CR-RT” for all entries. Amend the human-readable content line for the 5-digit carrier routes trays for consistency:]
5-digit carrier routes trays | 264 | FCM LTR 5D CR-RT BC
[For “FCM Letters—Presorted (Basic Preparation),” change the title and human-readable content line information.]
FCM Letters—Presorted Nonmachinable (requires or requests manual processing)
5-digit trays | 267 | FCM LTR 5D MANUAL
3-digit trays | 269 | FCM LTR 3D MANUAL
ADC trays | 270 | FCM LTR ADC MANUAL
Mixed ADC trays | 268 | FCM LTR MANUAL WKG
[Delete the entry for “FCM Letters—Presorted (Nonautomation Processing).”]
[For “FCM Letters—Presorted (Upgradable Preparation),” change the title and human-readable content line information to read as follows:]
FCM Letters—Presorted Machinable
5-digit trays | 252 | FCM LTR 5D MACH
3-digit trays | 255 | FCM LTR 3D MACH
AADC trays | 258 | FCM LTR AADC MACH
Mixed AADC trays | 260 | FCM LTR MACH WKG
STANDARD MAIL
[For “Enhanced Carrier Route Letters—Automation,” in the human-readable content line, replace “LTRS” with “LTR” and “CR-RTS” with “CR-RT” for all entries. Amend the human-readable content line for the 5-digit carrier routes trays for consistency:]
5-digit carrier routes trays | 564 | STD LTR 5D CR-RT BC
[For “Enhanced Carrier Route Letters—Nonautomation,” change the title and human-readable content line information to show that saturation and high-density letters must be barcoded to read as follows:]
Enhanced Carrier Route Letters—Barcoded
Saturation rate trays | 557 | STD LTR BC WSS (1)
High density rate trays | 557 | STD LTR BC WSH (1)
Basic rate trays | 557 | STD LTR BC LOT (1)
5-digit carrier routes trays | 564 | STD LTR 5D CR-RT BC
3-digit carrier routes trays | 565 | STD LTR 3D CR-RT BC
[Add the following entry for ECR letters that are not barcoded but are machinable (for mailers who choose not to barcode their machinable pieces):]
Enhanced Carrier Route Letters—Nonautomation (Not Barcoded but Machinable)
Saturation rate trays | 569 | STD LTR MACH WSS (1)
High density rate trays | 569 | STD LTR MACH WSH (1)
Basic rate trays | 569 | STD LTR MACH LOT (1)
5-digit carrier routes trays | 567 | STD LTR 5D CR-RT MACH
3-digit carrier routes trays | 567 | STD LTR 3D CR-RT MACH
[Add the following entry for ECR letters that are not machinable (regardless of whether the pieces are barcoded):]
Enhanced Carrier Route Letters—Nonautomation (Nonmachinable)
Saturation rate trays | 608 | STD LTR MAN WSS (1)
High density rate trays | 608 | STD LTR MAN WSH (1)
Basic rate trays | 608 | STD LTR MAN LOT (1)
5-digit carrier routes trays | 609 | STD LTR 5D CR-RT MAN
3-digit carrier routes trays | 611 | STD LTR 3D CR-RT MAN
[For “STD Letters—Automation,” in the human-readable content line, replace “LTRS” with “LTR” for all entries.]
[For “STD Letters—Presorted (Basic Preparation)” change the title and the human-readable content line information to read as follows:]
STD Letters—Presorted Nonmachinable (requires or requests manual processing)
5-digit trays | 604 | STD LTR 5D MANUAL
3-digit trays | 606 | STD LTR 3D MANUAL
ADC trays | 607 | STD LTR ADC MANUAL
Mixed ADC trays | 605 | STD LTR MANUAL WKG
[Delete the entry for “STD Letters—Presorted (Nonautomation Processing).”]
[For “STD Letters—Presorted (Upgradable Preparation),” change the title and the human-readable content line information to read as follows:]
STD Letters—Presorted Machinable
5-digit trays | 552 | STD LTR 5D MACH
3-digit trays | 555 | STD LTR 3D MACH
AADC trays | 558 | STD LTR AADC MACH
Mixed AADC trays | 560 | STD LTR MACH WKG
PACKAGES SERVICES
Bound Printed Matter Flats—Automation
5-digit sacks | 635 | PSVC FLTS 5D BC
3-digit sacks | 636 | PSVC FLTS 3D BC
SCF sacks | 637 | PSVC FLTS SCF BC
ADC sacks | 638 | PSVC FLTS ADC BC
Mixed ADC sacks | 639 | PSVC FLTS BC WKG
Media Mail and Library Mail Flats—Presorted
5-digit sacks | 649 | PSVC FLTS 5D NON BC
3-digit sacks | 650 | PSVC FLTS 3D NON BC
ADC sacks | 651 | PSVC FLTS ADC NON BC
Mixed ADC sacks | 653 | PSVC FLTS NON BC WKG
Media Mail and Library Mail Irregular Parcels—Presorted
5-digit sacks | 690 | PSVC IRREG 5D
5-digit scheme sacks | 690 | PSVC IRREG 5D SCH
3-digit sacks | 691 | PSVC IRREG 3D
ADC sacks | 692 | PSVC IRREG ADC
Mixed ADC sacks | 694 | PSVC IRREG WKG
Media Mail and Library Mail Machinable Parcels—Presorted
5-digit sacks | 680 | PSVC MACH 5D
5-digit scheme sacks | 680 | PSVC MACH 5D SCH
ASF sacks | 682 | PSVC MACH ASF
BMC sacks | 683 | PSVC MACH BMC
Mixed BMC sacks | 684 | PSVC MACH WKG

* * * * *

M033 Sacks and Trays

* * * * *

2.0 FIRST-CLASS MAIL, PERIODICALS, AND STANDARD MAIL

2.1 Letter Tray Preparation

[Revise 2.1 in its entirety to reorganize and clarify the standards for letter trays to read as follows:]

Letter trays are prepared as follows:

a. Subject to availability of equipment, standard managed mail (MM) trays must be used for all letter-size mail, except that extended MM (EMM) trays must be used when available for letter-size mail that exceeds the height or width (inside dimensions) of MM trays defined in 1.3. When EMM trays are not available for those larger pieces, they must be placed in MM trays, angled back, or placed upright perpendicular to the length of the tray in row(s) to preserve their orientation.

b. Pieces must be “faced” (oriented with all addresses in the same direction with the postage area in the upper right).

c. Each tray prepared must be filled before filling the next tray, with the contents in multiple trays relatively balanced. When preparing full trays, mailers must fill all possible 2-foot trays first; if there is mail remaining for the presort destination, then mailers must use a combination of 1-foot and 2-foot trays that results in the fewest total number of trays.

d. For presort destinations that do not require full trays, pieces are placed in a less-than-full tray.

e. Mailers must use as few trays as possible without jeopardizing rate eligibility. For instance, a mailer will never have two 1-foot trays to a single destination; that mail must be placed in a single 2-foot tray. A 1-foot tray is prepared only if it is a full tray with no overflow; or if there is less than 1 foot of mail for that destination; or if the overflow from a full 2-foot tray is less than 1 foot of mail.

f. Each tray must bear the correct tray label.

g. Each tray must be sleeved and strapped under 1.5 and 1.6.

h. If a mailing is prepared using an MLOCR/barcode sorter and is submitted with standardized documentation, then pieces do not have to be grouped by 3-digit ZIP Code prefix (or by 3-digit scheme, if applicable) in AADC trays, or by AADC in mixed AADC trays.

* * * * *

M040 Pallets

M041 General Standards

* * * * *

5.0 PREPARATION

* * * * *

5.3 Minimum Load

These standards apply to:

[Amend 5.3a to show that letter trays on pallets are measured by linear feet, not by the number of layers of trays to read as follows:]

a. Periodicals, Standard Mail, and Package Services (except for Parcel Post mailed at BMC Presort, OBMC Presort, DSCF, and DDU rates). In a single mailing, the minimum load per pallet is 250 pounds of packages, parcels, or sacks; or 36 linear feet letter trays. In a mailing or mailing job presented for acceptance at a single postal facility, one overflow pallet with less than the required minimum may be prepared for mail destinating in the service area of the entry facility; that pallet must be properly labeled under M045. Exceptions: There is no minimum load for pallets entered at a DDU if the mail on those pallets is for that DDU's service area. For mail entered at an SCF, the SCF manager must authorize in writing preparation of any 5-digit, 3-digit, or SCF pallet containing less than the minimum required load if the mail on those pallets is for that SCF's service area.

* * * * *

5.5 Maximum Load

[Amend 5.5 to show that all pallets are measured in inches, not in the number of layers of trays to read as follows:]

The maximum weight (mail and pallet) is 2,200 pounds. The maximum height of a single pallet (pallet, mail, and top cap) is 77 inches. Exception: A single pallet that is prepared for entry at Anchorage or Fairbanks, AK, may not exceed a maximum height of 72 inches (pallet, mail, and top cap).

5.6 Mail on Pallets

These standards apply to mail on pallets:

* * * * *

[Redesignate 5.6d through 5.6h as 5.6e through 5.6i, respectively. Add new 5.6d to show that letter trays on pallets are measured by linear feet, not by the number of layers of trays to read as follows:]

d. For determining minimum pallet volume, mail in letter trays is measured in linear feet. A 2-foot tray equals 2 linear feet; a 1-foot tray equals 1 linear foot.

* * * * *

M045 Palletized Mailings

* * * * *

3.0 PALLET PRESORT AND LABELING

* * * * *

3.2 Standard Mail Packages, Sacks, Irregular Parcels, or Trays on Pallets

Mailers must prepare pallets in the sequence listed below, except that mailings of sacks and trays must be prepared beginning with 3.2c (because scheme sort is not permitted). Pallets must be labeled according to the Line 1 and Line 2 information listed below and under M031. At the mailer's option, packages of Standard Mail flats may be palletized using the advanced presort options under M920, M930, or M940.

* * * * *

[Amend 3.2c to show that pallets of carrier route letters must show on Line 2 of the pallet label whether the pieces are barcoded or not barcoded to read as follows:]

c. 5-Digit Carrier Routes. Required for sacks and packages; optional for trays. May contain only carrier route rate mail for the same 5-digit ZIP Code.

(1) Line 1: use city, state abbreviation, and 5-digit ZIP Code on mail, preceded for military mail by correct prefix in M031.

(2) Line 2: For flats and irregulars, “STD FLTS” or “STD IRREG”; followed by “CARRIER ROUTES” or “CR-RTS.” For trays, “STD LTRS”; followed by “CARRIER ROUTES” or “CR-RTS”; followed by “BC” if the pallet contains barcoded letters; followed by “MACH” if the pallet contains nonbarcoded machinable letters; followed by “MAN” if the pallet contains nonmachinable letters.

* * * * *

[Amend 3.2e through 3.2i to show that pallets must indicate on Line 2 of the pallet label whether the pieces are barcoded (“BC”), not barcoded but machinable (“MACH”), or nonmachinable (“MAN”) to read as follows:]

e. 3-Digit. Optional. May contain carrier route rate, automation rate, and/or Presorted rate mail.

(1) Line 1: use L002, Column A.

(2) Line 2: For flats and irregulars, “STD FLTS 3D” or “STD IRREG 3D”; followed by “BARCODED” or “BC” if the pallet contains automation rate mail; followed by “NONBARCODED” or “NBC” if the pallet contains Presorted rate and/or carrier route rate mail. For letters, “STD LTRS 3D”; followed by “BC” if the pallet contains barcoded letters; followed by “MACH” if the pallet contains nonbarcoded machinable letters; followed by “MAN” if the pallet contains nonmachinable letters.

f. SCF. Required. May contain carrier route rate, automation rate, and/or Presorted rate mail.

(1) Line 1: use L002, Column C.

(2) Line 2: For flats and irregulars, “STD FLTS SCF” or “STD IRREG SCF'; followed by “BARCODED” or “BC” if the pallet contains automation rate mail; followed by “NONBARCODED” or “NBC” if the pallet contains Presorted rate and/or carrier route rate mail. For letters, “STD LTRS SCF”; followed by “BC” if the pallet contains barcoded letters; followed by “MACH” if the pallet contains nonbarcoded machinable letters; followed by “MAN” if the pallet contains nonmachinable letters.

g. ASF. Required, except that an ASF sort may not be required if using package reallocation for flats to protect the BMC pallet under 5.0. May contain carrier route rate, automation rate, and/or Presorted rate mail. Sort ADC packages, trays, or sacks to ASF pallets based on the “label to” ZIP Code for the ADC destination of the package, tray, or sack in L004 (letters or flats) or L603 (irregular parcels). Sort AADC trays to ASF pallets based on the “label to” ZIP Code for the AADC destination of the tray in L801. See E650.5.0 for additional requirements for DBMC rate eligibility.

(1) Line 1: use L602.

(2) Line 2: For flats and irregulars, “STD FLTS ASF” or “STD IRREG ASF'; followed by “BARCODED” or “BC” if the pallet contains automation rate mail; followed by “NONBARCODED” or “NBC” if the pallet contains Presorted rate and/or carrier route rate mail. For letters, “STD LTRS ASF”; followed by “BC” if the pallet contains barcoded letters; followed by “MACH” if the pallet contains nonbarcoded machinable letters; followed by “MAN” if the pallet contains nonmachinable letters.

h. BMC. Required. May contain carrier route rate, automation rate, and/or Presorted rate mail. Sort ADC packages, trays, or sacks to BMC pallets based on the “label to” ZIP Code for the ADC destination of the package, tray, or sack in L004 (letters or flats) or L603 (irregular parcels). Sort AADC trays to BMC pallets based on the “label to” ZIP Code for the AADC destination of the tray in L801. See E650.5.0 for additional requirements for DBMC rate eligibility.

(1) Line 1: use L601.

(2) Line 2: For flats and irregulars, “STD FLTS BMC” or “STD IRREG BMC'; followed by “BARCODED” or “BC” if the pallet contains automation rate mail; followed by “NONBARCODED” or “NBC” if the pallet contains Presorted rate and/or carrier route rate mail. For letters, “STD LTRS BMC”; followed by “BC” if the pallet contains barcoded letters; followed by “MACH” if the pallet contains nonbarcoded machinable letters; followed by “MAN if the pallet contains nonmachinable letters.

i. Mixed BMC (for sacks and trays on pallets only). Optional. May contain carrier route rate, automation rate, and/or Presorted rate mail.

(1) Line 1: use “MXD” followed by the information in L601, Column B, for the BMC serving the 3-digit ZIP Code prefix of the entry post office (label to plant serving entry post office if authorized by the processing and distribution manager).

(2) Line 2: For flats and irregulars, “STD FLTS” or “STD IRREG'; followed by “BARCODED” or “BC” if the pallet contains automation rate mail; followed by “NONBARCODED” or “NBC” if the pallet contains Presorted rate and/or carrier route rate mail; followed by “WKG.” For letters, “STD LTRS”; followed by “BC” if the pallet contains barcoded letters; followed by “MACH” if the pallet contains nonbarcoded machinable letters; followed by “MAN if the pallet contains nonmachinable letters; followed by “WKG.”

[Revise the title and text of 3.3a to read as follows:]

3.3 Package Services Flats—Packages and Sacks on Pallets

Mailers must prepare pallets in the sequence listed below, except that mailings of sacks on pallets must be prepared beginning with 3.3c. Pallets must be labeled according to the Line 1 and Line 2 information listed below and under M031.

a. 5-Digit Scheme Carrier Routes. Required for packages of BPM flats on pallets. Not permitted for sacks on pallets. May contain only carrier route rate packages for the same 5-digit scheme under L001. Scheme sort must be done for all 5-digit scheme destinations. For all 5-digit destinations that are not part of a scheme, prepare 5-digit carrier routes pallets under 3.3c.

(1) Line 1: use L001, Column B.

(2) Line 2: “PSVC FLTS,” followed by “CARRIER ROUTES” or “CR-RTS” and “SCHEME” or “SCH.” * * *

* * * * *

[Amend the title of 3.4 by replacing Bound Printed Matter with Package Services Irregular Parcels to read as follows:]

3.4 Package Services Irregular Parcels—Packages and Sacks on Pallets

* * * * *

[Revise the title of 3.5 to read as follows:]

3.5 Machinable Parcels—Standard Mail and Package Services

* * * * *

[Remove section 3.6, Presorted Media Mail and Library Mail.]

* * * * *

M050 Delivery Sequence

* * * * *

4.0 DOCUMENTATION

4.1 General

[Amend the first paragraph of 4.1 to clarify that signing a postage statement certifies the mail meets the requirements for the rates claimed to read as follows:]

For Periodicals, the postage statement must be annotated in the “Sequencing Date” block on each of the lines where carrier route basic, high density, and saturation per piece rate postage is reported. For Standard Mail, the postage statement must be annotated in the “Sequencing Date” block on the front of the postage statement where total postage for Enhanced Carrier Route rates is reported. The mailer must provide documentation to substantiate compliance with the standards for carrier route sequencing. The mailer's signature on the postage statement certifies that this standard has been met when the corresponding mail is presented to the USPS. Unless the documentation is submitted with the corresponding mailing, the mailer must be able to provide the USPS with documentation of accurate sequencing or delivery statistics for each carrier route to which walk-sequence and basic rate pieces are mailed. The mailer must annotate the postage statement to show the earliest (oldest) date of the method (in 4.1a through 4.1e) used to obtain sequencing information for the mailing. Acceptable forms of documentation are: * * *

* * * * *

M100 First-Class Mail (Nonautomation)

* * * * *

M130 Presorted First-Class Mail

1.0 BASIC STANDARDS

* * * * *

[Revise the title and text of 1.5 to read as follows:]

1.5 Nonmachinable Pieces

Nonmachinable cards and letters must use the preparation sequence in 3.0. Nonmachinable flats must use the preparation sequence in 4.0.

[Redesignate 1.6, Co-Traying With Automation Rate Mail, as 1.7. Add new 1.6 for the manual only option to read as follows:]

1.6 Manual Only Option

Mailers who prefer that the USPS not automate letter-size pieces (including cards) must use the packaging and tray preparation sequence for nonmachinable pieces in 3.0. The manual only option is not available for flats.

[Replace 2.0 with the preparation for cards and machinable letters to read as follows: (this preparation is very similar to the current upgradable preparation). Machinable pieces are packaged only to maintain their orientation in the tray.]

2.0 PREPARATION—MACHINABLE LETTER-SIZE PIECES

2.1 Packaging

Machinable pieces are not packaged, except for (see M020):

a. Card-size pieces.

b. All pieces in a less-than-full origin 3-digit tray.

c. All pieces in a less-than-full mixed AADC tray.

2.2 Tray Preparation and Labeling

Preparation sequence, tray size, and labeling:

a. 5-digit: optional; full trays only; no overflow.

(1) Line 1: use 5-digit ZIP Code on mail, preceded for military mail by correct prefix in M031.

(2) Line 2: “FCM LTR 5D MACH.”

b. 3-digit: required; full trays only, except for one less-than-full tray for each origin 3-digit(s); no overflow.

(1) Line 1: use L002, Column A.

(2) Line 2: “FCM LTR 3D MACH.”

c. AADC: required; full trays only; no overflow.

(1) Line 1: use L801, Column B.

(2) Line 2: “FCM LTR AADC MACH.”

d. Mixed AADC: required; no minimum.

(1) Line 1: use “MXD” followed by city/state/ZIP Code of facility serving 3-digit ZIP Code prefix of entry post office, as shown in L002, Column C.

(2) Line 2: “FCM LTR MACH WKG.”

[Replace 3.0, Upgradable Preparation, with the preparation instructions for nonmachinable and manual only cards and letters to read as follows:]

3.0 PREPARATION—NONMACHINABLE LETTER-SIZE PIECES

3.1 Packaging

Packaging is required. Mailers who prefer that the USPS not automate letter-size pieces must identify each package with a facing slip on which “MANUAL ONLY” is printed or use a “MANUAL ONLY” optional endorsement line (see M013).

Preparation sequence, package size, and labeling:

a. 5-digit: required (10-piece minimum); red Label D or optional endorsement line (OEL); labeling is not required for pieces in full 5-digit trays.

b. 3-digit: required (10-piece minimum); green Label 3 or OEL.

c. ADC: required (10-piece minimum); pink Label A or OEL.

d. Mixed ADC: required (no minimum); tan Label MXD or OEL.

3.2 Exception to Packaging

Under certain conditions, nonmachinable pieces may not need to be packaged (see M020.1.9).

3.3 Tray Preparation and Labeling

Preparation sequence, tray size, and labeling:

a. 5-digit: required; full trays only; no overflow.

(1) Line 1: use 5-digit ZIP Code on mail, preceded for military mail by correct prefix in M031.

(2) Line 2: “FCM LTR 5D MANUAL.”

b. 3-digit: required; full trays only, except for one less-than-full tray for each origin 3-digit(s); no overflow.

(1) Line 1: use L002, Column A.

(2) Line 2: “FCM LTR 3D MANUAL.”

c. ADC: required; full trays only; no overflow.

(1) Line 1: use L004, Column B.

(2) Line 2: “FCM LTR ADC MANUAL.”

d. Mixed ADC: required; no minimum.

(1) Line 1: use “MXD” followed by city/state/ZIP Code of facility serving 3-digit ZIP Code prefix of entry post office, as shown in L002, Column C.

(2) Line 2: “FCM LTR MANUAL WKG.”

[Revise the title of 4.0 to read as follows:]

4.0 PREPARATION—FLATS

* * * * *

[Redesignate 4.2 and 4.3 as 4.3 and 4.4, respectively. Add new 4.2 to show that flats do not have to be packaged under certain conditions to read as follows:]

4.2 Exception to Packaging

Under certain conditions, flat-size pieces may not need to be packaged (see M020.1.9).

* * * * *

M200 Periodicals (Nonautomation)

M210 Presorted Rates

* * * * *

[Remove section 6.0, Combining Multiple Publications or Editions.]

M220 Carrier Route Rates

* * * * *

[Remove section 6.0, Combining Multiple Publications or Editions.][Add new M230 to read as follows:]

M230 Combining Multiple Editions or Publications

1.0 DESCRIPTION

A combined mailing is a mailing in which two or more Periodicals publications or editions are merged into a single mailstream, during production or after finished copies are produced, and all copies of all the publications or editions are presorted together into packages to achieve the finest presort level possible for the combined mailing.

2.0 VOLUME

More than one Periodicals publication, or edition of a publication, may be combined to meet the volume standard per tray, sack, or package for the rate claimed.

3.0 EACH PIECE

Each piece must meet the basic standards in E211 and the specific standards of the rate claimed.

4.0 DOCUMENTATION

Presort documentation required under P012 must also show the total number of addressed pieces and copies of each publication or edition mailed to each carrier route, 5-digit, and 3-digit destination. The publisher must also provide a list, by 3-digit ZIP Code prefix, of the number of addressed pieces and copies of each publication or edition qualifying for the DDU, DSCF, and DADC rate, as applicable.

5.0 SEPARATE POSTAGE STATEMENTS

A separate postage statement must be prepared for the per pound postage computations for each publication or edition that is part of the combined mailing. The title and issue date of the publications with which each publication or edition was combined must be noted on, or attached to, the postage statements. The per piece postage computations for all other than preferred rate publications must be calculated on the postage statement for the publication containing the higher (or highest) amount of advertising. The per piece postage computations for all preferred rate publications must be calculated on the postage statement for the publication containing the higher (or highest) amount of advertising. The nonadvertising adjustment must be computed on the appropriate postage statement for each rate category based on the publication (or edition, if applicable) containing the higher (or highest) amount of advertising matter for that rate category.

* * * * *

M600 Standard Mail (Nonautomation)

M610 Presorted Standard Mail

1.0 BASIC STANDARDS

* * * * *

[Redesignate 1.5 and 1.6 as 1.6 and 1.7, respectively. Add new 1.5 to account for the new preparation for nonmachinable pieces to read as follows:]

1.5 Nonmachinable Pieces

Nonmachinable cards and letters must use the preparation sequence and tray labeling in 3.0.

[Revise the title and text of redesignated 1.6 to read as follows:]

1.6 Manual Only Option

Mailers who prefer that the USPS not automate letter-size pieces (including cards) must use the packaging and tray preparation sequence for nonmachinable pieces in 3.0. The manual only option is not available for flats.

[Replace 2.0 with the preparation for machinable cards and letters (this preparation is very similar to the current upgradable preparation). Machinable pieces are packaged only to maintain their orientation in the tray.]

2.0 PREPARATION—MACHINABLE LETTER-SIZE PIECES

2.1 Packaging

Machinable pieces are not packaged, except for (see M020):

a. Card-size pieces.

b. All pieces in a less-than-full origin 3-digit tray.

c. All pieces in a less-than-full mixed AADC tray.

2.2 Tray Preparation and Labeling

Only mail eligible for the 3/5 rate (i.e., 150 or more pieces for the 3-digit area) may be prepared in 5-digit and 3-digit trays. Preparation sequence, tray size, and labeling:

a. 5-digit: optional (full trays); no overflow.

(1) Line 1: use 5-digit ZIP Code on mail, preceded for military mail by correct prefix in M031.

(2) Line 2: “STD LTR 5D MACH.”

b. 3-digit: required (no minimum).

(1) Line 1: use L002, Column A.

(2) Line 2: “STD LTR 3D MACH.”

c. Origin 3-digit(s): required (no minimum); optional for entry 3-digit(s) (no minimum).

(1) Line 1: use L002, Column A.

(2) Line 2: “STD LTR 3D MACH.”

d. AADC: required (full trays); no overflow; group pieces by 3-digit ZIP Code prefix.

(1) Line 1: use L801.

(2) Line 2: “STD LTR AADC MACH.”

e. Mixed AADC: required (no minimum); group pieces by AADC.

(1) Line 1: use L802 (for mail entered at an ASF or BMC) or L803.

(2) Line 2: “STD LTR MACH WKG.”

[Replace 3.0, Upgradable Preparation, with the new preparation for nonmachinable piece to read as follows:]

3.0 PREPARATION—NONMACHINABLE LETTER-SIZE PIECES

3.1 Packaging

Packaging is required for nonmachinable pieces and for any pieces that mailers do not want the USPS to automate. Mailers who prefer that the USPS not automate their pieces must identify each package with a facing slip on which “MANUAL ONLY” is printed or use a “MANUAL ONLY” optional endorsement line (see M013). Preparation sequence, package size, and labeling:

a. 5-digit: required (10-piece minimum, fewer not permitted); red Label D or optional endorsement line (OEL); labeling is not required for pieces in full 5-digit trays.

b. 3-digit: required (10-piece minimum, fewer not permitted); green Label 3 or OEL.

c. ADC: required (10-piece minimum, fewer not permitted); pink Label A or OEL.

d. Mixed ADC: required (no minimum); tan Label MXD or OEL.

3.2 Exception to Packaging

Under certain conditions, nonmachinable pieces may not need to be packaged (see M020.1.9).

3.3 Tray Preparation and Labeling

Only mail eligible for the 3/5 rate (i.e., 150 or more pieces for the same 3-digit area) may be prepared in 5-digit and 3-digit trays. Preparation sequence, tray size, and labeling:

a. 5-digit: required (full trays); no overflow.

(1) Line 1: use 5-digit ZIP Code on mail, preceded for military mail by correct prefix in M031.

(2) Line 2: “STD LTR 5D MANUAL.”

b. 3-digit: required (no minimum).

(1) Line 1: use L002, Column A.

(2) Line 2: “STD LTR 3D MANUAL.”

c. Origin 3-digit(s): required (one-package minimum); optional for entry 3-digit(s) (no minimum).

(1) Line 1, use L002, Column A.

(2) Line 2: “STD LTR 3D MANUAL.”

d. ADC: required (full trays); no overflow.

(1) Line 1, use L004.

(2) Line 2: “STD LTR ADC MANUAL.”

e. Mixed ADC: required (no minimum).

(1) Line 1: use “MXD” followed by city/state/ZIP Code of ADC serving 3-digit ZIP Code prefix of entry post office, as shown in L004.

(2) Line 2: “STD LTR MANUAL WKG.”

* * * * *

M620 Enhanced Carrier Route Standard Mail

* * * * *

3.0 TRAY PREPARATION—LETTER-SIZE PIECES

[Merge current 3.1 and 3.2 into a single 3.1 and amend the Line 2 information to show the barcoded status to read as follows:]

3.1 Tray Preparation and Labeling

Preparation sequence, tray size, and labeling:

a. Carrier route: required; full trays only, no overflow.

(1) Line 1: use 5-digit ZIP Code on package, preceded for military mail by correct prefix in M031.

(2) Line 2:

(a) Saturation: “STD LTR BC WSS,” followed by route type and number.

(b) High density: “STD LTR BC WSH,” followed by route type and number.

(c) Basic: “STD LTR BC LOT,” followed by route type and number.

b. 5-digit carrier routes: required if full tray, optional with minimum one 10-piece package.

(1) Line 1: use 5-digit ZIP Code on package, preceded for military mail by correct prefix in M031.

(2) Line 2: “STD LTR 5D CR-RT BC.”

c. 3-digit carrier routes: optional with minimum one 10-piece package for each of two or more 5-digit areas.

(1) Line 1: use city/state/ZIP Code shown in L002, Column A, that corresponds to 3-digit ZIP Code prefix on package.

(2) Line 2: “STD LTR 3D CR-RT BC.”

[Add new 3.2 to show the Line 2 information for trays containing mail that is machinable but is not barcoded to read as follows:]

3.2 Tray Line 2 for Machinable Nonbarcoded Pieces

For trays that contain letter-size pieces that are machinable but not barcoded, use “MACH” on Line 2 in place of “BC.”

[Add new 3.3 to show the Line 2 information for trays containing mail that is nonmachinable (barcoded or not) to read as follows:]

3.3 Tray Line 2 for Nonmachinable Pieces

For trays that contain letter-size pieces that are nonmachinable, use “MAN” on Line 2 in place of “BC.”

[Add new 3.4 to show Line 2 information for trays containing simplified address pieces to read as follows:]

3.4 Tray Line 2 for Pieces with Simplified Address

For trays that contain letter-size pieces that bear a simplified address, use “MAN” on Line 2 in place of “BC.”

* * * * *

M700 Package Services

M710 Parcel Post

* * * * *

2.0 DSCF RATE

[Amend 2.1 to add DSCF rate 3-digit nonmachinable parcels to read as follows:]

2.1 General

To qualify for the DSCF rate, pieces must be for the same SCF area under L005 and must be prepared as follows:

a. Sorted to optional 5-digit scheme destinations under L606, Column B, and 5-digit destinations, either in sacks under 2.2 or directly on pallets or in pallet boxes on pallets under M041 and M045. Pieces must be part of a mailing of at least 50 Parcel Post pieces. They must be entered at the designated SCF under L005 that serves the 5-digit ZIP Code destinations of the pieces except when palletized and entry is required at a BMC (see Exhibit E751.6.0). The DSCF rate is not available for palletized mail for facilities that are unable to handle palletized mailings. Refer to the Drop Shipment Product available from the National Customer Support Center (NCSC) (see G043) and Exhibit E751.7.0 and Exhibit E751.8.0 to determine if the facility serving the 5-digit destination can handle pallets. There is a charge for the Drop Shipment Product.

b. Any remaining nonmachinable parcels (as defined in C700.2.0) sorted to 3-digit ZIP Code prefixes L002; Column A. Machinable parcels may not be sorted to the 3-digit level.

* * * * *

M720 Bound Printed Matter

M721 Single-Piece Bound Printed Matter

1.0 BASIC STANDARDS

1.1 General

[Amend 1.1 by adding a sentence at the end for barcoded single-piece rate Bound Printed Matter to read as follows:]

* * * Bound Printed Matter claiming a barcoded discount must meet the applicable standards in E712.

* * * * *

M730 Media Mail

[Revise 1.0 to read as follows:]

1.0 BASIC STANDARDS

1.1 General

There are no presort, sacking, or labeling standards for single-piece Media Mail. All mailings of presorted Media Mail are subject to the standards in 2.0 through 4.0 and to these general requirements:

a. Each mailing must meet the applicable standards in E710, E713, and in M010, M020, and M030.

b. All pieces in a mailing must be within the same processing category as described in C050. A Media Mail irregular parcel is a piece that is not a machinable parcel as defined in C050.4.1 or a flat as defined in C050.3.1. Pieces that meet the size and weight standards for a machinable parcel but are not individually boxed or packaged to withstand processing on BMC parcel sorters under C010 also are irregular parcels.

c. All pieces must be sorted to the finest extent possible under 2.0 through 4.0 or palletized under M045.

d. Each piece claimed at Media Mail rates must be marked “Media Mail” under M012. Each piece claimed at presorted Media Mail rates also must be marked “Presorted” or “PRSRT” under M012.

1.2 Documentation

A complete, signed postage statement, using the correct USPS form or an approved facsimile, must accompany each mailing. Documentation of postage is not required if the correct rate is affixed to each piece or if each piece is of identical weight, and the pieces are separated by rate level at the time of mailing.

[Revise 2.0 to read as follows:]

2.0 PREPARATION—FLATS

2.1 Required Packaging

A package must be prepared when the quantity of addressed pieces for a required presort level reaches a minimum of 10 pieces. Smaller volumes are not permitted. The maximum weight of each physical package is 20 pounds, except that 5-digit packages placed in 5-digit sacks may weigh a maximum of 40 pounds. Each physical package must contain at least two addressed pieces.

2.2 Package Preparation

Packages must be prepared and labeled in the following required sequence:

a. 5-digit: required; red Label D or optional endorsement line (OEL).

b. 3-digit: required; green Label 3 or OEL.

c. ADC: required; pink Label A or OEL.

d. Mixed ADC: required (no minimum); tan Label MXD or OEL.

2.3 Required Sacking

A sack must be prepared when the quantity of mail for a required presort destination reaches the minimums specified in 2.4. Smaller volumes are not permitted.

2.4 Sack Preparation and Labeling

Sacks must be prepared and labeled in the following sequence:

a. 5-digit: optional, except required for 5-digit rate (10 piece minimum).

(1) Line 1: use 5-digit ZIP Code on packages, preceded for military mail by correct prefix in M031.

(2) Line 2: “PSVC FLTS 5D NON BC.”

b. 3-digit: required (20 piece minimum).

(1) Line 1: use L002, Column A.

(2) Line 2: “PSVC FLTS 3D NON BC.”

c. ADC: required (20 piece minimum).

(1) Line 1: use L004, Column B.

(2) Line 2: “PSVC FLTS ADC NON BC.”

d. Mixed ADC: required (no minimum).

(1) Line 1: use “MXD” followed by city/state/ZIP Code of ADC serving 3-digit ZIP Code prefix of entry post office, as shown in L004, Column B.

(2) Line 2: “PSVC FLTS NON BC WKG.”

[Add new 3.0 to read as follows:]

3.0 PREPARATION—IRREGULAR PARCELS

3.1 Required Packaging

A package must be prepared when the quantity of addressed pieces for a required presort level reaches a minimum of 10 pieces, except that packaging is not required for pieces placed in 5-digit scheme sacks and 5-digit sacks when such pieces are enclosed in an envelope, full-length sleeve, full-length wrapper, or polybag and the minimum package volume is met. The maximum weight of each physical package is 20 pounds, except that 5-digit packages placed in 5-digit sacks may weigh a maximum of 40 pounds. Each physical package must contain at least two addressed pieces. Packaging is also subject to these conditions:

a. Identical-weight pieces that weigh 1 pound or less must be prepared using the 10-piece minimum; those that weigh more than 1 pound must be prepared using the 10-pound minimum.

b. For nonidentical-weight pieces, mailers must either use the minimum that applies to the average piece weight for the entire mailing (divide the net weight of the mailing by the number of pieces; the resulting average single-piece weight determines whether the 10-piece or 10-pound minimum applies), or package by the actual piece count or mail weight for each sack, if documentation can be provided with the mailing that shows (specifically for each sack) the number of pieces in each package and their total weight.

c. Mailers must note on the accompanying postage statement whether they applied the piece count, weight, or both.

3.2 Package Preparation

Packages must be prepared and labeled in the following sequence:

a. 5-digit: required; red Label D or optional endorsement line (OEL).

b. 3-digit: required; green Label 3 or OEL.

c. ADC: required; pink Label A or OEL.

d. Mixed ADC: required (no minimum); tan Label MXD or OEL.

3.3 Required Sacking

A sack must be prepared when the quantity of mail for a required presort destination reaches either 10 addressed pieces or 20 pounds, whichever occurs first. Smaller volumes are not permitted (except in mixed ADC sacks). Optional 5-digit scheme sacks may be prepared only when there are at least 10 addressed pieces or 20 pounds. Smaller volumes are not permitted. Sacking is also subject to these conditions:

a. Identical-weight pieces weighing 2 pounds or less must be sacked using the 10-piece minimum; those that weigh more must be sacked using the 20-pound minimum.

b. For nonidentical-weight pieces, mailers must use either the minimum that applies to the average piece weight for the entire mailing (divide the net weight of the mailing by the number of pieces; the resulting average single-piece weight determines whether the 10-piece or 20-pound minimum applies). Alternatively, mailers may sack by the actual piece count or mail weight for each destination, provided that documentation can be provided with the mailing that shows (specifically for each sack) the number of pieces in each sack and their total weight.

c. Mailers must note on the accompanying postage statement whether they applied the piece count, weight, or both.

3.4 Sack Preparation and Labeling

Sacks must be prepared and labeled in the following sequence:

a. 5-digit scheme: optional.

(1) Line 1: use L606, Column B.

(2) Line 2: “PSVC IRREG 5D SCHEME” or “PSVC IRREG 5D SCH.”

b. 5-digit: required.

(1) Line 1: use 5-digit ZIP Code on packages, preceded for military mail by correct prefix in M031.

(2) Line 2: “PSVC IRREG 5D.”

c. 3-digit: required.

(1) Line 1: use L002, Column A.

(2) Line 2: “PSVC IRREG 3D.”

d. ADC: required.

(1) Line 1: use L004, Column B.

(2) Line 2: “PSVC IRREG ADC.”

e. Mixed ADC: required (no minimum).

(1) Line 1: use “MXD” followed by city/state/ZIP Code of ADC serving 3-digit ZIP Code prefix of entry post office, as shown in L004, Column B.

(2) Line 2: “PSVC IRREG WKG.”

[Add new 4.0 to read as follows:]

4.0 PREPARATION—MACHINABLE PARCELS

4.1 Sacking

A sack must be prepared when the quantity of mail for a required presort destination reaches 7 addressed pieces or 20 pounds whichever occurs first for optional 5-digit scheme or 5-digit sacks, or 10 pieces or 20 pounds whichever occurs first for BMC sacks. Smaller volumes are not permitted. Sacking also is subject to these conditions:

a. Identical-weight pieces that weigh 2 pounds or less must be sacked using the 10-piece minimum; those that weigh more must be sacked using the 20-pound minimum.

b. For nonidentical-weight pieces, mailers must use either the minimum that applies to the average piece weight for the entire mailing (divide the net weight of the mailing by the number of pieces; the resulting average single-piece weight determines whether the 10-piece or 20-pound minimum applies) or sack by the actual piece count or mail weight for each package destination, provided that documentation can be provided with the mailing that shows (specifically for each sack) the number of pieces and their total weight.

c. Mailers must note on the accompanying postage statement whether they applied the piece count, weight, or both.

4.2 Sack Preparation and Labeling

Sacks must be prepared and labeled in the following sequence:

a. 5-digit scheme: optional.

(1) Line 1: use L606, Column B.

(2) Line 2: “PSVC MACH 5D SCHEME” or “PSVC MACH 5D SCH.”

b. 5-digit: required.

(1) Line 1: use 5-digit ZIP Code on parcels, preceded for military mail by correct prefix in M031.

(2) Line 2: “PSVC MACH 5D.”

c. BMC: required.

(1) Line 1: use L601, Column B.

(2) Line 2: “PSVC MACH BMC.”

d. Mixed BMC: required (no minimum).

(1) Line 1: “MXD” followed by information in L601, Column B, for BMC serving 3-digit ZIP Code of entry post office.

(2) Line 2: “PSVC MACH WKG.”

M740 Library Mail

1.0 BASIC STANDARDS

[Revise 1.0 to read as follows:]

1.1 General

There are no presort, sacking, or labeling standards for single-piece Library Mail. All mailings of Presorted Library Mail are subject to the standards in 2.0 through 4.0 and to these general standards:

a. Each mailing must meet the applicable standards in E710, E714, and in M010, M020, and M030.

b. All pieces in a mailing must be within the same processing category as described in C050. A Library Mail irregular parcel is a piece that is not a machinable parcel as defined in C050.4.1 or a flat as defined in C050.3.1. Pieces that meet the size and weight standards for a machinable parcel but are not individually boxed or packaged to withstand processing on BMC parcel sorters under C010 are also considered irregular parcels.

c. All pieces must be sorted to the finest extent possible under 2.0 through 4.0 or palletized under M045.

d. Each piece claimed at Library Mail rates must be marked “Library Mail” under M012. Each piece claimed at presorted Library Mail rates also must be marked “Presorted” or “PRSRT” under M012.

1.2 Documentation

A complete, signed postage statement, using the correct USPS form or an approved facsimile, must accompany each mailing. Documentation of postage is not required if the correct rate is affixed to each piece or if each piece is of identical weight, and the pieces are separated by rate level at the time of mailing.

[Revise the title and text of 2.0 to read as follows:]

2.0 PREPARATION—FLATS

2.1 Required Packaging

A package must be prepared when the quantity of addressed pieces for a required presort level reaches a minimum of 10 pieces. Smaller volumes are not permitted. The maximum weight of each physical package is 20 pounds, except that 5-digit packages, placed in 5-digit sacks may weigh a maximum of 40 pounds. Each physical package must contain at least two addressed pieces.

2.2 Package Preparation

Packages must be prepared and labeled in the following sequence:

a. 5-digit: optional; red Label D or optional endorsement line (OEL).

b. 3-digit: required; green Label 3 or OEL.

c. ADC: required; pink Label A or OEL.

d. Mixed ADC: required (no minimum); tan Label MXD or OEL.

2.3 Required Sacking

A sack must be prepared when the quantity of mail for a required presort destination reaches the minimums specified in 2.4. Smaller volumes are not permitted.

2.4 Sack Preparation and Labeling

Sacks must be prepared and labeled in the following sequence:

a. 5-digit: optional, except required for 5-digit rate (10 piece minimum).

(1) Line 1, use 5-digit ZIP Code on packages, preceded for military mail by correct prefix in M031.

(2) Line 2: “PSVC FLTS 5D NON BC.”

b. 3-digit: required; (20 piece minimum).

(1) Line 1: use L002, Column A.

(2) Line 2: “PSVC FLTS 3D NON BC.”

c. ADC: required; (20 piece minimum).

(1) Line 1: use L004, Column B.

(2) Line 2: “PSVC FLTS ADC NON BC.”

d. Mixed ADC: required; (no minimum).

(1) Line 1: use “MXD” followed by city/state/ZIP Code of ADC serving 3-digit ZIP Code prefix of entry post office, as shown in L004, Column B.

(2) Line 2: “PSVC FLTS NON BC WKG.”

[Add new 3.0 to read as follows:]

3.0 PREPARATION—IRREGULAR PARCELS

3.1 Required Packaging

A package must be prepared when the quantity of addressed pieces for a required presort level reaches a minimum of 10 pieces, except that packaging is not required for pieces placed in 5-digit scheme sacks and 5-digit sacks when such pieces are enclosed in an envelope, full-length sleeve, full-length wrapper, or polybag and the minimum package volume is met. The maximum weight of each physical package is 20 pounds, except that 5-digit packages placed in 5-digit sacks may weigh a maximum of 40 pounds. Each physical package must contain at least two addressed pieces. Packaging is also subject to these conditions:

a. Identical-weight pieces that weigh 1 pound or less must be prepared using the 10-piece minimum; those that weigh more than 1 pound must be prepared using the 10-pound minimum.

b. For nonidentical-weight pieces, mailers must use either the minimum that applies to the average piece weight for the entire mailing (divide the net weight of the mailing by the number of pieces; the resulting average single-piece weight determines whether the 10-piece or 10-pound minimum applies) or package by the actual piece count or mail weight for each sack, if documentation can be provided with the mailing that shows (specifically for each sack) the number of pieces and their total weight.

c. Mailers must note on the accompanying postage statement whether they applied the piece count, weight, or both.

3.2 Package Preparation

Packages must be prepared and labeled in the following sequence:

a. 5-digit: required; red Label D or optional endorsement line (OEL).

b. 3-digit: required; green Label 3 or OEL.

c. ADC: required; pink Label A or OEL.

d. Mixed ADC: required (no minimum); tan Label MXD or OEL.

3.3 Required Sacking

A sack must be prepared when the quantity of mail for a required presort destination reaches either 10 addressed pieces or 20 pounds, whichever occurs first. Smaller volumes are not permitted (except in mixed ADC sacks). Optional 5-digit scheme sacks may be prepared only when there are at least 10 addressed pieces or 20 pounds, whichever occurs first. Smaller volumes are not permitted. Sacking is also subject to these conditions:

a. Identical-weight pieces weighing 2 pounds or less must be sacked using the 10-piece minimum; those that weigh more must be sacked using the 20-pound minimum.

b. For nonidentical-weight pieces, mailers must use the minimum that applies to the average piece weight for the entire mailing (divide the net weight of the mailing by the number of pieces; the resulting average single-piece weight determines whether the 10 piece or 20 pound minimum applies). Alternatively, mailers may sack by the actual piece count or mail weight for each package destination, if documentation can be provided with the mailing that shows (specifically for each sack) the number of pieces and their total weight.

c. Mailers must note on the accompanying postage statement whether they applied the piece count, weight, or both.

3.4 Sack Preparation and Labeling

Sacks must be prepared and labeled in the following sequence:

a. 5-digit scheme: optional.

(1) Line 1: use L606, Column B.

(2) Line 2: “PSVC IRREG 5D SCHEME” or “PSVC IRREG 5D SCH.”

b. 5-digit: required.

(1) Line 1: use 5-digit ZIP Code on packages, preceded for military mail by correct prefix in M031).

(2) Line 2: “PSVC IRREG 5D.”

c. 3-digit: required.

(1) Line 1: use L002, Column A.

(2) Line 2: “PSVC IRREG 3D.”

d. ADC: required.

(1) Line 1: use L004, Column B.

(2) Line 2: “PSVC IRREG ADC.”

e. Mixed ADC: required; (no minimum).

(1) Line 1: use “MXD” followed by city/state/ZIP Code of ADC serving 3-digit ZIP Code prefix of entry post office, as shown in L004, Column B.

(2) Line 2: “PSVC IRREG WKG.”

[Add new 4.0 to read as follows:]

4.0 PREPARATION—MACHINABLE PARCELS

4.1 Required Sacking

A sack must be prepared when the quantity of mail for a required presort destination reaches 7 addressed pieces or 20 pounds whichever occurs first for optional 5-digit scheme or 5-digit sacks, or 10 pieces or 20 pounds whichever occurs first for BMC sacks. Smaller volumes are not permitted. Sacking is also subject to these conditions:

a. Identical-weight pieces that weigh 2 pounds or less must be sacked using the 10-piece minimum; those that weigh more must be sacked using the 20-pound minimum.

b. For nonidentical-weight pieces, mailers must use either the minimum that applies to the average piece weight for the entire mailing (divide the net weight of the mailing by the number of pieces; the resulting average single-piece weight determines whether the 10-piece or 20-pound minimum applies) or sack by the actual piece count or mail weight for each package destination, provided that documentation can be provided with the mailing that shows (specifically for each sack) the number of pieces and their total weight.

c. Mailers must note on the accompanying postage statement whether they applied the piece count, weight, or both.

4.2 Sack Preparation and Labeling

Sacks must be prepared and labeled in the following sequence:

a. 5-digit scheme: optional.

(1) Line 1: use L606, Column B.

(2) Line 2: “PSVC MACH 5D SCHEME” or “PSVC MACH 5D SCH.”

b. 5-digit: required.

(1) Line 1: use 5-digit ZIP Code on parcels, preceded for military mail by correct prefix in M031.

(2) Line 2: “PSVC MACH 5D.”

c. BMC: required.

(1) Line 1: use L601, Column B.

(2) Line 2: “PSVC MACH BMC.”

d. Mixed BMC: required; (no minimum).

(1) Line 1: “MXD” followed by information in L601, Column B, for BMC serving 3-digit ZIP Code of entry post office.

(2) Line 2: “PSVC MACH WKG.”

M800 All Automation Mail

M810 Letter-Size Mail

1.0 BASIC STANDARDS

* * * * *

1.2 Mailings

The requirements for mailings are as follows:

* * * * *

[Amend 1.2b and 1.2d to replace the automation basic rate with the new AADC and mixed AADC rates to read as follows:]

b. First-Class. A single automation rate First-Class mailing may include pieces prepared at carrier route, 5-digit, 3-digit, AADC, and mixed AADC rates.

* * * * *

d. Standard Mail. Automation carrier route pieces must be prepared as a separate mailing (and meet a separate minimum volume requirement) from pieces prepared at 5-digit, 3-digit, AADC, and mixed AADC rates.

1.3 Documentation

[Amend 1.3 to remove references to the basic rate to read as follows:]

A complete, signed postage statement, using the correct USPS form or an approved facsimile, must accompany each mailing. Each mailing also must be accompanied by presort and rate documentation produced by PAVE-certified (or, except for Periodicals, MAC-certified) software or by standardized documentation under P012. Exception: For mailings of fewer than 10,000 pieces, presort and rate documentation is not required if postage at the correct rate is affixed to each piece or if each piece is of identical weight and the pieces are separated by rate level when presented for acceptance. Mailers may use a single postage statement and a single documentation report for all rate levels in a single mailing. Standard Mail mailers may use a single postage statement and a single documentation report (with a separate summary for carrier route and a separate summary for all other rate levels) for both an automation carrier route mailing and a mailing containing pieces prepared at other automation rates when both mailings are submitted for entry at the same time. Combined mailings of more than one Periodicals publication also must be documented under M230. First-Class Mail and Standard Mail mailings prepared under the value added refund procedures or as combined mailings must meet additional standardized documentation requirements under P014 and P960.

* * * * *

2.0 FIRST-CLASS MAIL AND STANDARD MAIL

* * * * *

2.3 Tray Line 2

[Amend the text of 2.3, 2.3b, and 2.3c, to change “LTRS” to “LTR,” “CAR-RT” to “CR-RT,” and to add 5-D” to the 5-digit carrier routes tray, to read as follows:]

Line 2: “FCM LTR” or “STD LTR” and:

* * * * *

b. 5-digit carrier routes: “5D CR-RT BC.”

c. 3-digit carrier routes: “3D CR-RT BC.”

* * * * *

M820 Flat-Size Mail

[Amend the Summary to include Bound Printed Matter to read as follows:]

Summary

M820 describes the preparation standards for flat-size automation rate First-Class Mail, Periodicals, Standard Mail, and Bound Printed Matter.

1.0 BASIC STANDARDS

1.1 Standards

[Amend the first sentence of 1.1 by adding Bound Printed Matter to read as follows:]

Flat-size automation rate First-Class Mail, Periodicals, Standard Mail, and Bound Printed Matter must be prepared under M820 and the eligibility standards for the rate claimed. * * *

1.2 Mailings

[Amend 1.2 to replace the First-Class Mail automation basic rate with the new ADC and mixed ADC rates to read as follows:]

All pieces in a mailing must meet the standards in C820 and must be sorted together to the finest extent required. First-Class Mail mailings may include pieces prepared at automation 5-digit, 3-digit, ADC, and mixed ADC rates. Periodicals mailings may include pieces prepared at automation 5-digit, 3-digit, and basic rates. Standard Mail mailings may include pieces prepared at automation 3/5 and basic rates. The definition of a mailing and permissible combinations are in M011. Bound Printed Matter mailings may include presorted pieces claiming the barcoded discount.

* * * * *

1.4 Marking

[Amend the last sentence of 1.4 by adding the reference P700 to read as follows:]

* * * Pieces not claimed at an automation rate must not bear “AUTO” unless single-piece rate postage is affixed or a corrective single-piece rate marking is applied under P100, P600, or P700.

* * * * *

[Add new 6.0 for Bound Printed Matter to read as follows:]

6.0 BOUND PRINTED MATTER

6.1 Package Preparation

Packages must be prepared and labeled in the following sequence:

a. 5-digit: (minimum 10-pieces or 10 pounds, fewer not permitted, maximum weight 20 pounds); red Label D or optional endorsement line (OEL).

b. 3-digit: (minimum 10 pieces or 10 pounds, fewer not permitted, maximum weight 20 pounds); green Label 3 or OEL.

c. ADC: (minimum 10 pieces or 10 pounds, fewer not permitted, maximum weight 20 pounds); pink Label A or OEL.

d. Mixed ADC: (no minimum, maximum weight 20 pounds); tan Label MXD or OEL.

6.2 Sack Preparation and Labeling

A sack must be prepared when the quantity of mail for a required presort destination reaches 20 addressed pieces. Preparation sequence and sack labeling:

a. 5-digit: required.

(1) Line 1: use 5-digit ZIP Code on packages.

(2) Line 2: “PSVC FLTS 5D BC.”

b. 3-digit: required.

(1) Line 1: use L002, Column A.

(2) Line 2: “PSVC FLTS 3D BC.”

c. SCF: optional.

(1) Line 1: use L005, Column B.

(2) Line 2: “PSVC FLTS SCF BC.”

d. ADC: required.

(1) Line 1: use L004.

(2) Line 2: “PSVC FLTS ADC BC.”

e. Mixed ADC: required.

(1) Line 1: use “MXD” followed by origin facility in L802 or L803, as appropriate.

(2) Line 2: “PSVC FLTS BC WKG.”

* * * * *

P Postage and Payment Methods

P000 Basic Information

P010 General Standards

P011 Payment 1.0

Prepayment and Postage Due

* * * * *

[Amend title and text of 1.8 to read as follows:]

1.8 Shortpaid Nonmachinable Mail

Shortpaid nonmachinable First-Class Mail is returned to the sender for additional postage.

* * * * *

P012 Documentation

* * * * *

2.0 STANDARDIZED DOCUMENTATION—FIRST-CLASS MAIL, PERIODICALS, AND STANDARD MAIL

* * * * *

2.3 Rate Level Column Headings

The actual name of the rate level (or corresponding abbreviation) is used for column headings required by 2.2 and shown below:

[Amend 2.3a to add the AADC and mixed AADC rates for automation letters and the ADC and mixed ADC rates automation for flats (the entries are added after the 3/5 rate and before the basic rate) to read as follows:]

a. Automation First-Class Mail, Periodicals, and Standard Mail:

Rate | Abbreviation
* * * * *
AADC [First-Class Mail letters/cards and Standard Mail letters] | AB
ADC [First-Class Mail flats] | AB
Mixed AADC [First-Class Mail letters/cards and Standard Mail letters] | MB
Mixed ADC [First-Class Mail flats] | MB
[Amend the entry for basic as follows:] Basic [flats] | BB
* * * * *

* * * * *

3.0 DETAILED ZONE LISTING FOR PERIODICALS

3.1 Definition and Retention

[Amend the first sentence of 3.1 by making minor edits and adding DADC rates to read as follows:]

The publisher must be able to present documentation to support the actual number of copies of each edition of an issue, by entry point, mailed to each zone, at DDU, DSCF, DADC, and In-County rates. * * *

3.2 Characteristics

Report the number of copies mailed to each 3-digit ZIP Code prefix at applicable zone rates using one of the following formats:

* * * * *

[Amend the first sentence of 3.2b by making minor edits and adding DADC to read as follows:]

b. Report copies by zone (In-County DDU, In-County others, Outside-County DDU, Outside-County DSCF, and Outside-County DADC) and by 3-digit ZIP Code prefix, listed in ascending numeric order, for each zone. * * *

3.3 Zone Abbreviations

Use the actual rate name or the authorized zone abbreviation in the listings in 2.0 and 3.2:

[Amend the table in 3.3 to include the zone abbreviation, “ADC” and rate equivalent, “outside-county, DADC” to read as follows:]

Zone abbreviation | Rate equivalent
* * * * *
SCF | Outside-county, DSCF
ADC | Outside-county, DADC
1-2 or 1/2 | Zones 1 and 2
* * * * *

* * * * *

P013 Rate Application and Computation

* * * * *

2.0 RATE APPLICATION—EXPRESS MAIL, FIRST-CLASS MAIL, AND PRIORITY MAIL

* * * * *

2.4 Priority Mail

[Amend 2.4 by replacing “5 pounds” with “1 pound” to read as follows:]

Except under 2.5, Priority Mail rates are charged per pound or fraction thereof; any fraction of a pound is considered a whole pound. For example, if a piece weighs 1.2 pounds, the weight (postage) increment is 2 pounds. The minimum postage amount per addressed piece is the 1-pound rate. The Priority Mail rate up to 1 pound is based solely on weight; for pieces weighing more than 1 pound, the rates are based on weight and zone.

2.5 Flat-Rate Envelope

[Amend 2.5 by changing “2-pound” to “1-pound” to read as follows:]

Each addressed Express Mail flat-rate envelope is charged the Express Mail rate applicable to a ½-pound piece regardless of its actual weight. Each addressed Priority Mail flat-rate envelope is charged the Priority Mail rate applicable to a 1-pound piece regardless of its actual weight.

2.6 Keys and Identification Devices

[Amend 2.6 by adding “zone rate” to the 2-pound weight to read as follows:]

Keys and identification devices weighing 13 ounces or less are charged First-Class Mail rates per ounce or fraction thereof in accordance with 2.3, plus the fee in R100.10.0. Keys and identification devices weighing more than 13 ounces but not more than 1 pound are mailed at the 1-pound Priority Mail flat rate plus the fee in R100.10.0. Keys and identification devices weighing more than 1 pound but not more than 2 pounds are subject to the 2-pound zoned rate plus the fee in R100.10.0. When the ZIP Code of mailing cannot be determined from the return address or cancellation mark for pieces subject to the Priority Mail rates, the zone 4 rate is charged for the weight of the piece.

* * * * *

5.0 RATE APPLICATION—PACKAGE SERVICES

* * * * *

5.2 Parcel Post

[Amend 5.2 by changing “2 pounds” to “1 pound” in the last sentence to read as follows:]

* * * The minimum postage rate per addressed piece is that for an addressed piece weighing 1 pound.

5.3 Single-Piece Bound Printed Matter

[Amend 5.3 by changing “1.5 pounds” to “1 pound” in the last sentence to read as follows:]

* * * The minimum postage rate per addressed piece is that for an addressed piece weighing 1 pound.

* * * * *

8.0 COMPUTING POSTAGE—STANDARD MAIL

* * * * *

[Add new 8.5 citing how to calculate the discount for heavy automation letters to read as follows:]

8.5 Discount for Heavy Automation Letters

Automation letters that weigh more than 3.3 ounces but not more than 3.5 ounces are charged postage equal to the automation piece/pound rate for that piece and receive a discount equal to the corresponding automation nonletter piece rate (3.3 ounces or less) minus the corresponding letter automation letter piece rate (3.3 ounces or less). For automation ECR pieces, postage is calculated using the regular basic piece/pound rate and the regular basic nonletter piece rate. If claiming a destination entry rate, the discount is circulated using the corresponding rates.

[Add new 8.6 citing how to calculate the discount for heavy automation-compatible letters to read as follows:]

8.6 Discount for Heavy ECR Letters

Pieces that otherwise qualify for the high density or saturation letter rate and weigh more than 3.3 ounces but not more than 3.5 ounces pay postage equal to the nonletter piece/pound rate and receive a discount equal to the corresponding nonletter piece rate (3.3 ounces or less) minus the corresponding letter piece rate (3.3 ounces or less). If claiming a destination entry rate, the discount is calculated using the corresponding rates.

* * * * *

P014 Refunds and Exchanges

* * * * *

5.0 EXPRESS MAIL POSTAGE REFUND

* * * * *

5.2 Conditions for Refund

[Revise 5.2 to read as follows:]

A refund request must be made within 90 days after the date of mailing as shown in the “Date In” box on Label 11. Except as provided in D500.1.6, a mailer may file for a postage refund only under one of the following circumstances.

a. The item was not delivered or made available for claim as guaranteed under the applicable service purchased.

b. The item was not delivered or made available for claim by the guaranteed delivery time applicable to the service purchased, and delivery was not attempted by the guaranteed delivery time applicable to the service purchased.

5.3 Refunds Not Given

[Amend 5.3 to read as follows:]

A refund claim will not be given if the guaranteed service was not provided due to any of the circumstances in D500.1.6.

* * * * *

P020 Postage Stamps and Stationery

P021 Stamped Stationery

* * * * *

3.0 OTHER STATIONERY

[Amend the title of 3.1 to by adding “s” to “Card” to read as follows:]

3.1 Stamped Cards

[Amend 3.1 by adding availability of stamped cards to read as follows:]Stamped cards are available as single stamped cards, double (reply) stamped cards, and in sheets of 40 for customer imprinting. Single and double stamped cards are 3½ inches high by 5½ inches long. Sheets must be cut to this size so that the stamp is in the upper right corner of each card. The USPS does not offer personalized stamped cards (cards imprinted with a return address).

* * * * *

P100 First-Class Mail

* * * * *

4.0 PRESORTED RATE

* * * * *

4.2 Affixed Postage

Unless permitted by other standards or by Business Mailer Support (BMS), USPS headquarters, when precanceled postage or meter stamps are used, only one payment method may be used in a mailing and each piece must bear postage under one of these conditions:

* * * * *

[Amend 4.2b to change the “nonstandard” surcharge to the “nonmachinable” surcharge to read as follows:]

b. A precanceled stamp or the full postage at the lowest First-Class first ounce rate applicable to the mailing job, and full postage on metered pieces for any additional ounce(s) or nonmachinable surcharge; postage documentation may be required by standard.

* * * * *

5.0 AUTOMATION RATES

* * * * *

5.2 Postage Affixed, Generally

Unless permitted by other standards or by Business Mailer Support (BMS), USPS headquarters, when precanceled postage or meter stamps are used, only one payment method may be used in a mailing and each piece must bear postage under one of these conditions:

[Amend 5.2b to change the “nonstandard” surcharge to the “nonmachinable” surcharge to read as follows:]

* * * * *

b. Flat-size pieces must bear enough postage to include the nonmachinable surcharge if applicable.

* * * * *

P200 Periodicals

1.0 BASIC INFORMATION

* * * * *

1.5 Postage Statement and Documentation

[Amend the second sentence of 1.5 by adding “DADC” to read as follows:]

* * * The postage statement must be supported by documentation as required by P012 and the rate claimed unless each piece in the mailing is of identical weight and the pieces are separated when presented for acceptance by rate, by zone (including separation by In-County and Outside-County rates), and by entry discount (i.e., DDU, DSCF, and DADC). * * *

* * * * *

[Redesignate 1.8 through 1.12 as 1.9 through 1.13, respectively. Add new 1.8 to read as follows:]

1.8 Waiving Nonadvertising Rates

Instead of marking a copy of each issue to show the advertising and nonadvertising portions, the publisher may pay postage at the advertising zoned rates on both portions of all issues or editions of a Periodicals publication (except a requester publication). This option does not apply if the rate for advertising is lower than the rate for nonadvertising. When the amount of advertising exceeds 75%, the copies provided to the postmaster must be marked “Advertising over 75%.” When the amount of advertising is under 75%, the copies provided to the postmaster must be marked “Advertising not over 75%” on the first page. The entire weight of the copy must be entered on the postage statement in the column provided for the advertising portion. The words “Over 75%” or “Not over 75%” (as applicable) must be entered on the postage statement. The word “Waived” must be written in the space provided for the weight of the nonadvertising portion on the postage statement.

* * * * *

2.0 MONTHLY POSTAGE STATEMENT

* * * * *

[Remove 2.4 and redesignate 2.5 as 2.4.]

* * * * *

P600 Standard Mail

* * * * *

2.0 PRESORTED AND ENHANCED CARRIER ROUTE RATES

2.1 Identical-Weight Pieces

[Amend 2.1 to include a reference to surcharges to read as follows:]

Mailings of identical-weight pieces may have postage affixed to each piece at the exact rate for which the piece qualifies, or each piece in the mailing may have postage affixed at the lowest rate applicable to pieces in the mailing or mailing job. Alternatively, a nondenominated precanceled stamp may be affixed to every piece in the mailing or mailing job, or each piece may bear a permit imprint. If exact postage is not affixed, all additional postage and surcharges must be paid at the time of mailing with an advance deposit account or with a meter strip affixed to the required postage statement. If exact postage is not affixed, documentation meeting the standards in P012 must be submitted to substantiate the additional postage unless the pieces are identical weight and separated by rate level at the time of mailing.

* * * * *

P900 Special Postage Payment Systems

P910 Manifest Mailing System (MMS)

* * * * *

3.0 KEYLINE

* * * * *

Exhibit 3.3a Rate Category Abbreviations—First-Class Mail

[Amend Exhibit 3.3a by removing the entry for automation basic; adding entries for the new AADC, ADC, mixed AADC, and mixed ADC rates to read as follows:]

Code | Rate category
AA | Automation AADC.
AD | Automation ADC.
AM | Automation Mixed AADC.
AZ | Automation Mixed ADC.

Exhibit 3.3b Rate Category Abbreviations—Standard Mail

[Amend Exhibit 3.3b by adding entries for the new AADC and mixed AADC rates to read as follows:]

Code | Rate category
AA | Automation AADC.
AM | Automation Mixed AADC.

* * * * *

P960 First-Class or Standard Mail Mailings With Different Payment Methods

* * * * *

3.0 PRODUCING THE COMBINED MAILING

3.1 Mailer Quality Control

Before merging different pieces into a combined presorted mailing, the mailer must have quality control procedures to ensure that:

* * * * *

[Amend 3.1i to clarify which markings must appear on mailpieces to read as follows:]

When markings are applied by an MLOCR, they properly show the applicable Identifier/Rate Code described in 3.2 that specifies the Product Month Designator, MASS/FASTforward system identifier, the method of postage payment, and the rate of postage affixed for metered and precanceled stamp mail or other postage information for permit imprint mail. These markings must be linked by the computer system to the rate entered by the mailer when the pieces are run through the MLOCR.

[Amend the title and contents of 3.2 to show how markings are applied to pieces in a combined mailing and to add new codes for First-Class Mail and Standard Mail to read as follows:]

3.2 Rate and Postage Marking

The following markings must be applied to each piece in the mailing when markings are applied by an MLOCR. These seven character markings provide the automation rate marking information and additional information including the Product Month Designator, MASS/FASTforward (FF) System Identifier, Manufacturer Code, and Rate Marking information. The Product Month Designator is the first character position and represents the product month of the ZIP+4 file installed with the system's lookup engine responsible for the ZIP+4 assignment. Each product month is designated by a character “A” through “L” (with “A” meaning January, “B” meaning February, etc.). The MASS/FF System Identifier is characters 2 through 4 and represents the certified system identifier responsible for the ZIP+4 assignment. There is a one-to-one relationship between the certified system serial number and the assigned identifier. The Manufacturer Code is the fifth character and is assigned at the manufacturer's discretion with one exception; the character “Z” is assigned when the mailpiece contains a delivery point barcode in the address block and the MLOCR does not perform a lookup but simply reproduces the address block barcode. The Rate Marking is represented in the last two characters according to the chart below. The applicable marking must appear on each mailpiece in one of the locations authorized under M012.

a. First-Class Mail.

Rate marking: Letters | Rate marking: Flats | Rate and postage category
P1 | F1 | Barcoded 1-ounce Permit Imprint.
P2 | F2 | Barcoded 2-ounce Permit Imprint.
P3 | F3 | Barcoded 3-ounce Permit Imprint.
P4 | F4 | Barcoded 4-ounce Permit Imprint.
| F5 | Barcoded 5-ounce Permit Imprint.
| F6 | Barcoded 6-ounce Permit Imprint.
| F7 | Barcoded 7-ounce Permit Imprint.
| F8 | Barcoded 8-ounce Permit Imprint.
| F9 | Barcoded 9-ounce Permit Imprint.
| F10 | Barcoded 10-ounce Permit Imprint.
| F11 | Barcoded 11-ounce Permit Imprint.
| F12 | Barcoded 12-ounce Permit Imprint.
| F13 | Barcoded 13-ounce Permit Imprint.
M5 | MF | Barcoded 5-Digit Meter Postage Affixed.
M3 | MT | Barcoded 3-Digit Meter Postage Affixed.
MA | MD | Barcoded AADC Meter Postage Affixed.
MM | MX | Barcoded Mixed AADC Meter Postage Affixed.
MP | MP | Presorted Meter Postage Affixed.
S1 |  | Precanceled $0.15 Stamp Affixed (card).
S1 |  | Precanceled $0.23 Stamp Affixed.
S2 |  | Precanceled $0.25 Stamp Affixed.

b. Standard Mail (letters only).

Rate marking | Rate and postage category
PI | Barcoded Regular Permit Imprint.
NI | Barcoded Nonprofit Permit Imprint.
M5 | Barcoded 5-Digit Meter Regular Postage Affixed.
N5 | Barcoded 5-Digit Meter Nonprofit Postage Affixed.
M3 | Barcoded 3-Digit Meter Regular Postage Affixed.
N3 | Barcoded 3-Digit Meter Nonprofit Postage Affixed.
MA | Barcoded AADC Meter Regular Postage Affixed.
NA | Barcoded AADC Meter Nonprofit Postage Affixed.
MM | Barcoded Mixed AADC Meter Regular Postage Affixed.
NM | Barcoded Mixed AADC Meter Nonprofit Postage Affixed.
M8 | Presorted 3/5 Meter Regular Postage Affixed.
N8 | Presorted 3/5 Meter Nonprofit Postage Affixed.
M9 | Presorted Basic Meter Regular Postage Affixed.
N9 | Presorted Basic Meter Nonprofit Postage Affixed.
SR | Precanceled Regular Rate Stamp Affixed.
SN | Precanceled Nonprofit Stamp Affixed.

* * * * *

R Rates and Fees

The proposed rates and fees are printed at the end of this notice.

* * * * *

S Special Services

S000 Miscellaneous Services

S010 Indemnity Claims

* * * * *

2.0 GENERAL FILING INSTRUCTIONS

* * * * *

2.12 Payable Express Mail Claims

[Amend 2.12a and 2.12a(4) by replacing $500 with $100. No other changes to text.]

* * * * *

S020 Money Orders and Other Services

1.0 ISSUING MONEY ORDERS

* * * * *

1.2 Purchase Restrictions

A postal customer may buy multiple money orders at the same time, in the same or differing amounts, subject to these restrictions:

[Amend item 1.2a by increasing the maximum amount of a single money order from $700 to $1,000 to read as follows:]

a. The maximum amount of any single money order is $1,000.

* * * * *

S500 Special Services for Express Mail

1.0 AVAILABLE SERVICES

* * * * *

1.5 Insurance and Indemnity

Express Mail is insured against loss, damage, or rifling, subject to these standards:

* * * * *

[Amend 1.5c by changing “$500” to “$100” to read as follows:]

c. Merchandise insurance coverage is provided against loss, damage, or rifling and is limited to a maximum liability of $100. (Additional insurance under 1.6 may be purchased up to a maximum coverage of $5,000 for merchandise valued at more than $100.) Nonnegotiable documents are insured against loss, damage, or rifling, up to $100 per piece, subject to the maximum limit per occurrence as defined in S010.

* * * * *

1.6 Additional Insurance

[Amend the first sentence of 1.6 by replacing “$500” with “$100” to read as follows:]

Additional insurance, up to a maximum coverage of $5,000, may be purchased for merchandise valued at more than $100 sent by Express Mail. * * *

* * * * *

S900 Special Postal Services

S910 Security and Accountability

S911 Registered Mail

1.0 BASIC INFORMATION

* * * * *

[Redesignate 1.5 as 1.6. Add new 1.5 to read as follows:]

1.5 Service Option

Mailers can access delivery information on the Internet at www.usps.com by providing the article number of the registered mailpiece.

* * * * *

S912 Certified Mail

1.0 BASIC INFORMATION

* * * * *

[Redesignate 1.3 through 1.7 as 1.4 through 1.8, respectively, and add new 1.3 to read as follows:]

1.3 Service Option

Mailers can access delivery information on the Internet at www.usps.com by providing the article number of the certified mailpiece.

* * * * *

S915 Return Receipt

1.0 BASIC INFORMATION

* * * * *

[Redesignate 1.3 through 1.7 as 1.4 through 1.8, respectively, and add new 1.3 to read as follows:]

1.3 Service Option

Electronic return receipts are available to mailers who provide an e-mail address at the point of purchase, or preregister on the Internet at www.usps.com. The delivery date, time, ZIP Code, and a digitized image of the recipient's signature are sent automatically to the sender by secure e-mail after delivery of the mail (available Fall 2002).

* * * * *

2.0 OBTAINING SERVICE

* * * * *

2.2 After Mailing

[Amend the first paragraph of 2.2 to read as follows:]

The mailer may request a delivery record after mailing for Express Mail, certified mail, registered mail, COD mail, and mail insured for more than $50. When a delivery record is available, the USPS provides the mailer information from that record, including to whom the mail was delivered, the signature, and the date of delivery. The mailer requests a delivery record by completing Form 3811-A, paying the appropriate fee in R900, and submitting the request to the appropriate office as follows: * * *

* * * * *

[Delete 2.2b, redesignate item 2.2c as 2.2b, and revise to read as follows:]

b. For all other items, send the form to any post office.

[Redesignate 2.3 as 2.4 and add new 2.3 to read as follows:]

2.3 Internet Purchase of Return Receipt After Mailing

Return receipts after mailing will be available for purchase over the Internet at www.usps.com using a credit card. The mailer initiates the request and fills out the necessary information on the Internet. Once the request is made, delivery and signature information is sent to the mailer via fax or mail (available Fall 2002).

* * * * *

S918 Delivery Confirmation

1.0 BASIC INFORMATION

* * * * *

1.2 Eligible Matter

[Amend 1.2 by adding First-Class Mail parcels and limiting Package Services to parcels to read as follows:]

Delivery Confirmation service is available for First-Class Mail parcels, Priority Mail items, Standard Mail pieces subject to the residual shape surcharge (electronic option only), and Package Services parcels (electronic option only). For the purposes of adding Delivery Confirmation service, a First-Class Mail or Package Services parcel must meet the definition in C100.5.0 or C700.1.0, as appropriate.

* * * * *

S919 Signature Confirmation

1.0 BASIC INFORMATION

* * * * *

1.2 Eligible Matter

[Amend 1.2 by adding First-Class Mail parcels and limiting Package Services to parcels to read as follows:]

Signature Confirmation is available for First-Class Mail parcels, Priority Mail items, and Package Services parcels. For the purposes of adding Signature Confirmation service, a First-Class Mail or Package Services parcel must meet the definition in C100.5.0 or C700.1.0, as appropriate.

* * * * *

The proposed rate and fees that would be printed as the R Module follow:

BILLING CODE 7710-12-P

[FR Doc. 02-2177 Filed 1-29-02; 8:45 am]

BILLING CODE 7710-12-C